FEDERAL COMMUNICATIONS COMMISSION

47 CFR Parts 0, 27, 73, and 74

[MB Docket No. 22-227, FCC 22-73; FR ID 109687]

Establishing Rules for Full Power Television and Class A Television Stations

AGENCY: Federal Communications Commission.

ACTION: Notice of proposed rulemaking (NPRM).

SUMMARY: In this document, the Federal Communications Commission (Commission or FCC) seeks comment on comprehensively deleting, updating, or otherwise revising Commission rules for full power television and Class A television stations that no longer have any practical effect given the completion of the transition from analog to digital-only operations and the post incentive auction transition to a smaller television band with fewer channels. This NPRM also seeks comment on a restructuring of the Commission's full power television rules, which largely consist of the technical licensing, operating, and interference rules for full power television.

DATES:

Comment date: April 10, 2023.

Reply comment date: April 25, 2023.

ADDRESSES: You may submit comments, identified by MB Docket No. 22-227, FCC 22-73, by any of the following methods:

Federal Communications Commission's Website: https://apps.fcc.gov/ecfs/. Follow the instructions for submitting comments.

Mail: Office of the Secretary, Federal Communications Commission, 45 L Street NE, Washington, DC 20554.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Joyce Bernstein, Media Bureau, at Joyce.Bernstein@fcc.gov, Emily Harrison, Media Bureau, at Emily.Harrison@fcc.gov, or Mark Colombo, Media Bureau, at Mark.Colombo@fcc.gov.

SUPPLEMENTARY INFORMATION: Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

Paperwork Reduction Act of 1995 Analysis: This document proposes new or modified information collection requirements. The Commission, as part of its continuing effort to reduce paperwork burdens and pursuant to the Paperwork Reduction Act of 1995, Public Law 104-13, invites the general public and the Office of Management and Budget (OMB) to comment on these information collection requirements. In addition, pursuant to the Small Business Paperwork Relief Act of 2002, Public Law 107-198, see 44 U.S.C. 3506(c)(4), we seek specific comment on how we might further reduce the information collection burden for small business concerns with fewer than 25 employees.

Synopsis

Incorporation by Reference

The Commission's proposals are limited to the incorporation by reference of standards that are associated with full power and Class A television services. Incorporation by reference is the process that Federal agencies use when referring to materials published elsewhere to give those materials the same force and effect of law in the Code of Federal Regulations as if the materials' text had actually been published in the Federal Register. 5 U.S.C. 552(a)(1) and Office of the Federal Register, IBR Handbook 1 (July 2018), available at https://www.archives.gov/files/federal-register/write/handbook/ibr.pdf. By using incorporation by reference, the Commission gives effect to technical instructions, testing methodologies, and other process documents that are developed and owned by standards development organizations. Referencing these documents in the Commission's rules substantially reduces the volume of material that would otherwise be published in the Federal Register and the Code of Federal Regulations. It also permits the Commission to more efficiently implement future standards updates. Once the Commission completes any necessary notice-and-comment rulemaking proceedings and applies agency expertise to ensure that any standards adopted are sound and appropriate, the Commission need only update the references to the standards in its rules.

The following standards have previously been approved for IBR as specified in 47 CFR 73.8000: (i) ATSC A/52; (ii) ATSC A/53; Parts 1-4 and 6: 2007; (iii) ATSC A/53 Part 5: 2010; (iv) ATSC A/65C; (v) ATSC A/85:2013; (vi) ATSC A/321:2016; (vii) ATSC A/322:2017; and (viii) OET Bulletin No. 69: “Longley-Rice Methodology for Evaluating TV Coverage and Interference” (February 6, 2004); IBR approved for 47 CFR 73.616.

Background

The Commission proposes to adopt revisions to rules in part 0, part 27, subparts E, H, I, J, and L of part 73, and certain parts of parts 74 and 90 in light of the fact that all television services have ceased analog operations. Given the conversion from analog to digital television technology, we propose to eliminate entire rules and portions of rules that provide for analog-to-analog and analog-to-digital interference protection requirements and other analog operating requirements. We similarly propose to amend section headings and language in rules to remove references to DTV, digital, and analog television service, as these distinctions are no longer necessary. We also propose to delete outdated rules that are no longer valid given changes in Commission-adopted policy, such as the elimination of the comparative hearing process to award and renew broadcast licenses. We also propose to adopt other non-substantive, technical revisions as set forth in Appendix A and further described below, for example, to update previously-adopted station license periods and to delete obsolete rules governing the post-incentive auction transition period. We also propose to update our rules to reference the current designation for form numbers (e.g., FCC Form 2100) and by requiring electronic filing in the Commission's Licensing and Management System (LMS). We also propose to make corrections or updates, inter alia, to section headings, spelling, contact information, and rule cross-references, or to language inadvertently omitted from a rule.

Deletion of Obsolete Rules and Language Recognizing the Full Power and Class A Digital Transition

Full power television stations were required to terminate all analog operations no later than June 12, 2009 and Class A stations September 1, 2015. Accordingly, we propose to eliminate entire rules, and portions of rules, that provide for analog-to-analog and analog-to-digital interference protection requirements and other analog operating requirements from subpart E (Television Broadcast Stations), subpart H (Rules Applicable to All Broadcast Stations), subpart I (Procedures for Competitive Bidding and for Applications for Noncommercial Educational Broadcast Stations on Non-Reserved Channels), and subpart J (Class A Televisions Broadcast Stations). The rules we propose to amend are related to analog operations (i.e., rules that reference “NTSC,” “analog” (see 47 CFR 73.622(d)(1) (Digital television table of allotments) (removing text of this rule that refers to analog stations); 73.623(d) (removing analog technical references and reformatting remaining digital technical references into (d)(2)(i)-(iv) and (h) (DTV applications and changes to DTV allotments); 73.624(b) and (c)(3) (Digital television broadcast stations) (removing text of this rule that refers to analog stations); 73.683(d) (Field strength contours and presumptive determination of field strength at individual locations) (removing text of this rule that refers to analog stations); and 73.686(d) (Field strength measurements) (removing text of this rule that refers to analog stations). In addition, regarding § 73.5000(a) (Services subject to competitive bidding), we propose to delete the word “analog” where it is appears in the rule because there is no need to differentiate between analog and digital television services.), Grade A, Grade B, city grade contours, or F(50,50) curves (see 47 CFR 73.683(a)-(b) (Field strength contours and presumptive determination of field strength at individual locations); 73.1675(a)(1)(iii) (Auxiliary antennas) (delete analog contour and replace with digital noise limited contour); 73.5007(b)(2)(iii) and (b)(3)(iv) (Designated entity provisions); 73.6000 (Definitions); and 73.6010(b) (Class A TV station protected contour). The one exception is 47 CFR 73.626(f)(2)(i) (DTV distributed transmission systems), which states that the F(50,50) service contour of a DTS transmitter shall not extend beyond that of its reference facility, which will be retained. We separately propose to add text in 47 CFR 73.683(a) (Field strength contours and presumptive determination of field strength at individual locations) to provide guidance for those reviewing the cross-reference to this section found in 47 CFR 90.307(b) (Protection criteria)), with the corresponding digital contours defined in §§ 73.625(a), 73.622(e), 73.6010, and/or 74.792. As part of our reorganization of subpart E, we note that we propose to relocate 47 CFR 73.625(a) (Transmitter location) and 73.622(e) (DTV Service Areas) to new 47 CFR 73.618 and 73.619(c), respectively. We are not proposing to move § 73.6010 or § 74.792 as part of the reorganization. We note that NTSC is an abbreviation for the National Television Standards Committee, an association of engineers and scientists interested in the development of television in the analog era, many of which were employees of companies engaged in the manufacturing of television equipment, that developed the black and white and subsequently color television systems used in the United States. See generally Amendment of the Commission's Rules Governing Color Television Transmissions, Docket No. 10637, Report and Order, 41 F.C.C. 658 (1953). We also propose to amend rules that reference peak power, visual or aural carriers, or carrier frequencies because these are technical engineering terms related to analog television and the rules are related to analog television operations (see 47 CFR 73.653 (Operation of TV aural and visual transmitters); 73.664(a)-(c) (Determining operating power); 73.665 (Use of TV aural baseband subcarriers); 73.667 (TV subsidiary communications services); 73.669 (TV stereophonic aural and multiplex subcarrier operation); 73.681 (Definitions) (we propose to delete the following definitions relating to analog operations: “Aural center frequency;” “Aural transmitter;” “Baseband;” “Frequency departure;” “Frequency deviation;” “Frequency swing;” “Main channel;” “Multiplex Transmission (Aural);” “Peak power;” “Visual transmitter power”); 73.682(c) (TV transmission standards); 73.687(a), (b), (c) introductory text, (c)(1), and (e)(2) (Transmission system requirements); 73.688(a) (Indicating instruments); 73.691 (Visual modulation monitoring); 73.699 (TV engineering charts) Figure12 (Figure 12 is referenced only by 73.687(b), which we propose to delete); 73.1350(f)(3) (Transmission system operation); 73.1540(a) (Carrier frequency measurements); 73.1545(c), (e), and Note to (e) (Carrier frequency departure tolerances); 73.1560 (c)(1)-(2) (Operating power and mode tolerances); 73.1570 (updating section heading) and (b)(3) (Modulation levels: AM, FM, TV and Class A TV aural); 73.1635(a)(5) (Special temporary authorizations (STA)); and 73.6024(c) (Transmission standards and system requirements). We note that 47 CFR 73.653 was raised in the “FM6” proceeding (In the Matter of Amendments of Parts 73 and 74 of the Commission's Rules for Digital Low Power Television and Television Translator Stations, MB Docket No. 03-185, Fifth Notice of Proposed Rulemaking (rel. June 7, 2022), 87 FR 36440 (rel. June 17, 2022), and should dependence on this rule be required in that proceeding, we would intend to add a separate rule specific to FM6 stations rather than retain this generally-applicable but clearly outdated rule)) and digital TV signals do not have specific visual or aural carriers. See generally 47 CFR 73.682(d) (Digital broadcast television transmission standard); see also 47 CFR 73.8000 (Incorporation by reference) (each of the several standards listed in the rule relate to DTV). We similarly propose to amend rules and figures which reference the vertical blanking interval, stereophonic sound transmission, modulation, subcarriers of any kind, components of the picture such as chrominance or color, or the sound or picture itself beyond the lines of resolution. These references are technical engineering terms related to analog television operations since they are related to the picture derived from an analog visual carrier or the sound derived from an analog aural carrier. See 47 CFR 73.621(g) (Noncommercial educational TV stations—referencing Telecommunications Service on the Vertical Blanking Interval and in the Visual Signal); 73.646 (Telecommunications Service on the Vertical Blanking Interval and in the Visual Signal); 73.681 (Definitions) (proposing to delete definitions and the Note for “Amplitude modulation (AM);” “BTSC;” “Blanking level;” “Chrominance;” “Chrominance subcarrier;” “Color transmission;” “Field;” “Frame;” “Frequency modulation (FM);” “IRE standard scale;” “Luminance;” “Monochrome transmission;” “Multichannel Television Sound (MTS);” “Negative transmission;” “Percentage modulation;” “Pilot subcarrier;” “Program related data signal;” “Reference black level;” “Reference white level of the luminance signal;” “Scanning;” “Scanning line;” “Visual carrier frequency;” “Visual transmitter”); 73.699 (TV engineering charts) (Figures 5, 5(a), 6, 7, 8, 13, 14, 15, 16, and 17); 73.1207(b)(2) (Rebroadcasts—referencing multiplex subcarrier or telecommunications service on the vertical blanking interval); and 73.1590(a)(5) (“TV stereophonic or subcarrier transmission equipment”), (c)(1), and (c)(3) (Equipment performance measurements). Section 73.699, Figure 11 (Assumed Ideal Detector Output) is no longer referenced anywhere else in the rules, and appears to have been inadvertently overlooked during a 1984 rule modification which deleted the sole reference to it from § 73.687(a) (see 49 FR 48305, 48312 (Dec. 12, 1984)), and we thus propose to delete it. While 47 CFR 73.621(h) (Noncommercial educational TV stations), which refers to the transmission of non-program related data service on “Line 21,” does not specifically use the term “visual blanking interval,” “Line 21” refers to part of the vertical blanking interval, and thus we propose to delete it. To the extent such analog rules are superseded by related requirements for digital operations, the digital rules are found in the digital broadcast television standard documents incorporated by reference in § 73.682(d). In addition, a number of rules we propose to amend have a digital equivalent elsewhere in the rules. See § 73.613 (Protection of Class A TV stations) relates to analog because Class A protections for digital stations are in § 73.616(e), which we are proposing to move to § 73.620(d). Sections 73.682(a)(2)-(13) and (15)-(24) (TV transmission standards) are replaced by § 73.682(d). Section 73.684 (Prediction of coverage) is in § 73.625 (DTV coverage of principal community and antenna system), some of which we are proposing to move into other rule parts in the proposed reorganization of our rules; reference in § 73.681 updated accordingly. The digital equivalent of § 73.685(a)-(c) (Transmitter location and antenna system) is found in § 73.625(a)(1)-(3). The digital equivalent of § 73.685(f) (Transmitter location and antenna system) is contained in 73.625(c)(3), which applies also to §§ 73.1690(b)(3) and (c)(3) (Modification of transmission systems). The digital equivalent of § 73.687(e)(1) (Transmission system requirements) is replaced by § 73.622(h), which we are proposing to move to § 73.611. The digital equivalent of § 73.698 (Tables) is replaced by § 73.623(d)(2), which we are proposing to move to § 73.622(k). Section 73.3550(b) (Requests for new or modified call sign assignments) has a reference to § 74.783(d), but § 74.791(a) is the equivalent digital rule. Accordingly, we are proposing to replace the reference to 74.783(d) with 74.791(a). The digital equivalent of § 73.3572(a)(4) (Processing of TV broadcast, Class A TV broadcast, low power TV, TV translators, and TV booster applications) is replaced by § 74.787(a)(4). The digital equivalent of § 73.6012 (Protection of Class A TV, low power TV and TV translator stations) is found in §§ 73.6017 and 73.6019. The digital equivalent of § 73.6013 (Protection of DTV stations) is found in § 73.6018 (Digital Class A TV station protection of DTV stations). The digital equivalent of § 73.6014 (Protection of digital Class A TV stations) is found in § 73.6017. For all of these cases, we propose to either modify the analog reference to specify a digital equivalent, or delete the analog-related rule entirely. We seek comment on these proposals.

We also propose to amend rule section headings and rules in subpart E, subpart H, and subpart J, to remove references to DTV and digital television service since all television services have transitioned from analog to digital operations and thus, there is no further need to differentiate between two separate kinds of service. For subpart E, see 47 CFR 73.616(a)-(e) and (g) (Post-transition DTV station interference protection); 73.621(j) (Noncommercial educational TV stations); 73.622(a) introductory text and (a)(2) (also delete reference to out-of-core-channels), (c)(1), (e)(1), (f)(6), (f)(7), (f)(8) (also delete references to out-of-core channels) (Digital television table of allotments); 73.623 (updating section heading), (a)-(f) and (h); (DTV applications and changes to DTV allotments); 73.624 (updating section heading), (a)-(c) and (g) (Digital television broadcast stations); 73.625 (updating section heading), (a)(1), (b)(1), (b)(3), (c)(4)(i)-(ii) (DTV coverage of principle community and antenna system); 73.626 (updating section heading), (a), (c)(1), (e), (f)(2), (f)(6) (DTV distributed transmission systems); 73.686(e) (Field strength measurements). For subpart H, see 47 CFR 73.1201(b)(1) (Station identification). And for subpart J, see 47 CFR 73.6010(c) and (d) (Class A TV station protection contour); 73.6017 (Digital Class A TV station protection of Class A TV and digital Class A TV stations); 73.6018 (Digital Class A TV station protection of DTV stations); 73.6019 (Digital Class A TV protection of low power TV, TV translator, digital low power TV and digital TV translator stations); 73.6022(a) (Negotiated interference and relocations agreements); 73.6020 (Protection of stations in the land mobile radio service); 73.6023 (Distributed transmission systems); and 73.6024(d) (Transmission standards and system requirements). We also propose to amend § 73.6024(d) (Transmission standards and system requirements) to require stations in the Mexican border zone to specify a full-service emission mask in any modification applications requiring coordination. We also propose to eliminate provisions of rules and amend section headings and language that are obsolete due to the conversion from analog to digital television technology, including references to the analog television booster service in subpart E and subpart H, since these services were not carried over into digital operations. See Part 74 Order at para. 6 and n.24. For subpart E, see 47 CFR 73.622(d)(1)-(2), Note to (e)(2), (e)(3), (f)(5), (f)(6), (f)(7), and (f)(8) (Digital television table of allotments); 73.623(a)-(b), (c)(2), (c)(3), (c)(5), (d), and (h) (DTV applications and changes to DTV allotments); 73.624(a), (b)(1)-(2), (d)-(f) (refer to pre-DTV transition procedures) (Digital television broadcast stations); and 73.626(c)(2) (DTV distributed transmission systems). Section 73.622(c)(2) states that an application may be filed for a channel or community not specified in the DTV Table of Allotments (formerly § 73.622(b)) if it is consistent with the rules and policies established in Service Rules for the 746-764 and 776-794 MHz Bands, and Revisions to Part 27 of the Commission's Rules, WT Docket No. 99-168, Third Report and Order, 16 FCC Rcd 2703, 2717-18, paras. 34-36 (2001) (stating that the Commission would allow stations on channels 59 through 69 to enter into voluntary agreements to temporarily relocate to channels 52 through 58). Because § 73.622(b) has been deleted and channels 52 through 58 reallocated for non-broadcast use, we propose to delete this section of the rule. Similarly, we propose to delete the last five sentences of § 73.622(c)(1), which discuss procedures for filing applications for channel changes made in the deleted paragraph (b), DTV Table of Allotments, citing the MO&O on Reconsideration of the Sixth R&O, 13 FCC Rcd 7418, (1998), and analog channel swaps. For subpart H, see 47 CFR 73.1001(c) (Scope); 73.3521 (Mutually exclusive applications for low power television, television translators and television booster stations); 73.3525 (Note) (Agreements for removing application conflicts); 73.3533(a)(5) (Application for construction permit or modification of construction permit); 73.3584(a), (c) (Procedure for filing petitions to deny); 73.3572 (section heading, (a)(2), (c) and (f)-(g)) (Processing of TV broadcast, Class A TV broadcast, low power TV, TV translators, and TV booster applications); and 73.3598(a) introductory text (Period of construction). We propose to amend § 73.6026 (Broadcast regulations applicable to Class A television stations) to remove references to analog-only rules applicable to Class A television stations, consistent with proposals above. See 47 CFR 73.6026 (delete reference to § 73.635 (Use of common antenna site); 73.646 (Telecommunications Service on the Vertical Blanking Interval and in the Visual Signal); 73.653 (Operation of TV aural and visual transmitters); 73.665 (Use of TV aural baseband subcarriers); 73.667 (TV subsidiary communications services); 73.669 (TV stereophonic aural and multiplex subcarrier operation); and 73.691 (Visual modulation monitoring). As discussed infra, we propose to delete the rules related to the Subscription Television Service as unnecessary and no longer in use, and amend 47 CFR 73.664 (Determining operating power), to remove references to measurement techniques we believe no longer have any use in the processing of applications to determine interference to other stations or previously filed applications. We seek comment on these proposals.

We also propose to remove from certain part 74 rules inadvertent references to DTV and digital television service, overlooked in the Part 74 Order, since, with rare exception, all part 74 television services have transitioned from analog to digital operations and thus, there is no further need to differentiate between two separate kinds of service. See 47 CFR 74.792(b) (Low power TV and TV translator station protected contour); 74.793(e), (g)-(h) (Low power TV and TV translator station protection of broadcast stations); and 74.794 (section heading, paragraph (b) introductory text, (b)(1), and (b)(2) (Digital emissions). We also propose to delete the second sentence in 47 CFR 74.793(b) (Low power TV and TV translator station protection of broadcast stations), given the fact that we propose to delete the analog threshold interference levels in 47 CFR 73.623(c)(2) (DTV applications and changes to DTV allotments) and therefore there is no need to distinguish digital operations. We note that a small number of TV translator stations licensed to the State of Alaska (the Alaska translator stations) remain operating in analog pursuant to a Commission waiver of the analog termination date. See State of Alaska—Request for Waiver of Section 74.731(m) of the Commission's Rules, 36 FCC Rcd 10765 (2021); see also Letter to State of Alaska from Barbara A. Kreisman, Chief, Video Division (Jan. 26, 2022), a copy of which is available at LMS File Nos. 0000179529, 0000179531, 0000179528, 0000179535, 0000179536, 0000179527, 0000179526, 0000179534, and 0000179533; see also Letter to State of Alaska from Barbara A. Kreisman, Chief, Video Division (July 15, 2022), a copy of which is available at LMS File Nos. 0000194718, 0000194713, 0000194714, 0000194717, 0000194716, 0000194712, and 0000194715 (extending the tolling through October 3, 2022). We understand the licensee of these translator stations is actively transitioning and anticipates terminating analog service in the near future. In the event any of the Alaska translator stations have not completed their digital transition by the effective date of these rule changes discussed herein, we direct the Media Bureau to follow appropriate procedures to impose any necessary conditions on the station's authorization to continue analog operations.

We also propose to remove references to an element of the Table of Allotments that has been previously updated. Applicants for full power digital broadcast stations may only apply to construct on channels designated in a codified Table of Allotments and only in the communities listed therein. See 47 CFR 73.622(c)(1). To accommodate the analog to digital television transition, the Commission adopted § 73.622(b) (DTV Table of Allotments) in 1997 to allot a paired DTV channel to each analog television licensee and permittee. See 47 CFR 73.622(b) (2018) (DTV Table of Allotments); Advanced Television Systems and Their Impact Upon the Existing Television Broadcast Service, MM Docket No. 87-268, Sixth Report and Order, 12 FCC Rcd 14588 (1997) (Sixth Report and Order), Memorandum Opinion and Order on Reconsideration of the Sixth Report and Order, 13 FCC Rcd 7418 (1998) (MO&O on Reconsideration of the Sixth R&O). The Commission later deleted § 73.622(b), as well as the analog TV Table of Allotments previously found in § 73.606, when it adopted § 73.622(i) (Post-Transition Table of Allotment). See 47 CFR 73.622(i); Amendment of Parts 27, 54, 73, 74, and 76 of the Commission's Rules to Delete Rules Made Obsolete by the Digital Television Transition, MB Docket No. 17-105, Order, 33 FCC Rcd 863 (2018). The rules, however, continue to refer to “Appendix B,” which specified the service area that must be protected for each channel allotted in § 73.622(b) during most of the transition period, and set forth the maximum effective radiated power (ERP) and antenna height above average terrain (HAAT) for each allotment in the “initial” DTV table, i.e., § 73.622(b). We therefore propose to remove references to “Appendix B” in our rules. Appendix B, and a description of its use and contents, is in the Sixth Report and Order, 12 FCC Rcd at 14693-754. Corrections were made to Table 2 of Appendix B in the MO&O on Reconsideration. We note that § 73.622(f)(3)(i) and (ii) both refer to policies specific to Appendix B, and thus propose to delete them. We seek comment on these proposals.

We propose to amend § 73.612 to remove references to distance separations, which outside of new allotment proceedings are not used in digital TV. See 47 CFR 73.612(a)-(b) and Note (Protection from interference). This rule is obsolete, as TV stations are now protected using OET Bulletin No. 69. See 47 CFR 73.616(d) (Post-transition DTV station interference protection). We propose to delete § 73.615 because the Commission staff's current practice provides additional precision beyond what the text of the current rule requires since the staff now issues authorizations based on the more precise kW value as opposed to dBk and does not round HAAT values as described in this rule. See 47 CFR 73.615 (Administrative changes in authorizations). For example, a station authorized at 30 dBk (decibels above 1 kW) would operate at 1000 kW, while a station at 29.9 dBk consistent with the current rule would operate at approximately 977 kW. The Media Bureau (Bureau), however, authorizes stations today based on kW, allowing a station to be authorized at an intermediate value such as 990 kW. The Bureau's current practice therefore provides more precision. For the same reason, we propose to remove the dBk reference in § 73.614(a) (Power and antenna height requirements). We propose to delete § 73.622(g)(2), which pertains to protection of analog TV signals by an upper-adjacent digital signal. See Advanced Television Systems and Their Impact Upon the Existing Television Broadcast Service, MM Docket No. 87-268, Memorandum Opinion and Order on Reconsideration of the Sixth Report and Order, 13 FCC Rcd 7418, 7467, para. 120 (1998). We propose to delete § 73.1620(f) (Program tests) since it refers to a policy of allowing 1000 watt UHF translators on vacant allotments, a policy which was ended prior to 1984 (see Low Power Television and Television Translator Service, MM Docket No. 83-1350, Report and Order, 102 F.C.C.2d 295, 311 (1984) (indicating that § 73.3516(c) should have been modified at the time when LPTV rules were adopted, which is the rule part that 73.1620(f) refers to), and to delete from § 73.6024(b) (Transmission standards and system requirements) a reference to § 74.736, as that section was recently eliminated by the Commission in the Part 74 Order. See Part 74 Order. We also propose to delete §§ 73.685(g) (Transmitter location and antenna system) and 73.6025(b) (Antenna system and station location) because these rules were adopted many decades ago for the analog era and are not relevant to or used in the digital environment. See 28 FR 13572, 13678-79 (rel. Dec. 14, 1963) (§ 73.685 (1963)). We seek comment on these proposals.

Updates and Corrections to the Full Power and Class A Rules

We also propose to make other updates and corrections to the full power and Class A rules. We propose to update the reference to the 2000 census population data found in § 73.616(d)(1) to reflect a reference to the most recent official decennial U.S. Census population data, which conforms paragraph (d)(1) to the language in § 73.616(e)(1). See 47 CFR 73.616(d)(1) (Post-transition DTV station interference protection). This language was inadvertently not included in paragraph (d)(1). See Authorizing Permissive Use of the “Next Generation” Broadcast Television Standard, GN Docket No. 16-142, Notice of Proposed Rulemaking, 32 FCC Rcd 1670, 1696-97, para. 59 (2017) (in proposing to adopt § 73.616(e)(1), the Commission stated that “[w]e propose to update the Commission's rules regarding acceptable levels for interference resulting from a broadcaster's application for new or modified facilities”); Authorizing Permissive Use of the “Next Generation” Broadcast Television Standard, GN Docket No. 16-142, Report and Order and Further Notice of Proposed Rulemaking, 32 FCC Rcd 9930, 9986-88, para. 114 (2017) (in adopting the rule, the Commission stated that “[a]fter the repacking process is complete, any broadcast television service or interference calculations will be based on the 2010 U.S. Census statistics, until after 2020, when the next U.S. Census statistics are scheduled to become available and the Media Bureau subsequently announces the date of application of such data”). We also propose to make a similar revision in 47 CFR 73.686(c)(1)(i) to conform the rule to 47 CFR 73.616. As part of our reorganization, we propose to relocate § 73.616(d) (Post-transition DTV station interference protection) into a new § 73.620. We propose to amend references to the “Table of Allotments” in § 73.622(j) to the “Table of TV Allotments” in all places where it is referenced in subpart E (see 47 CFR 73.622 (section heading and (a)) (Digital television table of allotments); 73.623(d), (f), and (h) (DTV applications and changes to DTV allotments)) and in subpart H, for continuity. See 47 CFR 73.1015 (Truthful written statements and responses to Commission inquiries and correspondence). We also propose to update the reference to FM Table of Allotments to “Table of FM Allotments” in 47 CFR 73.1015 to reflect the name of the table in 47 CFR 73.202(b). We propose to amend § 73.622(j) to reflect a channel substitution previously adopted upon notice and comment rulemaking that was adopted shortly before the current version of the Table of TV Allotments was adopted. On June 12, 2021, the Media Bureau issued a Notice of Proposed Rulemaking in response to a petition filed by KTUL Licensee, LLC, the licensee of KTUL, Tulsa, Oklahoma, requesting the substitution of channel 14 for channel 10 at Tulsa in § 73.622(i), the DTV Table of Allotments. Amendment of Section 73.622(i), Post-Transition Table of DTV Allotments, Television Broadcast Stations (Tulsa, Oklahoma), MB Docket No. 21-9, Notice of Proposed Rulemaking, 36 FCC Rcd 157 (Vid. Div. 2021) (Tulsa NPRM). In the Tulsa NPRM, the Bureau noted that the Commission had completed the incentive auction and broadcast television spectrum repacking authorized by the Spectrum Act and that the Bureau would amend the rules to reflect all new full power channel assignments in a revised Table of Allotments. Because the Table had not yet been amended, however, the Bureau continued to refer to § 73.622(i) for the purpose of the Tulsa proceeding. Id. at 157, n.1. The Bureau adopted a Report and Order amending § 73.622(i) to substitute channel 14 at Tulsa, Amendment of Section 73.622(i), Post-Transition Table of DTV Allotments, Television Broadcast Stations (Tulsa, Oklahoma), MB Docket No. 21-9, Report and Order, DA 21-1161 (rel. Sept. 16, 2021), and shortly thereafter the Commission adopted the Table of TV Allotments, which superseded § 73.622(i). October 2021 Order at para. 8. The amendment to § 73.622(j) reflects this channel substitution. We propose to amend certain rules in subpart E to add common abbreviations used elsewhere in the Commission's rules and forms. See, e.g., 47 CFR 73.614(a) (adding abbreviations for “ERP” and “HAAT”) (Power and antenna height requirements); and 73.625(a)(1) (adding abbreviations for “ERP” and “HAAT”) (DTV coverage of principal community and antenna system). We propose to amend certain rules in subpart H and subpart I to provide full power and Class A licensees and permittees with accurate information about current Commission forms and filing procedures, including the removal of obsolete forms. See 47 CFR 73.1250(e) (Broadcasting emergency information); 73.1350(h) (Transmission system operation); 73.1560(a)(1) and (d) (Operating power and mode tolerances); 73.1615(c) (Operation during modification of facilities); 73.1620(a)(1)-(3) (Program tests); 73.1635(a)(2)-(3) (Special temporary authorizations (STA)); 73.1675(b) (Auxiliary antennas); 73.1690(b) and (c)(3) (Modification of transmission systems); 73.1740(a)(4) (Minimum operating schedule); 73.1750 (Discontinuance of operation); 73.2080(c)(6) and (f) (deleting the references to obsolete Form 397 and updated the names of forms) (Equal employment opportunities (EEO)); 73.3500 (Application and report forms); 73.3533(a)(1) and (a)(4)-(a)(7) (Application for construction permit or modification of construction permit); 73.3536(b)-(c) (Application for license to cover construction permit); 73.3540(c)-(f) (Application for voluntary assignment or transfer of control); 73.3541(b) (Application for involuntary assignment of license or transfer of control); 73.3544(b)-(c) (Application to obtain a modified station license); 73.3578(b) (Amendments to applications for renewal, assignment or transfer of control); 73.3587 (Procedure for filing informal objections); 73.3549 (Requests for extension of time to operate without required monitors, indicating instruments, and EAS encoders and decoders); 73.3550(a) and (j) (also adding “-DT” suffix in (a), (f), (k), and (m) (Requests for new or modified call sign assignments). The Commission has acknowledged the use of the “-DT” suffix in prior rulemakings. In 2004, the Commission permitted stations simulcasting their analog programming on their digital channel to make station identification announcements simultaneously for both stations as long as the identification included both call signs “(e.g., “WXXX-TV and WXXX-DT”).” See Second Periodic Review of the Commission's Rules and Polices Affecting the Conversion to Digital Television, MB Docket No. 03-15, Report and Order, 19 FCC Rcd 18279, 18355, para. 173 (2004) (subsequent citations omitted) (Second Periodic Review); see also Digital Transition Call Sign Procedures, Public Notice, 24 FCC Rcd 7617 (MB 2009). We also propose to update 47 CFR 73.3598(c) (Period of construction); 73.5005(a) (Filing of long-form applications); and 73.5006(b) (Filing of petitions to deny against long-form applications). We note that the numbering of our forms has changed with the transition of the Commission's broadcast licensing database from the Consolidated Database System (CDBS) to the Licensing and Management System (LMS).

We propose to update § 73.1030 to reflect updated contact information for the National Radio Astronomy Observatory site and the Radio Frequency Management Coordinator. See 47 CFR 73.1030(a)(1) and (b)(2) (Notifications concerning interference to radio astronomy, research and receiving installations). We propose to delete § 73.682(a)(1) as duplicative of § 73.624(a) and thus, unnecessary. See 47 CFR 73.682(a)(1) (TV transmission standards) and 47 CFR 73.624(a) (Digital television broadcast stations) (both noting the width of a television channel is 6 MHz). We seek comment on these proposals.

We also propose to make amendments to correct typographical errors in words and cross-references that contain incorrect rule citations. 47 CFR 73.616(e)(1) (Post-transition DTV station interference protection); 73.622(c)(1) (Digital television table of allotments); 73.623(c)(5)(iii), (d)(1), (d)(4) (DTV applications and changes to DTV allotments); 73.624(g) (Digital television broadcast stations); 73.625(c)(5) (cites to 73.622(f)(4) which is irrelevant to electrical beam tilt) (DTV coverage of principal community and antenna system); 73.626(c)(2) (DTV distributed transmission systems); 73.681 (definition for “Antenna height above average terrain” corrected to update rule cross-reference) (Definitions); 73.682(d) (TV transmission standards); 73.683(c)(3) (Field strength contours and presumptive determination of field strength at individual locations); 73.1217 (Broadcast hoaxes); 73.1250 (Broadcasting emergency information); 73.1615(b)(3) (Operation during modification of facilities); 73.1690(b)(3) and (c)(3) (Modification of transmission systems); 73.3550(b) and (i) (Requests for new or modified call sign assignments); 73.5007(b)(3)(v) (Designated entity provisions); 73.3578(b) (Amendments to applications for renewal, assignment or transfer of control); 73.6018 (Digital Class A TV station protection of DTV stations); 74.793(g) (Low power TV and TV translator station protection of broadcast stations); and 73.4060(a) (Citizens agreements). We propose to delete repetitive language within a rule. See 47 CFR 73.623(e) (DTV applications and changes to DTV allotments). We also propose to revise § 73.682(d) to break the existing paragraph into paragraphs, without altering its content, in order to make the paragraph more accessible to licensees and the public. See proposed 47 CFR 73.682(d)(1)-(4) (TV transmission standards). We also propose to remove citations to sections of the Communications Act in proposed § 73.682(d)(3)(ii) relating to the organization and functions of the Commission that we believe were inadvertently included in the rule, as well as the physical address of ATSC in favor of solely providing an updated web address (https://www.atsc.org/documents/atsc-1-0-standards/). We also propose to update the physical address of ATSC in 47 CFR 73.8000 (Incorporation by reference). In addition, we propose to eliminate notes to rules and shift the language into the text of the relevant rule to conform to the publishing conventions of the Administrative Committee of the Federal Register. See 47 CFR 73.682 (TV transmission standards); 73.1216 (Licensee-conducted contests); 73.1217 (Broadcast hoaxes); and 73.3525 (Agreements for removing application conflicts). We seek comment on these proposals.

We propose to delete § 73.685(e) (Transmitter location and antenna system) because it is redundant with § 73.625(c)(2) (antenna system), and contains certain requirements regarding directional antennas which are no longer in use. We propose to delete § 73.622(f)(2) as obsolete, since all applications are now evaluated for interference using OET Bulletin No. 69. See 47 CFR 73.622(f)(2) (Digital television table of allotments). See also 47 CFR 73.616(d) (Post-transition DTV station interference protection), which requires applications to pass an analysis with OET Bulletin No. 69. We also propose to delete § 73.6027 as duplicative and unnecessary. That rule provides that Class A television station must comply with § 73.1030 of the rules. See 47 CFR 73.6027 (Class A TV notifications concerning interference to radio astronomy, research and receiving installations). Section 73.1030, however, is already applicable to Class A stations. See 47 CFR 73.1030 (Notifications concerning interference to radio astronomy, research and receiving installations). Class A licensees are required to comply with all part 73 regulations except for those that cannot apply for technical or other reasons. Establishment of a Class A Television Service, MM Docket No. 00-10, Report and Order, 15 FCC Rcd 6355, 6365, para. 23 (2000) (Class A Report and Order). We also propose to place a reference to § 73.1030 in § 73.6026 (Broadcast regulations applicable to Class A television stations), which lists rules that apply to Class A by reference. We similarly propose to delete the last sentence of 73.6020 (Protection of stations in the land mobile radio service) with respect to land mobile radio service (LMRS) operations on channel 16 in New York, as it is duplicative of the reference to § 74.709 in the first sentence of 73.6020, since § 74.709 requires protection of channel 16 in New York. We also propose to streamline § 73.6000 by amending the rule, after deleting the analog content, to simplify and shorten the language without further altering the meaning or content. See 47 CFR 73.6000 (Definitions—because we propose to delete paragraph (1) supra, we propose to delete the number (2), but retain the text). We seek comment on these proposals.

We also seek to add an explanatory note to § 73.623 to reference and explain the existence of a granted waiver with respect to the community of Los Angeles, California. See 47 CFR 73.623 (DTV applications and changes to DTV allotments). A similar explanatory note was added to § 74.709 in the Commission's Part 74 Order at para. 8. Section 73.623 requires television stations to protect certain channels for use by LMRS in thirteen U.S. cities listed in the rule. In 2008, the Commission's Public Safety and Homeland Security Bureau (PSHSB) granted a waiver pursuant to § 337(c) of the Communications Act, as amended, allowing the County of Los Angeles to use channel 15 in Los Angeles for public safety communications. See Request for Waiver of the Commission's Rules to Authorize Public Safety Communications in the 476-482 MHz Band (County of Los Angeles, California), Order, 23 FCC Rcd 18389 (PSHSB 2008). Because this channel is adjacent to two channels contained in § 73.623, we believe the public interest is served by including a note explaining the existence of the 2008 waiver. We seek comment on these proposals.

Post-Incentive Auction Licensing and Operation (§ 73.3700)

Section 73.3700(a)(2) includes licensing and procedural rules for television stations during the post-incentive auction transition. The incentive auction closed on April 13, 2017 (Incentive Auction Closing and Channel Reassignment Public Notice: The Broadcast Television Incentive Auction Closes; Reverse Auction and Forward Auction Results Announced; Final Television Band Channel Assignments Announced; Post-Auction Deadlines Announced, GN Docket No. 12-268, Public Notice, 32 FCC Rcd 2786 (WTB/MB 2017) (Channel Reassignment Public Notice), and thus, we propose to amend § 73.3700(a)(2) to add the citation to the Channel Reassignment Public Notice that was released by the Commission's Media and Wireless Telecommunications Bureaus and Incentive Auction Task Force announcing the completion of the auction and deadlines for stations assigned new channels through the repacking process to terminate operations on pre-auction channels. See 47 CFR 73.3700(a) (Definitions), and (a)(2) (Channel reassignment public notice). We also propose to delete as obsolete certain definitions that relate to the bid options that were available to full power and Class A television broadcasters eligible to participate in the incentive auction that closed on April 13, 2017. See 47 CFR 73.3700(a) (Definitions), (6) (High-VHF-to-Low-VHF station), (7) (License relinquishment station), and (17) (UHF-to-VHF station). We also propose to delete as obsolete procedural rules that governed the post-incentive auction period for stations to transition off their pre-auction channel, which ended on July 13, 2020, including the portions of the rule pertaining to the special post-incentive auction displacement filing window which closed on June 1, 2018 and applied to low power television and television translator stations displaced by the auction. See 47 CFR 73.3700(b) (Post-auction licensing), (c) (Consumer education for transitioning stations), (d) (Notice to MVPDs), and (g) (Low Power TV and TV translator stations).We retain those portions of the rule pertaining to the small number of stations that are still engaged in constructing final facilities on their post-auction channel assignments and to the TV Broadcaster Relocation Fund. See 47 U.S.C. 1452(j)(1)(A)-(B); see also Incentive Auction Task Force and Media Bureau Report on the Status of the Post-Incentive Auction Transition and Reimbursement Program; Announce a Further Allocation from the Relocation Fund; and Announce Procedures for Eligible Entities to Close Out Accounts in the Fund, Public Notice, 34 FCC Rcd 304, 312, para. 26 (2019); Expanding the Economic and Innovation Opportunities of Spectrum Through Incentive Auctions, Report and Order, 29 FCC Rcd 6567, 6825-26, paras. 632-36 (2014). We seek comment on these proposals.

Updates to Listing of FCC Policies

Sections 73.4000 et seq provide certain FCC policies and citations related to all broadcast stations for the purpose of reference and convenience. Section 73.4000 addresses the fact that the present listing of FCC policies and citations contained in 73.4000 et seq may not be an all-inclusive list. We propose to also include cautionary language in the rule to note that subsequent decisions or actions may exist. We seek comment on this proposal. We also propose to amend a number of rules in §§ 73.4000 et seq that are now obsolete or otherwise require updates. For instance, the Commission no longer uses comparative hearings to award commercial broadcast licenses so § 73.4082 related to such proceedings is obsolete. See 47 CFR 73.4082 (Comparative broadcast hearings—specialized programming formats). The Commission no longer resolves mutually exclusive broadcast applications through comparative hearings but rather now uses competitive bidding procedures. See 47 CFR 73.5000 et seq (procedures for competitive bidding); Implementation of Section 309(j) of the Communications Act; Competitive Bidding for Commercial Broadcast and Instructional Television Fixed Service, MM Docket No. 97-234, First Report and Order, 13 FCC Rcd 15920 (1998) (subsequent citations omitted) (Competitive Bidding First R&O). We propose to remove or update rules that implicate audio services that are obsolete or require updates. Section 73.4017 is proposed to be removed because these policies have been replaced by competitive bidding procedures in §§ 73.5000-73.5009. See 47 CFR 73.4017 (Application processing: Commercial FM stations); 47 CFR 73.5000-73.5009; Competitive Bidding First R&O, at 15972, para. 137 (1998). Section 73.4100 and § 73.4101 are proposed to be retained and amended to add a more recent policy pronouncement from 1981 and 1987. See 47 CFR 73.4100 (Financial qualifications; new AM and FM stations) and 73.4101 (Financial qualifications, TV stations); Revision of Application for Construction Permit for Commercial Broadcast Station (FCC Form 301), Memorandum Opinion and Order, 50 R.R.2d 381, para. 6 (1981) and Certification of Financial Qualification by Applicants for Broadcast Station Construction Permits, Public Notice, 2 FCC Rcd 2122 (1987). Section 73.4107 is proposed to be eliminated as the cited documents refer to a completed proceeding. All of the cited documents concern the rollout and implementation of Docket 80-90 and the 689 FM allotments adopted therein. The allotments have been established, the proceeding is terminated, and we believe there is no public interest served by listing the cited documents in the policy statement. See 47 CFR 73.4107 (FM broadcast assignments, increasing availability of). We also propose to eliminate § 73.4108 because this requirement was eliminated for FM stations. See 47 CFR 73.4108 (FM transmitter site map submissions); 1998 Biennial Regulatory Review—Streamlining of Mass Media Applications, Rules, and Processes, MM Docket Nos. 98-43 and 94-149, Report and Order, 13 FCC Rcd 23056, 23082, para. 60 (1998) (rejecting the suggestion that the Commission continue to require the filing of site maps, finding it to be an “unnecessary expense for applicants” “in most instances”). And we propose to update rules to reflect the availability of newer versions of procedures and Commission orders. See 47 CFR 73.4210 (Procedure Manual: “The Public and Broadcasting”) (The rule is tentatively updated to reflect a newer version of the procedure manual, which is available at: https://www.fcc.gov/media/radio/public-and-broadcasting); 73.4267 (Time brokerage) (The revisions to the rule propose to remove outdated citations and add citations to reflect current policy). See Review of the Commission's Regulations Governing Attribution of Broadcast and Cable/MDS Interests, MM Docket Nos. 94-150, 92-51, 87-154, Report and Order, 14 FCC Rcd 12559 (1999). See also 47 CFR 73.3555, Note 2(j). We also propose to update certain rules to reflect the subsequent passage of legislation and the later Commission revision of the relevant policy. See 47 CFR 73.4055 (Cigarette advertising) (tentatively updated to reflect that in 1986, Congress extended the ban to include advertisements for smokeless tobacco products. See 15 U.S.C. 4402(c)). We seek comment on these proposals.

Deletion of Obsolete Language Due to Passage of Time and Changes in Commission Policy

The Class A television service was authorized by passage of the Community Broadcasters Protection Act of 1999 (CBPA), pursuant to which eligible LPTV stations could obtain partial qualified primary status. See Community Broadcasters Protection Act of 1999, Public Law 106-113, 113 Stat. Appendix I at pp. 1501A-594—1501A-598 (1999), codified at 47 U.S.C. 336(f) (CBPA). The CBPA was enacted on December 31, 1999, and in implementing the Act in 2000, the Commission gave eligible stations until May 1, 2000, to file an application for a Class A license. Class A Report and Order; Memorandum Opinion and Order on Reconsideration, 16 FCC Rcd 8244 (2001). Stations that were authorized or applications that were no longer subject to the filing of competing applications prior to passage of the CBPA were not required to protect analog LPTV stations that became Class A stations with passage of the CBPA on November 29, 1999. All of the LPTV stations that became analog Class A stations and are still operating are now digital Class A stations. Accordingly, this note to § 73.613(a) is now obsolete and we propose to delete it. See 47 CFR 73.613 (Note to 73.613(a)) (Protection of Class A TV Stations). Section 73.6018 provides, in part, that Class A television stations were required to protect any pre-transition DTV applications filed before December 31, 1999, or between December 31, 1999 and May 1, 2000. Because the time for filing such pre-transition DTV applications is long past and none remain pending, we tentatively conclude that we should delete this language. See 47 CFR 73.6018 (Digital Class A TV protection of DTV stations). We also propose to delete references to digital and DTV. In addition, now that May 1, 2000 is past, the final sentence in 73.623(c)(5) is rendered obsolete through the passage of time and we propose to delete it. 47 CFR 73.623(c)(5) (DTV applications and changes to DTV allotments). We believe this deletion is further supported by the fact that the Commission previously stated “Section 73.623 is amended by revising paragraph (a) as follows and deleting paragraphs (c) and (g).” (emphasis added). This was also reflected in the Federal Register publication, 86 FR 66193 (Nov. 22, 2021), which states “Section 73.623 is amended by revising paragraph (a) and by removing and reserving paragraphs (c) and (g).” (emphasis added). 86 FR 66193, 66209 (Nov. 22, 2021). While references to the section were deleted, the paragraph remains in the rules. We seek comment on these proposals.

Section 73.6019 provides, in part, that Class A stations that were reassigned a new channel in connection with the incentive auction were not required to protect low power television or TV translator stations in the applications they filed for a construction permit for the channel specified in the April 13, 2017 Channel Reassignment Public Notice. 47 CFR 73.6019 (Digital Class A TV station protection of low power TV, TV translator, digital low power TV and digital TV translator stations), citing § 73.3700(b)(1). Those applications were required to be filed by July 12, 2017, absent a waiver. Channel Reassignment Public Notice, 32 FCC Rcd at 2809, para. 70. Such waiver requests were required to be submitted no later than June 12, 2017 and all such requests have been disposed of in decisions that are now final. Id. Thus, we propose to delete that portion of the rule as obsolete. We seek comment on this proposal.

Section 73.6022 provides that Class A stations displaced by channel allotment changes by a DTV station could negotiate to exchange channels with the DTV station, subject to certain conditions. 47 CFR 73.6022 (section heading and (b)) (Negotiated interference and relocation agreements). Class A stations were subject to displacement only as the result of “engineering solutions” by full power television stations to resolve “technical problems” in replicating or maximizing the full power television station's digital service area during the digital transition. See Freeze on the Filing of Applications for Digital Replacement Translator Stations and Displacement Applications, Public Notice, 29 FCC Rcd 6063 (2014), citing Class A Report and Order, 15 FCC Rcd at 6380-81, paras. 61-64 (subsequent citations omitted). Because the digital transition is complete, any such displacements were necessarily already identified and resolved. Accordingly, we tentatively conclude that we should delete paragraph (b) of the rule as obsolete. We seek comment on that tentative conclusion.

We also propose to amend § 73.1020(a) to delete dates in the past and include the applicable dates for future license renewal cycles. Section 73.1020(a) provides, in part, the default time of expiration for initial and renewal broadcast licenses by state. Specifically, the default time of expiration for such licenses will be 3 a.m., local time, on certain enumerated dates and thereafter at 8-year intervals for radio and TV broadcast stations depending on location. Because the dates specified in the current rule for filing such renewal applications are now in the past, we propose to amend the rule to update the license expiration dates for the next renewal cycle. We seek comment on that proposal. In addition, we propose to remove as obsolete language from § 73.1020(b) that refers to the cutoff date for the filing of applications mutually exclusive with renewal applications that are filed on or before May 1, 1995 and no such applications are on file. See 47 CFR 73.1020(b) (Station license period). See also Reading Broadcasting, Inc., for Renewal of License of Station WTVE(TV), Channel 51 Reading, Pennsylvania and Adams Communications Corporation, for Construction Permit for a New Television Station to Operate on Channel 51, Reading, Pennsylvania, MM Docket No. 99-153, 17 FCC Rcd 14001, para. 1 (2002) (In this decision, the Commission explained that it was “dispos[ing] of the last remaining “comparative renewal” proceeding, in which an incumbent licensee faces a comparative challenge from a construction permit applicant for the same facilities. Congress, by Act of February 8, 1996, Public Law 104-104, 110 Stat. 56, codified as 47 CFR 309(k)(4), prohibited the comparative consideration of renewal applicants filed after May 1, 1995.”). We seek comment on this proposal.

Similarly, we propose to remove as obsolete due to the passage of time § 73.3598(b)(3), which provides that the period of construction for an original construction permit will toll for certain reasons of international coordination during the DTV transition, which is now complete. We propose to delete language in proposed § 73.682(d)(1) that specifies that digital standards incorporated by reference into the Commission rules became effective October 11, 2011, as the specific start date is now obsolete. See proposed § 73.682(d)(1) (TV transmission standards). We also delete references to DTV and digital. We also propose to remove as obsolete the portion of § 73.3572(a)(3) that provided a window that expired October 1, 2000 for certain proposed minor change applications. We also propose to delete provisions that reference the comparative hearing process, which no longer exists. See 47 CFR 73.1620 (Program tests) (g)(1)-(3) (Reports required); 73.3519(a) (Repetitious applications) (the last sentence of paragraph (a) that applicants whose applications have been denied in a comparative hearing may apply immediately for another available facility); and § 73.4082 (Comparative broadcast hearings—specialized programming formats). We also propose to delete § 73.3523, the first sentence of § 73.3516(e), and the second sentence of § 73.3516(e)(1), which deal with obsolete procedures regarding mutually exclusive proceedings for renewal applications filed prior to May 1, 1995. We also propose to delete the first clause of 47 CFR 73.3525(a) (Agreements for removing application conflicts), which cross-references § 73.3523. In addition, we propose to delete the second sentence of § 73.3533(b), which discusses an obsolete procedure for filing construction permit extension applications. Specifically, that rule refers to § 73.3534, which specified three factors that could justify an extension of a construction permits. See 47 CFR 73.3534. See also Application of Mansfield Christian School, 10 FCC Rcd 12589, 12590, para. 5 (1995). That section, however, was deleted in 2004. See 69 FR 72043 (Dec. 10, 2004). We seek comment on these proposals.

We propose to delete obsolete language in § 73.664(c)(3)(iii) concerning the certification of equipment. The FCC no longer “type accepts” equipment, having overhauled the process to allow private parties to verify such equipment meets FCC requirements, and the results of such verifications do not need to be submitted to the FCC. See 47 CFR 73.664(c)(3)(iii) (Determining operating power). Currently, there are two procedures used for RF device equipment authorization: SDoC and Certification. See 47 CFR 2.906 (Supplier's Declaration of Conformity) and 2.907 (Certification); see also Office of Engineering & Technology (OET), Equipment Authorization, https://www.fcc.gov/engineering-technology/laboratory-division/general/equipment-authorization (last visited Aug. 9, 2022). On July 14, 2017, the Commission amended its radiofrequency equipment authorization rules. Amendment of Parts 0, 1, 2, 15, and 18 of the Commission's Rules Regarding Authorization of Radiofrequency Equipment, ET Docket No. 15-170, First Report and Order, 32 FCC Rcd 8746 (2017) (SDoC Order). The adopted rules phased out the Verification and Declaration of Conformity equipment authorization procedures and replaced them with a new equipment authorization procedure, the SDoC. Federal Communications Commission, Authorization of Radiofrequency Equipment, 82 FR 50820 (Nov. 2, 2017). A device authorized under previously accepted procedures remains authorized and may be marketed or used if it continues to meet the requirements attendant to that authorization. We also propose to modify text throughout § 73.664 in order to remove references to analog operations such as references to the visual transmitter and to peak power. We propose to retain the remainder of this section that continues to provide important information for measuring transmitter operating power even in the post-transition context. We similarly propose to retain § 73.688 while removing similar references to the visual transmitter. We seek comment on these proposals.

We propose to delete §§ 27.60 (TV/DTV interference protection criteria) and 27.1310 (Protection of Broadcast Television Service in the 600 MHz band from wireless operations), which concern the protection of TV stations on certain channels by wireless services. All of these protections are for channels above channel 37, and thus are no longer relevant because the completion of the digital TV transition and the incentive auction and repacking process reassigned channels in that range for wireless use. We seek comment on this proposal.

Reorganization of Subpart E—Television Broadcast Stations

Full power television began to transition to digital with the passage of the Telecommunications Act of 1996, and ended on June 12, 2009, when full power television stations commenced digital-only operations. See Advanced Television Systems and Their Impact upon the Existing Television Broadcast Service, MM Docket No. 87-268, 12 FCC Rcd 12809 (1997) (Implementing television broadcast portions of the Telecommunications Act of 1996) (subsequent citations omitted); see Telecommunications Act of 1996, Public Law 104-104, 110 Stat. 56 (1996)). During the transition, the Commission was required to adopt a number of rules dealing with, inter alia, special relaxed digital to digital interference standards necessary to take into account that most stations were operating both an analog and digital channel during the transition, digital construction deadlines, minimum digital operating schedules, analog to digital and digital to analog interference rules, and digital to digital interference rules post-transition. For an overview of the numerous rulemaking proceedings, see Review of the Commission's Rules and Policies Affecting the Conversion to Digital Television, MB Docket No. 00-39, Report and Order and Further Notice of Proposed Rulemaking, 16 FCC Rcd 5946 (2001) (subsequent citations omitted); Second Periodic Review, 19 FCC Rcd 18279 (2004); Third Periodic Review of the Commission's Rules and Policies Affecting the Conversion to Digital Television, MB Docket No. 07-91, Report and Order, 23 FCC Rcd 2994 (2007) (subsequent citations omitted). Many of these rules were temporary and meant to be effective only during the DTV transition. For example, § 73.623(c)(2) (Minimum technical criteria for modification of DTV allotments included in the initial DTV Table of Allotments and for applications filed pursuant to this section) allowed petitioners and applicants to specify facilities that would result in an increase of up to an additional 2 percent of the population served by another station, provided that the station would not receive more than 10 percent interference in the aggregate. Post-transition, however, the level of permissible interference dropped to 0.5%, the rounding tolerance for zero. See 47 CFR 73.616(d). Others, however, had more long term application to digital operations. Because the more long term rules were adopted at the same time as temporary rules, the long term rules are currently not organized in a straight forward or user-friendly manner. For example, § 73.623(d) (Minimum geographic spacing requirements for new TV allotments) is in the rule section dealing with TV applications and changes to TV allotments. This paragraph, however, deals with new allotments, and might more logically belong in § 73.622 (Table of TV Allotments). In addition, there are instances where the rules are duplicative. For example, 47 CFR 73.616(d) and (e) (Post-transition DTV station interference protection) and 73.623(c)(2)-(5) (DTV applications and changes to DTV allotments) both require the use of OET Bulletin No. 69. Some of the specific parameters in § 73.623(c) are outdated (such as those that refer to the 2 percent and 10 percent aggregate pre-transition interference standard), but most of the remaining rule text is directly duplicative of § 73.616(d) and (e) (for example, both discuss how to determine DTV to DTV interference using OET Bulletin 69, that the minimum adjacent channel technical criteria does not apply to channels 4 and 5, 6 and 7, and 13 and 14, because of unique spacing between these channel, and how to determine interference to Class A television stations). Thus, as stated above, we propose deleting paragraphs 73.623(c)(2)-(5). In addition, there are cases where an analog rule and a digital rule are both found in the rules with similar text, such as §§ 73.625 (DTV coverage of principal community and antenna system) and 73.685 (Transmitter location and antenna system).

To make the organization of the rules more practical and the rules easier to find, we propose to reorganize subpart E, while also offering some minor clarifications and amendments to some of the rules. First, we propose to create a new § 73.611 (Emission levels and mask filters) which would relocate, verbatim, the language from § 73.622(h)(1) and (2), which is currently part of the Table of TV Allotments section. These rules involve the permissible level of emissions outside the authorized channel of operation and how attenuation of emission levels is to be measured at the output terminals of the transmitter, including any filters that may be employed. See Advanced Television Systems and Their Impact upon the Existing Television Broadcast Service, MM Docket No. 87-268, Sixth Report and Order, 12 FCC Rcd 14588, 14676-77, para. 195 (1997). We believe this change will improve the organization of the rules because this technical rule has little direct relationship to the Table of TV Allotments. We seek comment on moving this language to a separate stand-alone rule for easier reference.

We propose to remove the analog power limits from § 73.614(b) (Power and antenna height requirements) and replace them with the digital power limits currently found in § 73.622(f)(5)-(8) (Table of TV allotments), and we propose to clarify that all applications for new full power television stations, applications for changes in authorized full power television stations, and petitions for changes to the Table of TV Allotments must comply with these requirements. 47 CFR 73.614(b) (Power and antenna height requirements). This would make § 73.622(f)(4) redundant, as § 73.622(f)(8) also contains a 1000 kW limit for UHF stations, and we thus propose to delete § 73.622(f)(4). The portions of the rule in § 73.622(f)(5)-(8) focus on power and antenna height requirements. Sections 73.622(f)(6)-(8) set forth the digital power limits and (f)(5) sets forth an exception which is commonly referred to as the “largest station in the market rule.” While these power and antenna height requirements are sometimes referred to in Table of Allotment proceedings, they are also frequently considered in processing applications, and so we believe including these provisions in a separate paragraph will make them easier to reference regardless of whether an allotment or an application is being considered. We also propose to clarify in the newly placed § 73.614(b)(6), that the largest station in the market provision only allows a station to exceed the maximum height for a given channel and zone, and not the maximum power for that channel and zone. This addition to the rule is consistent with a clarification adopted by the Commission in 2001. See Review of the Commission's Rules and Policies Affecting the Conversion to Digital Television, MM Docket No. 00-39, Report and Order and Further Notice of Proposed Rulemaking, 16 FCC Rcd 5946 (2001) (subsequent history omitted). Specifically, the Commission clarified that under § 73.622(f)(5), “the maximum ERP limits . . . may not be exceeded.” Id. at 5974, para. 74. Instead, “[t]he `largest station' provision applies only where the rules normally require a reduction in the maximum power because a specified antenna HAAT is exceeded. That is, it does not allow power higher than the maximum ERP to compensate for an antenna HAAT that is lower than the value specified in the rule.” Id. We also propose to delete § 73.614(b)(7) (Power and antenna height requirements) as duplicative of § 73.625(c)(1) (DTV coverage of principal community and antenna system). See 47 CFR 73.614(b)(7) and 73.625(c)(1). We further propose to retain for digital operations a requirement that existed for analog operations that applications will not be accepted for filing if they specify less than a minimum effective radiated power of 100 watts because the Media Bureau staff already applies this minimum level in routine processing and we do not believe it is in the public interest for full power television stations to operate with what is essentially a low power facility. See 47 CFR 73.614(a) (Minimum power). Finally, we propose that for stations requesting DTS operation pursuant to § 73.626 (DTV distributed transmission systems) that this requirement apply to at least one site in the DTS. We seek comment on these proposals.

We also propose to collect provisions on related matters that are currently spread over various rules and group them together. First, we propose to create a new § 73.617 (Interference protection of other services) which collects provisions from §§ 73.623(e) (Protection of land mobile operations on channels 14-20), 73.687(e)(3)-(4) (this section requires stations operating on channel 14 to take special precautions to avoid adjacent LMRS facilities and sets forth various steps stations should take to identify and resolve potential interference. See also Resolution of Interference Between UHF Channels 14 and 69 and Adjacent-Channel Land Mobile Operations, MM Docket No. 87-465, Report and Order, 6 FCC Rcd 5148 (1991)) 73.623(f) (“Parties requesting new allotments on channel 6 be added to DTV Table must submit an engineering study demonstrating that no interference would be caused to existing FM radio stations on FM channels 200-220”), and 73.685(d) (we also propose to change “blanket area” to “blanketing,” which reflects the updated term now used by stakeholders.). We propose to amend the rule to add a note to reference and explain the existence of a granted waiver with respect to the community of Los Angeles, California allowing the County of Los Angeles to use channel 15 in Los Angeles for public safety communications, and propose to update the city center coordinates supra. Most of these rules are used for both licensing and allotments and we believe they will be easier to identify and use if gathered into one section rather than scattered among various rules. We seek comment on this proposed restructuring. We also propose to include a new paragraph 73.617(e) to codify a long standing Commission practice to place a condition on all television broadcast station authorizations that result in a change in coverage area, and all authorizations for new stations, which requires TV broadcasters to identify and notify hospital and other health care facilities within the station's coverage area to avoid interference to medical telemetry devices. Such devices are authorized under 47 CFR 15.242 (Operation in the bands 174-216 MHz and 470-668 MHz) and 47 CFR part 95 subpart H. This condition is consistent with a current practice agreed to between the Commission and the Food and Drug Administration in 1998 and we believe codifying this practice in our rules will ensure that all licensees are aware of this requirement to avoid interference to medical telemetry devices. See Joint Statement of the Federal Communications Commission and the Food and Drug Administration Regarding Avoidance of Interference Between Digital Television and Medical Telemetry Devices, https://transition.fcc.gov/Bureaus/Engineering_Technology/News_Releases/1998/nret8003.html (Mar. 25, 1998). We seek comment on this proposal.

We propose to create a new § 73.618 (Antenna location and principal community coverage), which would relocate, verbatim, the language from 73.625(a) (DTV coverage of principal community and antenna system). We also propose to centralize multiple existing rules into one rule that would include instructions on how to determine the protected facilities of a television allotment (47 CFR 73.616(c) (Post-transition DTV station interference protection), as amended), the noise-limited contour level of a television station (47 CFR 73.622(e) (Digital television table of allotments), as amended supra), how the noise-limited contour is determined (47 CFR 73.625(b) (DTV coverage of principal community and antenna system), as amended infra), and the purposes for which field strength contours are used (47 CFR 73.683(c) (Field strength contours and presumptive determination of field strength at individual locations)). We therefore propose to include these existing requirements in a new § 73.619 (Contour and service areas), and update the section heading of § 73.683 to “Presumptive determination of field strength at individual locations,” in order to remove reference to portions of the rule that are relocated to the new § 73.619. Similarly, we propose to create a new § 73.620 (Interference calculation and protection of TV broadcast services) that will include the requirements currently spread throughout multiple rules in § 73.623(c) (describes the minimum technical criteria for modification of DTV allotments included in the initial DTV Table of Allotments and for applications filed pursuant to this section, as amended supra) and §§ 73.616(d) and (e) (merged into a new § 73.620(a)-(d)). See 47 CFR 73.616 (Post-transition DTV station interference protection) as amended supra. Additionally, we propose to move the rule from § 73.616(g) to a new § 73.620(f). See 47 CFR 73.616(g) (relating to interference protection of ATSC 3.0 stations). We believe that this revised organization of these requirements will make the rules easier to identify and use, and eliminate duplicate versions of some of these rules. We seek comment on these proposals.

We propose to modify §§ 73.622 (Television table of allotments) and 73.623 (TV application processing) to separate out rules specific to the Table of TV Allotments and application processing procedures into separate sections. In § 73.622(a), we propose to modify the language to clarify the rule sections specific to petitions to modify the Table of TV Allotments. Due to this change, § 73.616(a) (TV station interference protection) becomes largely duplicative of this proposed § 73.622(a) and we thus propose to delete § 73.616(a). We also propose to remove (a)(1) and (a)(2) as redundant with the content of § 73.603 (Numerical designation of television channels). We propose to redesignate the language in § 73.622(d)(2) as § 73.622(d), clarify the rule text to indicate this paragraph applies to all allotments, and clarify that the “reference coordinates” for each allotment are those of the authorized facility, or for new allotments, the coordinates given in the order amending the Table of TV Allotments. Section 73.616(b) is duplicative of this proposed § 73.622(d) and we thus propose to delete § 73.616(b). We also propose editorial changes for clarity in § 73.622(d). Finally, we propose to relocate the text from § 73.623(d), relating to the minimum distance separations for new TV allotments, to a new § 73.622(k). In § 73.623(a), we propose to modify the language to clarify the rule sections specific to application processing and remove discussion of modifications to the Table of TV Allotments. We propose to relocate the text from § 73.622(c), regarding the availability of channels for application, into § 73.623(b). Finally, we propose to update cross-references found in § 73.623(h) and update the section heading to “TV application processing priorities” in order to clarify its purpose. We seek comment on these proposals.

We propose to reorganize § 73.624(b) (Television broadcast stations) for clarity by splitting some of the text in subpart (b) into a new subpart (b)(1) (requiring stations broadcasting in ATSC 1.0 to transmit an over the air signal at no direct charge to viewers). We note that nothing in this proposal alters the application of this rule to ATSC 3.0. We propose to relocate § 73.685(h) (Transmitter location and antenna system), pertaining to AM stations, to become new § 73.625(c)(4)(iii) (TV coverage of principal community and antenna system). We also propose to relocate § 73.682(a)(14) (TV transmission standards), regarding the use of elliptically- and circularly-polarized antennas, to become a new § 73.625(d) (TV coverage of principal community and antenna system). While the rest of § 73.682(a) related specifically to analog station operations, we believe this specific subpart of (a)(14) applies to all stations and note that its content is consistent with the functions in LMS applicable to applications. Thus, we tentatively conclude it should be relocated to make it easier to identify by users of our rules. We seek comment on these proposals.

While the current rule structure has become disjointed over the years, and is only exacerbated by the deletion of obsolete portions of the rules, we understand that the structure is also familiar to many users and we recognize that many licensees, counsel, and other users of our rules may have concerns about a reorganization to our rules that have been in the same location or under the same section number for many years. We propose to mitigate that concern by updating cross-references to the rules reorganized as described herein, and in Table 1: Cross-references below, as well as providing cross-references to the new location of a rule that has been relocated in the location it was previously found. The Commission has previously added cross references to its rule sections within its rules. See, e.g., October 2021 Order at para. 12 (“We also amend § 73.606 of our rules by . . . adding a cross-reference to “§ 73.622(j)”, which sets forth the updated Table of Allotments adopted in this Order.”). We believe that providing these cross-references would make it easier for users to become accustomed to the new structure. We seek comment on this proposal.

Table 1—Cross-References
Instead of referencing . . . | Reference . . .
§ 73.614(b)(7) | § 73.625(c)(1).
§ 73.616(a) | § 73.622(a).
§ 73.616(b) | § 73.622(d).
§ 73.616(c) | § 73.619(d).
§ 73.616(e) | § 73.620(d).
§ 73.616(g) | § 73.620(f).
§ 73.622(b) | § 73.622(j).
§ 73.622(c) | § 73.623(b).
§ 73.622(e) | § 73.619(c).
§ 73.622(f)(5) | § 73.614(b)(6).
§ 73.622(f)(6) | § 73.614(b)(1).
§ 73.622(f)(7) | § 73.614(b)(2).
§ 73.622(f)(8) | § 73.614(b)(3).
§ 73.622(h) | § 73.611.
§ 73.622(i) | § 73.622(j).
§ 73.623(c)(1) | § 73.618(a).
§ 73.623(c)(2) | § 73.620.
§ 73.623(c)(3) | § 73.620(b).
§ 73.623(c)(4) | § 73.620(a).
§ 73.623(c)(5) | § 73.620(d).
§ 73.623(d) | § 73.622(k).
§ 73.623(e) | § 73.617(a).
§ 73.623(f) | § 73.617(c).
§ 73.623(g) | § 73.620(e).
§ 73.625(a) | § 73.618.
§ 73.625(b) | § 73.619(b).
§ 73.683(c) | § 73.619(a).
§ 73.685(b) | § 73.618.
§ 73.685(d) | § 73.617(d).
§ 73.685(f) | § 73.625(c).
§ 73.687(e) | § 73.617(b).

Protection of Land Mobile Radio Service

Section 73.623(e) of the rules requires full power and Class A television stations to protect certain channels for use by LMRS in thirteen U.S. cities. 47 CFR 73.623(e) (Protection of land mobile operations on channels 14-20). In the proposed reorganization, this would be moved to new § 73.617(a). For television stations that use or would use channels 14 through 20, the rule specifies a distance of 250 kilometers from the city center of a co-channel land mobile operation, or 176 kilometers from the city center of an adjacent channel land mobile operation. The set of coordinates for the city centers were calculated based on the 1927 North American Datum (“NAD 27”). As a result of improvements in technology and measuring capabilities, NAD 27 has been superseded by the 1983 North American Datum (“NAD 83”). The Commission's Office of Engineering and Technology and Office of the Managing Director have previously explained that “[g]eodetic datum is a set of constants specifying the coordinate system used for calculating the coordinates of points on the Earth. NAD 83 was developed based on satellite and remote-sensing measurement techniques, and provides greater accuracy than the older NAD 27.” Amendment of Parts 1, 2, 25, 73, 74, 90, and 97 of the Commission's Rules to Make Non-Substantive Editorial Revisions to the Table of Frequency Allocations and to Various Service Rules, Memorandum Opinion and Order, 23 FCC Rcd 3775, 3796, para. 61, n.101 (OET/OMD 2008). Because it provides greater accuracy and the older NAD 27 is outdated, we propose to amend the rule to use NAD 83 for purposes of specifying these coordinates. Id. We further tentatively conclude that updating the coordinates in the rule to NAD 83 would serve the public interest by conforming the values with the coordinate system used in the Commission's LMS database and with those found in § 90.303(b) of the rules, which define the service that § 73.623(e) protects. Section 90.303(b) (Availability of frequencies) defines the specific center points used to permit land mobile operations, which represent the specific locations that § 73.623(e) is designed to protect. See 47 CFR 90.303(a) (stating that “coordinates are referenced to the North American Datum 1983 (NAD83)”) and (b). As such, our proposal to conform the values in these rules would help to ensure that land mobile operations are more appropriately considered and protected from full power and Class A operations. We made a similar proposal in the Part 74 NPRM at para. 12. We seek comment on this proposal.

We also propose to amend § 73.1620(a)(1) (Program tests) to remind full power and Class A television stations on channel 14 of the requirement found in § 73.687(e)(4)(iii) that they request Program Test Authority (“PTA”) prior to commencing operation of new or modified facilities. We further propose to move 47 CFR 73.687(e)(3)-(4) to 73.617(b). We also propose to include a new sentence codifying the practice of requiring LPTV and translator stations on channel 14 to request PTA prior to beginning operation of new or modified facilities. We believe that adding rule text reflecting this practice consistently across all television services will better reflect the purpose of the requirement to protect existing land mobile operations. We seek comment on these proposed changes.

Coverage Area—Determining Coverage

Section 73.625(b) of the Commission's rules describes how coverage and height above average terrain (HAAT) are to be calculated or determined. 47 CFR 73.625(b) (DTV coverage of principal community and antenna system—Determining coverage). In the proposed reorganization, this would be moved to § 73.619(b) (Contours and service areas—Determining coverage). This rule is largely derived from what was formerly § 73.684(d) and (f) adopted by the Commission in December 1963. See 28 FR 13572, 13678-79 (rel. Dec. 14, 1963) (§ 73.684 (1963)). We propose changes to certain procedures contained in § 73.625(b) which we believe are obsolete, unnecessary, and are otherwise superseded by the software based tools that the FCC and industry use to prepare and process applications.

We propose to remove the second sentence of paragraph (b)(2), which indicates that when the relative field strength at a depression angle is 90% or greater, the 100% value should be used. This would create a discontinuity in the contour, and is inconsistent with how software-based tools used to process and prepare applications function. We seek comment on this proposal.

We propose to eliminate the requirement to produce and submit profile graphs and to streamline the section in order to bring it into line with modern software-based tools used to determine contours and HAAT today. Specifically, the fifth and sixth sentences in paragraph (b)(4) of § 73.625 discuss the creation and submission of a radial in the direction of the community of license. See § 73.684(d) (1963) (§ 73.625(b)(4) was largely adapted from § 73.684(d), and § 73.684(d) itself had been condensed since the 1963 version of the rule. The 1963 version more clearly details the purpose and execution of the rule than the current text.). The rule does not require the use of a radial in the direction of the community of license in any other calculations, so with the elimination of the requirement to produce and submit profile graphs of radials, a rule that requires the calculation of this radial becomes unnecessary. Moreover, the software-based tools the Commission and industry use to process and prepare applications do not produce this radial. As such, we propose to delete the language. Paragraph (b)(4) also contains similar detail in the seventh and eighth sentences explaining how and when to produce and submit a profile graph for radials over water or foreign territory. Id. Again, with the elimination of the requirement to produce and submit profile graphs of radials, we believe this calculation for radials over water or foreign territory is unnecessary. The rule itself does not require the radials to be used in any other calculations and automated software used by the Commission and industry does not do this. As such, we propose to delete this language. We also propose to delete the companion language in § 73.681 in the definition of “antenna height above average terrain.” We seek comment on these proposals.

Next, paragraph (b)(4) describes how to plot the radials on a graph and provides a range of options for the number of points of elevation to use in each radial. We propose to conform the requirement to reference the TVStudy software currently used for preparing and processing applications, and specify the use of 10 points per kilometer in all circumstances consistent with present practice found in the TVStudy software used by the Commission and licensees to process and prepare applications. See Federal Communications Commission, Office of Engineering and Technology, TVStudy Interference Analysis Software, https://www.fcc.gov/oet/tvstudy (the “FCC Contours” screen in the “Parameters” tab of TVStudy provides a default value of 10 points per kilometer using the default Interference Check template). We seek comment on this proposal.

We propose additional deletions in the rule that we believe are also unnecessary. There are several sentences in paragraph (b)(4) which describe how such graphs should be formatted for submission to the FCC. For example, the rule specifies that the graphs may be plotted on “rectangular coordinate paper” or on “special paper which shows the curvature of the earth.” See also § 73.684(d) (1963). Because we propose to eliminate the requirement to submit profile graphs, we also propose to delete the formatting requirements. The rule also provides multiple options on how to obtain elevation points. The software currently used by the Commission and industry, however, simply averages the points as provided in the first option. We propose to delete that text on options to obtain elevation points and clarify the use of the average of points elsewhere in the paragraph. Finally, we propose to add a sentence clarifying that actual calculated values are used to determine the HAAT, and to eliminate the final two sentences of paragraph (b)(4) which are no longer used with the conversion from analog to digital. Specifically, this language is no longer necessary due to the change from the requirements of providing a city grade strength signal of 74-80 dBu, depending on channel, to a principal community strength signal of 35-48 dBu depending on channel. The last two sentences of § 73.625(b)(4) are derived from the last two sentences of § 73.684(f) (1963), which addressed a situation where the adopted predictive coverage methodology would result in a negative HAAT or an HAAT below 100 feet at a number of radials at two and 10 mile intervals. In that case, an applicant could make a supplemental showing. As an example, when a supplemental showing could be made, the rule explained that “a mountain ridge may indicate the practical limit of service although the prediction method may indicate otherwise. In such cases the prediction method should be followed but a supplemental showing may be made concerning the contour distances as determined by other means.” To give an example why the last two sentences of § 73.625(b)(4) are obsolete, the standard contour prediction method would show that the television stations in Juneau, Alaska, had a negative HAAT due to surrounding terrain even though the stations' transmission facilities are located in Juneau, which is surrounded by mountains. With the conversion from analog to digital, the use of the city grade contour to determine community coverage was replaced with the use of the minimum service level contour, which tends to be significantly larger, making the issue of an inability to reach the community of license that this rule was designed to capture significantly less likely. We see comment on these proposals.

Section 73.625(b)(5) specifies a number of paper maps which should be used to prepare the profile graphs described in paragraph (b)(4), and to determine the location and height above sea level of the antenna height. See 47 CFR 73.625(b)(5). This rule is largely derived from § 73.684(g) (1963). We believe that multiple references to various sources of paper maps contained in the rule are outdated methods to make these types of calculations. We therefore propose to remove those references to outmoded paper maps and replace them with a reference to the National Elevation Dataset and other similar bald earth terrain datasets which are used by modern automated software currently used by the Commission and industry. In a new paragraph (b)(6), we propose to clarify that we generally expect these calculations to be done via computer, versus the preference for paper calculations that was specified previously, and then indicate that to the extent a submission to the Commission uses sources different from those officially reflected in our rules, those sources should be clearly identified in the submission. For example, community coverage is demonstrated by providing a map, which applicants sometimes produce using software like V-Soft Probe. Applicants should clearly identify the software being used to produce their engineering showings. We seek comment on these proposals.

Antenna Patterns

We propose to clarify, in § 73.625(c)(3)(ii) of the rules, that the horizontal power is to be higher than or equal to the vertical power in all directions, and require documentation that the antenna meets this requirement. This proposed requirement is consistent with stations being primarily horizontal, with a possible vertical component less than or equal to the horizontal component. Most stations already submit this documentation in their applications. This clarification is consistent with the requirements contained in § 73.682(a)(14). See 47 CFR 73.682(a)(14) (TV transmission standards) (“It shall be standard to employ horizontal polarization.”). See also 47 CFR 73.316(a) (FM antenna systems). We also propose to update the rule to reflect that the LMS filing system permits an alternate method of specifying mechanically beam tilted facilities. The proposed rule indicates the alternate method is preferable because it provides a three-dimensional representation of the antenna, allowing for more accurate predictions with OET Bulletin No. 69. But we continue to allow the previous method in order to avoid imposing any additional burden on stations that were previously authorized using the previous mechanical beam tilt method. We seek comment on these proposals.

Section 73.625(c)(3)(v) currently requires that horizontal plane patterns be plotted “to the largest scale possible on unglazed letter-size polar coordinate paper.” This requirement is outdated and not consistent with current licensee and Commission staff practices. We propose to instead require licensees to submit patterns in the form of a .pdf attachment to an application filed in LMS, and propose to clarify that similar plots are required for elevation or matrix patterns submitted in the LMS form. See proposed §§ 73.625(c)(3)(vi) and 73.625(c)(3)(vii). This approach would provide flexibility to applicants and conform to modern practices. We seek comment on this proposal.

Subscription TV (STV) Rules

Sections 73.641 through 73.644, 73.4247, 73.6026, and 74.732(e) contain the rules that allowed analog full power, Class A, and low power television stations to offer a subscription television service “for a fee or charge.” See 47 CFR 73.641(b). See generally Amendment of Part 73 of the Commission's Rules and Regulations in Regard to Section 73.642(a)(3) and other Aspects of the Subscription Television Service, Docket No. 21502, Fourth Report and Order, 95 FCC 2d 457 (1983) and other Commission Orders and Notices in Docket No. 21502 at nn.1-3. Under these rules, analog stations could offer television services during part of the broadcast day, usually during the evening hours, on a subscription basis by sending scrambled signals through the air that could be decoded by a device that the subscriber used and had installed by the STV provider at their television receiver. Amendment of Part 73 of the Commission's Rules and Regulations in Regard to Section 73.642(a)(3) and Other Aspects of the Subscription Television Service, Docket No. 21502, Third Report and Order, 90 FCC 2d 341, 344-5, para. 9 (1982).

As of May 1, 1982, there were 27 analog stations that were operating in an STV mode in 18 different markets serving over 1,300,000 subscribers. Id. at 344, para. 8. Upon transitioning to digital in 2009 however, digital television stations are required to transmit one over-the-air video program signal at no direct charge to viewers on their 6 MHz channel and are permitted to provide STV-type services on an ancillary or supplementary basis to their primary digital television service. See 47 CFR 73.624(a) and (c) (Digital television broadcast stations); 74.790(i) (Permissible service of TV translator and LPTV stations) (television stations are permitted to offer services of any nature, consistent with the public interest, convenience, and necessity, on an ancillary or supplementary basis, including “subscription video”). With the elimination of analog service, there are no full power television stations operating pursuant to the STV rules and LMS does not permit the filing of applications or requests to operate in an STV mode. Sections 73.642(b) (Subscription TV service) and 74.732(e) (Eligibility and licensing requirements) require that stations notify the Commission when they commence STV operations, and that full power and Class A stations notify the Commission when they discontinue STV operations or change their encoding equipment. The Bureau has not received any such filings in at least the past 25 years. Accordingly, these STV rules are obsolete and we propose to eliminate them. See 47 CFR 73.641 (Subscription TV definitions), 73.642 (Subscription TV service), 73.643 (Subscription TV operating requirements), 73.644 (Subscription TV transmission systems), and 73.4247 (STV: Competing applications). We seek comment on this proposal.

If we adopt this proposal, we would also amend part 73 and part 74 rules to remove references to STV and “subscription television service.” See 47 CFR 73.1201(d) (Station identification for subscription television stations); 74.701(f) (Low power TV station); 73.682(b) (Subscription TV technical systems); 73.6026 (deleting cross-references to 73.642-73.644) (Broadcast regulations applicable to Class A television stations); and 74.732(e) (Eligibility and licensing requirements). We seek comment on this proposal.

Special Criteria for Converting Vacant Commercial Channels to Reserved Status

In 2000, the Commission adopted a needs based test for future rulemakings allowing noncommercial educational (NCE) entities to request that “non-reserved channels not already in the Table of Allotments be added and reserved for NCE use.” See Reexamination of the Comparative Standards for Noncommercial Educational Applicants, MM Docket No. 95-31, Report and Order, 15 FCC Rcd 7386, 7434, para. 114 (2000); Reexamination of the Comparative Standard for Noncommercial Educational Applicants, MM Docket No. 95-31, Second Report and Order, 18 FCC Rcd 6691 (2003). This needs-based test is reflected in § 73.622(a). 47 CFR 73.622(a) states in relevant part:

Where there is only one technically available channel available in a community, an entity that would be eligible to operate a noncommercial educational broadcast station may, prior to application, initiate a rulemaking proceeding requesting that an unoccupied or new channel in the community be changed or added as reserved only for noncommercial educational broadcasting upon demonstrating that the noncommercial educational proponent would provide a first or second noncommercial educational TV service to 2,000 or more people who constitute 10% of the population within the proposed allocation's noise limited contour.

Since the Commission adopted this needs based test in 2000, the Media Bureau has never been asked to apply it to television stations. Further, the television band has been reallocated and repacked from channels 2-69 to channels 2-36, significantly decreasing the number of available channels. We therefore propose to amend § 73.622(a) to remove this language as we do not believe it serves a practical purpose in the current environment. We do not intend, however, to eliminate the ability of an NCE entity to reserve one of the few vacant television channels currently in the Table of TV Allotments. We note that there remain nine channels in the Table of TV Allotments that are allotted but not currently licensed. These channels were recently offered in Auction 112 but none of the channels received any bid offers and they were returned to the Commission. See Auction of Construction Permits For Full Power Television Stations Closes, Public Notice, DA 22-659 (rel. June 23, 2022). We note that an NCE entity may still file a rulemaking petition to request that the Commission reserve the channel for noncommercial educational use, without being required to rely on the special process enumerated in § 73.622(a). We seek comment on this proposal.

Other Technical and Miscellaneous Updates

Special Service Authorization. Section 73.3543 (Application for renewal or modification of special service authorization) provides that no new special service authorizations may be issued after 1958, however, renewals or modifications will be considered in certain circumstances. The Media Bureau is unaware of any such authorizations today, and thus we tentatively conclude the rule is obsolete and can be deleted. We therefore propose to delete the rule and seek comment on this proposal.

Broadcast Data Bases. Section 0.434 (Data bases and lists of authorized broadcast stations and pending broadcast applications) refers to Broadcast Application Processing System (BAPS), which is a legacy database system that has not been in use at the Commission for many years. The Media Bureau currently uses LMS for application processing, which replaced the prior Consolidated Database System (CDBS) system over the past few years (except with respect to certain AM operations), which itself replaced BAPS around the year 2000. Thus, the reference to BAPS is obsolete and we propose to delete it and seek comment on this proposal. We additionally propose to remove the word “periodically” since an updated LMS download is provided daily, remove the link to “ftp.fcc.gov” since LMS data is not provided there, and update the reference to “mass media services” to instead specify “Media Bureau.” We also propose to delete the sentences stating that paper copies of lists of stations and applications are available for inspection at the Commission or on microfiche at the Commission's Reference Information Center. We further propose to delete the sentence that lists can be purchased from the FCC's duplicating contractor since the Commission has not contracted with a commercial duplicating firm pursuant to § 0.465(a) of the rules for a number of years. We seek comment on these proposals.

Distributed Transmission System Rule Clarification. In January 2021, the Commission adopted updated rules in § 73.626 relating to Distributed Transmission Systems. See Rules Governing the Use of Distributed Transmission System Technologies Authorizing Permissive Use of the “Next Generation” Broadcast Television Standard, MB Docket No. 20-74 and GN Docket No. 16-142, Report and Order, 36 FCC Rcd 1227 (2021) (2021 DTS Order). Since that time, questions have arisen about how the rules are to be applied. For example, the rule text makes several references to the term “reference facility” without defining that term, and appears to inaccurately conflate the reference point with the coordinates of the facility which produces the authorized service area. To make the intent and application of the rule less ambiguous, we propose to modify language in § 73.626(b) and (f)(2). We propose to define the term “authorized facility” (the proposed § 73.626(b) states that “For purposes of compliance with this section, a station's `authorized service area' is defined as the area within its predicted noise-limited service contour determined using the facilities authorized for the station in a license or construction permit for non-DTS, single-transmitter-location operation (its “authorized facility”).”) and then replace all uses of the term “reference facility” with the term “authorized facility” in the appropriate locations. See proposed § 73.626(f)(2)(i)-(iii). The proposed § 73.626(b) states that “For purposes of compliance with this section, a station's `authorized service area' is defined as the area within its predicted noise-limited service contour determined using the facilities authorized for the station in a license or construction permit for non-DTS, single-transmitter-location operation (its “authorized facility”).” We further propose to replace the term “reference point” with “site of its authorized facility” in places where the term “reference point” is improperly used. See proposed § 73.626(f)(2)(ii)-(iii). Finally, we propose to clarify when specifically the Table of Distances values should be applied. See proposed § 73.626(f)(2)(i)-(ii).We believe this clarifying language will better reflect the method described in the 2021 DTS Order and used in processing such applications. We also propose to remove language from § 73.626(f)(2) which is improperly specific to the station's authorized service area. As written, the language incorrectly implies that the Table of Distances circle is not applicable here. We seek comment on these proposals.

Transport Stream ID. All full-power and Class A TV stations are assigned a unique transport stream ID (TSID), which is required to be transmitted in order to provide the Program and System Information Protocol (PSIP) data required by § 73.682(d) (Broadcast television transmission standard). Consistent with that rule, we propose to clarify that all such stations must broadcast with their assigned TSID during their hours of operation. See proposed § 73.1201 (Station identification); see also proposed § 74.783(d) in the Part 74 NPRM at para. 17. In its Second Periodic Review, the Commission stated that “broadcasters are required to transmit the TSIDs assigned for their stations in their digital transmission.” See Second Periodic Review, 19 FCC Rcd at 18347-48, para. 153. We believe that it is in the public interest to move this requirement into a separate rule for ease of reference. Similarly, we propose the same requirement with respect to a station's bit stream ID (BSID), which has the same function as the TSID, but in the ATSC 3.0 context, in order to promote consistency. We seek comment on these proposals.

Class A U.S.-Mexico Border Zone. Full power television stations are required to use full service masks to attenuate the power level of emissions outside their authorized channel of operation in specified amounts expressed in decibels (dB). See 47 CFR 73.622(h) (describing required attenuated power limits of emissions of frequencies outside the authorized channel of operation for full power television stations). Section 74.794, which allows LPTV/TV translators to specify use of a simple, stringent, or full service mask, also applies to Class A television stations. See 47 CFR 73.6024(d) and 74.794(a)(2). Section 74.794(a)(2)(i)-(iii) defines the required attenuated power limits of emissions outside the authorize channel of operation for each type of mask. The Commission's rules require coordination of applications in border regions with the neighboring countries' appropriate regulatory officials. Under the Exchange of Coordination Letters with IFT Regarding DTV Transition and Reconfiguration of 600 MHz Spectrum, signed between the FCC and Mexico's Instituto Federal de Telecomunicaciones (IFT) in July 2015, the use of Tables 1 and 6 were approved for television station realignment. See Letter to Ricardo Castañeda Alvarez Director General de Ingenieria y Estudios Técnicos, IFT, from Mindel De La Torre, Chief, International Bureau (July 15, 2015) and Letter to Mindel De La Torre, Chief, International Bureau, from Alejandro Navarrete Torres, IFT (July 15, 2015) (collectively, “Exchange of Coordination Letters with IFT Regarding DTV Transition and Reconfiguration of 600 MHz Spectrum”). See International Agreements, available at: https://www.fcc.gov/general/international-agreements. Class A stations approved by Mexico in Table 6 are grouped with full-service stations. There is no allowance for use of a simple or stringent emission mask for any operation within these Tables; however, § 73.6024(d) applies to coordination of stations in proximity of the U.S. border with Mexico. It is the Media Bureau staff's experience that IFT routinely requests that applications submitted for coordination of Class A stations specify a full-service emission mask, and if such applications do not initially specify the full-service emission mask, IFT asks for it to be included in an amendment. This two-step process increases the processing burdens on the FCC, IFT, and stations, and results in delays in granting applications. Therefore, we propose to amend § 73.6024(d) to require Class A stations within 275 kilometers of the US-Mexico border to specify a full-service emission mask in any modification application. We seek comment on this proposal.

Class A Antenna System. We propose to delete language in § 73.6025(a) that we find is almost identical to that in § 73.625(c)(3). 47 CFR 73.6025(a) (Antenna system and station location) (setting forth required showing when proposing to use a directional antenna system) and 73.625(c)(3) (DTV coverage of principal community and antenna systems). These rule sections provide similar requirements regarding how applicants should describe and document antenna patterns submitted in their applications. Some sections are identical (specifically, § 73.625(c)(3)(iii) is identical to § 73.6025(a)(3), § 73.625(c)(3)(iv) is identical to § 73.6025(a)(4), and § 73.625(c)(3)(vi) is identical to § 73.6025(a)(5)), but in others there are a few minor differences. Specifically, comparing § 73.625(c)(3)(i) with § 73.6025(a)(1), although two sentences found in the latter concerning descriptions of antenna systems are not specifically contained in § 73.625(c)(3)(i), we believe these sentences are explanatory and sufficiently captured in the requirement in § 73.625(c)(3)(i) that a “[c]omplete description of the proposed antenna system” be included. Currently, § 73.625(c)(3)(ii) also differs slightly from § 73.6025(a)(2) in that it specifies a different orientation of the included antenna plots, but is otherwise identical and would provide the same information to the Commission. We propose to modify § 73.625(c)(3)(ii). Finally, while there is no equivalent to § 73.625(c)(3)(v) in § 73.6025; that subpart merely describes the format of the otherwise-required tabulations. We propose to modify § 73.625(c)(3)(v). We are also proposing in this NPRM to add new §§ 73.625(c)(3)(vii) and (viii) to account for stations submitting elevation or matrix patterns. See id. We find that the very minor distinctions between the language in the two sections are insignificant and that no purpose is served by having two essentially duplicative rules in part 73. Class A licensees are required to comply with all part 73 regulations except for those that cannot apply for technical or other reasons. Class A Report and Order, 15 FCC Rcd at 6365, para. 23. Section 73.625(c)(3) is clearly a rule with which they can comply. We instead propose to also cross-reference § 73.625(c)(3) in § 73.6025(a), eliminating the duplication but making clear that the requirements in § 73.625(c)(3) continue to apply to Class A television stations. We seek comment on this proposal.

Minimum Video Program Requirements. As noted above, we propose to delete much of § 73.624(b). Section 73.6026 (Broadcast regulations applicable to Class A television stations) lists section 73.624 as a rule applicable to Class A stations. It also includes a note stating that “Section 73.624(b) will apply only to the extent that such stations must also transmit at least one over-the-air video program signal at no direct charge to viewers of the digital Class A station.” Such language is also included in 73.624(b) and so we propose to remove that text in 73.6026 as duplicative. We also propose to clarify that this change would mandate the use of a minimum 480i video resolution by Class A stations. This requirement is consistent with full-power and LPTV/translator stations (as proposed in the Part 74 NPRM), and we believe it is reasonable to also apply it consistently to Class A stations. See Part 74 NPRM at para. 25. We seek comment on this conclusion.

Transmitting Antenna Site. Section 73.683(c)(1), which we propose to move to new § 73.619(a)(1), refers to the estimation of a station's coverage area based on a “particular transmitter site.” We note that our application forms do not request information about the location of a station transmitter but of its antenna instead. Therefore, we propose to modify the language in the rule to refer instead to a “particular transmitting antenna site.” We believe this proposal is consistent with language that has been used in other parts of the rules (see e.g., 47 CFR 73.622(d)), and with a proposal made in the Part 74 NPRM. See Part 74 NPRM at para. 24 (“Because the antenna location, rather than the transmitter location, is the relevant consideration in determining interference, service, and loss, as required by the Commission's rules and policies, we propose to delete § 74.751(b)(6) entirely regarding the transmitter's location, as it is not relevant in this analysis.”). Accordingly, we seek comment on this proposal.

Corrections To Inadvertent Oversights From Prior Rulemakings. In § 73.616(e), which we propose to relocate to new § 73.620(d) (Interference calculation and protection of TV broadcast services), the rule text appears to be incomplete and contradictory. Paragraph (1) indicates the OET Bulletin No. 69 method of determining coverage and interference shall be used, then indicates that “[t]he threshold levels at which interference is considered to occur are:” but none follow. Paragraph (2) implies the use of contour analysis to determine protection of Class A television stations, but does so while making use of the unspecified threshold levels from paragraph (1). Paragraph (3) indicates that a request for a waiver of the interference protection requirements of the rule may be made using the Longley-Rice terrain dependent propagation methods contained in OET Bulletin No. 69, in contradiction to paragraph (1) which specifies that OET Bulletin No. 69 shall be used. Because these elements make the requirements of the rule difficult to decipher, we propose to remove paragraphs (1), (2), and (3) entirely and streamline the remaining paragraph (e) as a new § 73.620(d), replacing the description of the OET Bulletin No. 69 in paragraph (1) with a cross-reference to paragraphs (a) and (b) of the new § 73.620, which specifies the same method. We seek comment on this proposal.

In the October 2021 Order, the Commission deleted § 73.623(g) as obsolete because it addressed the digital transition. See October 2021 Order at para. 13, n.44. Deletion of the section, however, inadvertently eliminated from the rules the allowance for negotiated agreements on interference among applicants and licensees. We propose to restore this allowance that was previously contained in § 73.623(g), modify the language to delete language referring to stations operating on channels allotted in § 73.622(b), the initial DTV Table, and place it in a new § 73.620(e). This would clarify in our rules that stations may continue to negotiate agreements on interference consistent with past and present practice. We seek comment on this proposal.

In the Part 74 Order, the Commission revised or removed certain paragraphs of § 74.787 to reflect the LPTV and translator transition from analog to digital operations, clean up duplicate sections that were contained in both the analog and digital portions of part 74, and provide accurate information about current Commission forms. See Part 74 Order at paras. 6-7, nn. 22 and 25-28. The Part 74 Order revised § 74.787(a)(5)(i) regarding applications for analog-to-digital replacement translators (DRTs) and digital-to-digital replacement television translators (DTDRTs) to state that “[a]pplications for new DRTs and DTDRTs are no longer accepted.” The Part 74 Order also removed the first sentence of paragraph (a)(5)(v). We propose to further amend the text of the rule by clarifying in the now first sentence of paragraph (a)(5)(v) that the pre-auction digital service area is the noise-limited contour of the full power station that was protected in the incentive auction repacking process and removing reference to a 2015 public notice. See 47 CFR 74.787(a)(5)(v) (Licensing); see also Incentive Auction Task Force Releases Revised Baseline Data and Prices for Reverse Auction; Announces Revised Filing Window Dates, Public Notice, DA 15-1296, 30 FCC Rcd 12559 (Nov. 12, 2015). Because we no longer allow applications for new applications for DTDRTs, we believe the reference to the public notice data is no longer necessary and the inclusion of the additional explanation of the pre-auction digital service area for stations that already hold DTDRTs provides a clearer definition. We seek comment on this proposal.

Cost-Benefit and Diversity, Equity and Inclusion Analysis

Finally, we seek comment on the benefits and costs associated with adopting the proposals set forth in this NPRM. In addition to any benefits to the public at large, are there also benefits to industry through adoption of any of our proposals? We also seek comment on any potential costs that would be imposed on licensees, regulatees, and the public if we adopt the proposals contained in this NPRM. Comments should be accompanied by specific data and analysis supporting claimed costs and benefits.

As part of our continuing effort to advance digital equity for all, including people of color, persons with disabilities, persons who live in rural or Tribal areas, and others who are or have been historically underserved, marginalized, or adversely affected by persistent poverty or inequality, we invite comment on how the proposals set forth in this NPRM can advance equity in the provision of broadcast services for all people of the United States, without discrimination on the basis of race, color, religion, national origin, sex, or disability. Specifically, we seek comment on how our proposals may promote or inhibit advances in diversity, equity, inclusion, and accessibility, as well the scope of the Commission's relevant legal authority.

Initial Regulatory Flexibility Act Analysis

As required by the Regulatory Flexibility Act of 1980, as amended (RFA), pursuant to 5 U.S.C. 605(b), the Commission has prepared this Initial Regulatory Flexibility Act Analysis (IRFA) of the possible significant economic impact on a substantial number of small entities by the policies and rules proposed in this notice of proposed rulemaking (NPRM). Written public comments are requested on this IRFA. Comments must be identified as responses to the IRFA and must be filed by the deadlines for comments specified in the DATES section of this NPRM. The Commission will send a copy of this NPRM, including this IRFA, to the Chief Counsel for Advocacy of the Small Business Administration (SBA). In addition, this NPRM and IRFA (or summaries thereof) will be published in the Federal Register.

Need for, and Objectives of, the Proposed Rules

This NPRM seeks comment on a number of proposals as part of the Commission's effort to update its rules following the transition from analog to digital-only operations and the post-incentive auction transition to a smaller television band with fewer channels. This NPRM proposes to delete, update, or otherwise revise Commission rules that no longer have any practical effect given these historic changes. This NPRM also seeks to restructure subpart E of part 73 of the Commission's rules (47 CFR subchapter C, part 73), which largely consists of the technical licensing, operating, and interference rules for full power television. Finally, this NPRM proposes additional amendments to the full power and Class A rules, including technical updates and proposals to delete, update, and/or amend outdated rules.

This NPRM proposes to adopt revisions to part 73 to reflect that all television services have ceased analog operations, and the conversion to digital television technology. Similarly, this NPRM proposes to amend rule section headings and language in part 73 to remove references to DTV and digital television service since all television services have transitioned from analog to digital operations and thus, there is no further need to differentiate between two separate kinds of service. In addition, this NPRM proposes to delete outdated rules that are no longer valid given changes in Commission-adopted policy. This NPRM also proposes to update Commission rules to reference the current designation for form numbers, require electronic filing in LMS, and remove obsolete forms. In addition, this NPRM proposes to make a number of other corrections and updates to the full power television and Class A rules, including to correct inadvertent oversights in prior rulemakings.

In addition, this NPRM seeks to add an explanatory note to § 73.623 to reference and explain the existence of a granted waiver with respect to the community of Los Angeles, California. Section 73.623 of the rules requires television stations to protect certain channels for use by the land mobile radio service in thirteen U.S. cities listed in the rule. In 2008, the Commission's Public Safety and Homeland Security Bureau granted a waiver pursuant to § 337(c) of the Communications Act, as amended, allowing the County of Los Angeles to use channel 15 in Los Angeles for public safety communications. Because this channel is adjacent to two channels contained in § 73.623, this NPRM asserts that the public interest is served by including a Note explaining the existence of the 2008 waiver.

To reflect the fact that the post-incentive auction closed on April 13, 2017, this NPRM proposes to amend § 73.3700(a)(2) to add the citation to the Channel Reassignment Public Notice that was released by the Commission's Media and Wireless Telecommunications Bureaus and Incentive Auction Task Force announcing the completion of the auction and deadlines for stations assigned new channels through the repacking process to terminate operations on pre-auction channels. This NPRM also proposes to delete as obsolete certain definitions that relate to the bid options that were available to full power and Class A television broadcasters eligible to participate in the incentive auction. This NPRM proposes to delete as obsolete procedural rules that governed the post-incentive auction period for stations to transition off their pre-auction channel, which ended on July 13, 2020, including the portions of the rule pertaining to the special post-incentive auction displacement filing window which closed on June 1, 2018, and applied to low power television and television translator stations (“LPTV/TV translators”) displaced by the auction.

Regarding the listing of FCC policies in §§ 73.4000 et seq., which provide certain FCC policies and citations related to all broadcast stations for the purpose of reference and convenience, this NPRM proposes to amend a number of rules that are now otherwise obsolete or require updates. For example, this NPRM proposes to update rules to reflect the availability of newer versions of procedures and Commission orders such as the “The Public and Broadcasting” procedure manual.

This NPRM proposes to delete obsolete language due to the passage of time and other changes in Commission policy, including language related to the protection of pre-transition DTV applications filed before December 31, 1999, or between December 31, 1999, and May 1, 2000, certain waiver requests related to the incentive auction, displacements of Class A stations due to digital channel allotment changes by full power television stations that have since been resolved, the period of construction for an original construction permit which tolled for certain reasons of international coordination during the DTV transition, the certification of equipment that the Commission no longer accepts, and references to mutually exclusive renewal proceedings for applications filed prior to May 1, 1995. This NPRM also proposes to delete past license renewal application filing dates for all radio and television broadcast stations, and provide updated dates.

During the course of the transition to from analog to digital television, the Commission adopted a number of rules, many of which were temporary and meant to be effective only during the transition. Others, however, had more long term application to digital operations. Because the more long term rules were adopted at the same time as temporary rules, the long term rules are currently not organized in a straight forward or user-friendly manner. As a result, this NPRM seeks to reorganize subpart E of part 73, including creating cross-references to the rules reorganized for ease, in order to make the rules more practical and easier to find.

This NPRM also seeks comment on updating the coordinates found in § 73.623(e) from North American Datum (“NAD”) 27 to NAD 83 and otherwise conforming the values with the coordinate system used in the Commission's Licensing and Management System (“LMS”) database and with those found in § 90.303(b) of the rules, which define the service that § 73.623(e) protects.

In addition, this NPRM proposes to amend § 73.1620(a)(1) to remind full power and Class A television stations on channel 14 of the requirement found in § 73.687(e)(4)(iii) that they request Program Test Authority (“PTA”) prior to commencing operation of new or modified facilities. This NPRM also proposes to amend the rule to require LPTV and translator stations on channel 14 to request PTA prior to beginning operation of new or modified facilities.

This NPRM also proposes a number of changes to the rules which are obsolete, unnecessary, and are otherwise superseded by the software based tools that the Commission and industry use to prepare and process applications. Also, § 73.625 specifies a number of paper maps which should be used to prepare the profile graphs and to determine the location and height above sea level of the antenna height. This NPRM proposes to remove those references to outmoded paper maps and replace them with a reference to the National Elevation Dataset and other similar bald earth terrain datasets which are used by modern automated software currently used by the Commission and industry. This NPRM proposes to clarify that Commission staff generally expects these calculations to be done via computer, versus the preference for paper calculations that was specified previously, and then indicate that to the extent a submission to the Commission uses sources different from those officially reflected in the Commission's rules, those sources should be clearly identified in the submission.

This NPRM proposes to clarify, in § 73.625(c)(3)(ii) of the rules, that the horizontal power is to be higher than or equal to the vertical power in all directions, and require documentation that the antenna meets this requirement. This NPRM also proposes to update the rule to reflect that the LMS filing system permits an alternate method of specifying mechanically beam tilted facilities. The proposed rule indicates the alternate method is preferable because it provides a three-dimensional representation of the antenna, allowing for more accurate predictions with OET Bulletin No. 69. But the Commission continues to allow the previous method in order to avoid imposing any additional burden on stations that were previously authorized using the previous mechanical beam tilt method.

Section 73.625(c)(3)(v) currently requires that horizontal plane patterns be plotted “to the largest scale possible on unglazed letter-size polar coordinate paper.” This requirement is outdated and not consistent with current licensee and Commission staff practices. This NPRM proposes to instead require licensees to submit patterns in the form of a .pdf attachment to an application filed in LMS, and propose to clarify that similar plots are required for elevation or matrix patterns submitted in the LMS form. This approach would provide flexibility to applicants and conform to modern practices.

With the elimination of analog service, there are no full power television stations operating pursuant to the subscription television (“STV”) rules, which allowed analog stations to offer a subscription television service “for a fee or charge” given that there are no full power television stations operating pursuant to the STV rules and digital television stations are permitted to provide STV-type services on an ancillary or supplementary basis to their primary digital television service, and LMS does not permit the filing of applications or requests to operate in an STV mode. Accordingly, §§ 73.641 through 73.644, 73.4247, 73.6026, and 74.732(e) are obsolete and we propose to eliminate them.

In 2000, the Commission adopted a needs based test in § 73.622(a) for future rulemakings allowing noncommercial educational (NCE) entities to request that “non-reserved channels not already in the Table of Allotments be added and reserved for NCE use.” This NPRM proposes to amend § 73.622(a) to remove this language as Commission staff does not believe it serves a practical purpose in the current environment. Commission staff does not intend, however, to eliminate the ability of an NCE entity to reserve one of the few vacant television channels currently in the Table of TV Allotments. An NCE entity may still file a rulemaking petition to request that the Commission reserve the channel for noncommercial educational use, without being required to rely on the special process enumerated in § 73.622(a).

Section 73.3543 provides that no new special service authorizations may be issued after 1958, however, renewals or modifications will be considered in certain circumstances. The Commission staff is unaware of any such authorizations today, and the Commission tentatively concludes the rule is obsolete and can be deleted. This NPRM proposes to delete the rule and seeks comment on this proposal.

Section 0.434 refers to the Broadcast Application Processing System (BAPS), which is a legacy database system that has not been in use at the Commission for many years. The NPRM proposes to update the rule to reflect the current application television filing and processing databases and methods for viewing the databases.

In January 2021, the Commission adopted updated rules in § 73.626 relating to Distributed Transmission Systems (“DTS”). Since that time, questions have arisen about how the rules are to be applied. To make the intent and application of the rule less ambiguous, this NPRM proposes to modify language in 73.626(b) and (f)(2) to define certain terms and make clarifications that will better reflect the method described in the 2021 DTS Order and used in processing such applications.

All full-power and Class A TV stations are assigned a transport stream ID (“TSID”), which is required to be transmitted in order to provide the Program and System Information Protocol (“PSIP”) data required by § 73.682(d). Consistent with that rule, this NPRM proposes to clarify that all such stations must broadcast with their assigned TSID during their hours of operation. For the same reason, the NPRM proposes the same requirement with respect to a station's bit stream ID (“BSID”), which has the same function as the TSID, but in the ATSC 3.0 context.

The Commission's rules require coordination of applications in border regions with the neighboring countries' appropriate regulatory officials. Under the Exchange of Coordination Letters with IFT Regarding DTV Transition and Reconfiguration of 600 MHz Spectrum, signed between the FCC and Mexico's Instituto Federal de Telecomunicaciones (“IFT”) in July 2015, Class A stations approved by Mexico are grouped with full-service stations. It is the Media Bureau staff's experience that IFT routinely requests that applications submitted for coordination of Class A stations specify a full-service emission mask, and if such applications do not initially specify the full-service emission mask, IFT asks for it to be included in an amendment. This two-step process increases the processing burdens on the FCC, IFT, and stations, and results in delays in granting applications. Therefore, this NPRM proposes to amend § 73.6024(d) to require Class A stations within 275 kilometers of the US-Mexico border to specify a full-service emission mask in any modification application.

This NPRM proposes to delete language in § 73.6025(a) that is almost identical to that in § 73.625(c)(3). These rule sections provide similar requirements regarding how applicants should describe and document antenna patterns submitted in their applications. This NPRM proposes to cross-reference § 73.625(c)(3) in § 73.6025(a), eliminating the duplication but making clear that the requirements in § 73.625(c)(3) continue to apply to Class A television stations. We seek comment on this proposal.

Section 73.6026 lists § 73.624 as a rule applicable to Class A stations. It also includes a note stating that “Section 73.624(b) will apply only to the extent that such stations must also transmit at least one over-the-air video program signal at no direct charge to viewers of the digital Class A station.” Such language is also included in § 73.624(b) and so this NPRM proposes to remove that text in § 73.6026 as duplicative. This NPRM also proposes to clarify that this change would mandate the use of a minimum 480i video resolution by Class A stations, consistent with our proposal with respect to full power and LPTV/translator stations in our earlier adopted Part 74 NPRM, FCC 22-58, (rel. July 13, 2022).

Legal Basis

The proposed action is authorized under sections 1, 4, 301, 303, 307, 308, 309, 310, 316, 319, and 336 of the Communications Act of 1934, as amended, 47 U.S.C. 151, 154, 301, 303, 307, 308, 309, 310, 316, 319, 336.

Description and Estimate of the Number of Small Entities to Which the Proposed Rules Will Apply

The RFA directs agencies to provide a description of, and where feasible, an estimate of the number of small entities that may be affected by the proposed rules, if adopted. The RFA generally defines the term “small entity” as having the same meaning as the terms “small business,” “small organization,” and “small governmental jurisdiction.” In addition, the term “small business” has the same meaning as the term “small business concern” under the Small Business Act (SBA). A small business concern is one which: (1) is independently owned and operated; (2) is not dominant in its field of operation; and (3) satisfies any additional criteria established by the SBA.

Below, we provide a description of the impacted small entities, as well as an estimate of the number of such small entities, where feasible.

Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $41.5 million or less in annual receipts as small. The 2017 U.S. Census Bureau data indicate that 744 firms in this industry operated for the entire year. Of that number, 657 firms had revenue of less than $25,000,000. Based on this data we estimate that the majority of television broadcasters are small entities under the SBA small business size standard.

The Commission estimates that as of June 2022, there were 1,372 licensed commercial television stations. Of this total, 1,280 stations (or 93.2%) had revenues of $41.5 million or less in 2021, according to Commission staff review of the BIA Kelsey Inc. Media Access Pro Television Database (BIA) on June 1, 2022, and therefore these licensees qualify as small entities under the SBA definition. In addition, the Commission estimates that as of June 2022, there were 384 licensed noncommercial educational (NCE) television stations, 383 Class A TV stations, 1,865 LPTV stations and 3,224 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

Radio Stations. This industry is comprised of “establishments primarily engaged in broadcasting aural programs by radio to the public.” Programming may originate in their own studio, from an affiliated network, or from external sources. The SBA small business size standard for this industry classifies firms having $41.5 million or less in annual receipts as small. U.S. Census Bureau data for 2017 show that 2,963 firms operated in this industry during that year. Of this number, 1,879 firms operated with revenue of less than $25 million per year. Based on this data and the SBA's small business size standard, we estimate a majority of such entities are small entities.

The Commission estimates that as of June 30, 2022, there were 4,498 licensed commercial AM radio stations and 6,689 licensed commercial FM radio stations, for a combined total of 11,187 commercial radio stations. Of this total, 11,185 stations (or 99.98%) had revenues of $41.5 million or less in 2021, according to Commission staff review of the BIA Kelsey Inc. Media Access Pro Database (BIA) on June 1, 2022, and therefore these licensees qualify as small entities under the SBA definition. In addition, the Commission estimates that as of June 30, 2022, there were 4,184 licensed noncommercial (NCE) FM radio stations, 2,034 low power FM (LPFM) stations, and 8,951 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

Description of Projected Reporting, Recordkeeping, and Other Compliance Requirements

The NPRM proposes modified reporting requirements. The Commission seeks comment on whether television stations should be able to now make certain required notifications through filings procedures in LMS as opposed to by letter, as has been the case. Similarly, the Commission seeks comment on its proposals to update Commission rules to reference the current designation for form numbers, require electronic filing in LMS, and remove obsolete forms. Should the Commission ultimately decide to adopt these requirements, they would result in a modified paperwork obligation. The Commission anticipates that this option will lessen the physical burden on small entities. The Commission will have to consider the benefits and costs of allowing television stations to submit certain notifications in LMS. If adopted, the Commission will seek approval and the corresponding burdens to account for this modified reporting requirement. We expect the comments we receive from the parties in the proceeding, including cost and benefit analyses, will help the Commission to identify and evaluate compliance costs and burdens for small businesses that may result from the matters discussed in the NPRM.

Steps Taken To Minimize Significant Economic Impact on Small Entities, and Significant Alternatives Considered

The RFA requires an agency to describe any significant alternatives, specifically small business, that it has considered in reaching its proposed approach, which may include the following four alternatives (among others): (1) the establishment of differing compliance or reporting requirements or timetables that take into account the resources available to small entities; (2) the clarification, consolidation, or simplification of compliance or reporting requirements under the rule for such small entities; (3) the use of performance, rather than design, standards; and (4) an exemption from coverage of the rule, or any part thereof, for such small entities. See 5 U.S.C. 603(c)(1)-(4).

This NPRM seeks comment on a number of proposals that would codify Commission staff's current practices or better reflect technological advancements in the industry. The Commission does not have supporting data at this time to determine if there will or will not be an economic impact on small businesses as a result of the proposed rule amendments and/or deletions. However, the Commission anticipates that the proposed rule updates and reorganization generally will lessen the burdens on small entities. For example, § 73.625(b)(5) specifies a number of paper maps which should be used to prepare the profile graphs described in paragraph (b)(4), and to determine the location and height above sea level of the antenna height. Commission staff believes that multiple references to various sources of paper maps contained in the rule are outdated methods to make these types of calculations. This NPRM therefore proposes to remove those references to outmoded paper maps and replace them with a reference to the National Elevation Dataset and other similar bald earth terrain datasets which are used by modern automated software currently used by the Commission and industry. Moreover, § 73.625(b)(4) describes how to plot certain radials on a graph and provides a range of options for the number of points of elevation to use in each radial. This NPRM proposes to conform the requirement to reference the TVStudy software currently used for preparing and processing applications, and specify the use of 10 points per kilometer in all circumstances consistent with present practice found in the TVStudy software used by the Commission and licensees to process and prepare applications. These proposals are an attempt to simplify, streamline, and modernize existing rules and procedures that will enable television stations to more easily comply with licensing requirements through familiar and low cost measures.

In addition, this NPRM seeks to avoid imposing additional burdens on television stations where practicable. For example, this NPRM proposes to update § 73.625(c)(3)(ii) to reflect that the LMS filing system permits an alternate method of specifying mechanically beam tilted facilities. The proposed rule indicates the alternate method is preferable because it provides a three-dimensional representation of the antenna, allowing for more accurate predictions with OET Bulletin No. 69. But Commission staff continues to allow the previous method in order to avoid imposing any additional burden on stations that were previously authorized using the previous mechanical beam tilt method.

Federal Rules That May Duplicate, Overlap, or Conflict With the Proposed Rule

None.

Report to Congress

The Commission will send a copy of this NPRM including the IRFA, in a report to be sent to Congress pursuant to the Congressional Review Act. In addition, the Commission will send a copy of the NPRM including the IRFA, to the Chief Counsel for Advocacy of the SBA. A copy of this NPRM and IRFA (or summaries thereof) will also be published in the Federal Register.

List of Subjects

47 CFR Parts 0

Authority delegations (Government agencies), Organization and functions (Government agencies)

47 CFR Part 27

Communications common carriers.

47 CFR Part 73

Full power TV, Class A TV, Incorporated by reference.

47 CFR Part 74

Low power TV, TV translator stations.

Federal Communications Commission.
Marlene Dortch,
Secretary.

Proposed Regulations

For the reasons discussed in the preamble, the Federal Communications Commission proposes to amend 47 CFR parts 0, 27, 73, and 74 to read as follows:

PART 0—COMMISSION ORGANIZATION

1. The authority citation for part 0 continues to read as follows:

Authority: 47 U.S.C. 151, 154(i), 154(j), 155, 225, and 409, unless otherwise noted.

2. Revise § 0.434 to read as follows:

§ 0.434 Data bases and lists of authorized broadcast stations and pending broadcast applications.

The FCC makes available its data bases, Consolidated Database System (CDBS) and Licensing and Management System (LMS), containing information about authorized broadcast stations, pending applications for such stations, and rulemaking proceedings involving amendments to the TV and FM Table of Allotments. CDBS and LMS contain frequencies, station locations, and other particulars. CDBS and LMS may be viewed at the Commission's website at www.fcc.gov under Media Bureau.

PART 27—MISCELLANEOUS WIRELESS COMMUNICATIONS SERVICE

3. The authority citation for part 27 continues to read as follows:

Authority: 47 U.S.C. 154, 301, 302a, 303, 307, 309, 332, 336, 337, 1403, 1404, 1451, and 1452, unless otherwise noted.

§ 27.60 [Removed and Reserved]

4. Remove and reserve § 27.60.

§ 27.1310 [Removed and Reserved]

5. Remove and reserve § 27.1310.

PART 73—RADIO BROADCAST SERVICES

6. The authority citation for part 73 continues to read as follows:

Authority: 47 U.S.C. 154, 155, 301, 303, 307, 309, 310, 334, 336, 339.

7. Section 73.611 is added to read as follows:

§ 73.611 Emission levels and mask filter.

(a) The power level of emissions on frequencies outside the authorized channel of operation must be attenuated no less than the following amounts below the average transmitted power within the authorized channel. In the first 500 kHz from the channel edge the emissions must be attenuated no less than 47 dB. More than 6 MHz from the channel edge, emissions must be attenuated no less than 110 dB. At any frequency between 0.5 and 6 MHz from the channel edge, emissions must be attenuated no less than the value determined by the following formula:

Formula 1 to paragraph (a)

Attenuation in dB = −11.5(Δf + 3.6);

Where:

Δf = frequency difference in MHz from the edge of the channel.

(b) This attenuation is based on a measurement bandwidth of 500 kHz. Other measurement bandwidths may be used as long as appropriate correction factors are applied. Measurements need not be made any closer to the band edge than one half of the resolution bandwidth of the measuring instrument. Emissions include sidebands, spurious emissions and radio frequency harmonics. Attenuation is to be measured at the output terminals of the transmitter (including any filters that may be employed). In the event of interference caused to any service, greater attenuation may be required.

8. Section 73.612 is revised to read as follows:

§ 73.612 Protection from interference.

(a) Permittees and licensees of TV broadcast stations are not protected from any interference which may be caused by the grant of a new station or of authority to modify the facilities of an existing station in accordance with the provisions of this subpart. The nature and extent of the protection from interference accorded to TV broadcast stations is limited solely to the protection which results from the interference protection requirements set forth in this subpart.

(b) [Reserved]

§ 73.613 [Removed and Reserved]

9. Remove and reserve § 73.613.

10. Amend § 73.614 by:

a. Revising paragraphs (a), (b) introductory text, (b)(1) through (3);

b. Removing and reserving paragraphs (b)(4) and (5);

c. Revising paragraph (b)(6); and

d. Removing paragraph (b)(7).

The revisions read as follows:

§ 73.614 Power and antenna height requirements.

(a) Minimum requirements. Applications will not be accepted for filing if they specify less than 100 watts horizontally polarized visual effective radiated power (ERP) in any horizontal direction. No minimum antenna height above average terrain (HAAT) is specified. For stations requesting DTS operation pursuant to § 73.626, this requirement applies to at least one site in the DTS.

(b) Maximum power. Applications for new full power television stations, for changes in authorized full power television stations, and petitions for changes to the Table of TV Allotments, will not be accepted for filing if they specify a power which exceeds the maximum permitted boundaries specified in the following formulas:

(1) A TV station that operates on a channel 2-6 allotment will be allowed a maximum ERP of 10 kW if its antenna HAAT is at or below 305 meters and it is located in Zone I or a maximum ERP of 45 kW if its antenna HAAT is at or below 305 meters and it is located in Zone II or Zone III.

(i) At higher HAAT levels, such TV stations will be allowed to operate with lower maximum ERP levels in accordance with the following table and formulas (the allowable maximum ERP for intermediate values of HAAT is determined using linear interpolation based on the units employed in the table):

Table 1 to Paragraph (b)(1)(i)—Maximum Allowable ERP and Antenna Height for TV Stations in Zones II or III on Channels 2-6
Antenna HAAT (meters) | ERP (kW)
610 | 10
580 | 11
550 | 12
520 | 14
490 | 16
460 | 19
425 | 22
395 | 26
365 | 31
335 | 37
305 | 45

(ii) For TV stations located in Zone I that operate on channels 2-6 with an HAAT that exceeds 305 meters, the allowable maximum ERP expressed in decibels above 1 kW (dBk) is determined using the following formula, with HAAT expressed in meters:

ERPmax = 92.57−33.24 * log10(HAAT)

(iii) For TV stations located in Zone II or III that operate on channels 2-6 with an HAAT that exceeds 610 meters, the allowable maximum ERP expressed in decibels above 1 kW (dBk) is determined using the following formula, with HAAT expressed in meters:

ERPmax = 57.57−17.08 * log10(HAAT)

(2) A TV station that operates on a channel 7-13 allotment will be allowed a maximum ERP of 30 kW if its antenna HAAT is at or below 305 meters and it is located in Zone I or a maximum ERP of 160 kW if its antenna HAAT is at or below 305 meters and it is located in Zone II or Zone III.

(i) At higher HAAT levels, such TV stations will be allowed to operate with lower maximum ERP levels in accordance with the following table and formulas (the allowable maximum ERP for intermediate values of HAAT is determined using linear interpolation based on the units employed in the table):

Table 2 to Paragraph (b)(2)(i)—Maximum Allowable ERP and Antenna Height for TV Stations in Zones II or III on Channels 7-13
Antenna HAAT (meters) | ERP (kW)
610 | 30
580 | 34
550 | 40
520 | 47
490 | 54
460 | 64
425 | 76
395 | 92
365 | 110
335 | 132
305 | 160

(ii) For TV stations located in Zone I that operate on channels 7-13 with an HAAT that exceeds 305 meters, the allowable maximum ERP expressed in decibels above 1 kW (dBk) is determined using the following formula, with HAAT expressed in meters:

ERPmax = 97.35-33.24 * log10(HAAT)

(iii) For TV stations located in Zone II or III that operate on channels 7-13 with an HAAT that exceeds 610 meters, the allowable maximum ERP expressed in decibels above 1 kW (dBk) is determined using the following formula, with HAAT expressed in meters:

ERPmax = 62.34-17.08 * log10(HAAT)

(3) A TV station that operates on a channel 14-36 allotment will be allowed a maximum ERP of 1,000 kW if its antenna HAAT is at or below 365 meters.

(i) At higher HAAT levels, such TV stations will be allowed to operates with lower maximum ERP levels in accordance with the following table and formulas (the allowable maximum ERP for intermediate values of HAAT is determined using linear interpolation based on the units employed in the table):

Table 3 to Paragraph (b)(3)(i)—Maximum Allowable ERP and Antenna Height for TV Stations on Channels 14-36, All Zones
Antenna HAAT (meters) | ERP (kW)
610 | 316
580 | 350
550 | 400
520 | 460
490 | 540
460 | 630
425 | 750
395 | 900
365 | 1,000

(ii) For TV stations located in Zone I, II or III that operate on channels 14-36 with an HAAT that exceeds 610 meters, the allowable maximum ERP expressed in decibels above 1 kW (dBk) is determined using the following formula, with HAAT expressed in meters:

ERPmax = 72.57-17.08 * log10(HAAT)

Where:

ERPMax = Maximum Effective Radiated Power measured in decibels above 1 kW (dBk).

HAAT = Height Above Average Terrain measured in meters.

(4) [Reserved]

(5) [Reserved]

(6) The effective radiated power in any horizontal or vertical direction may not exceed the maximum values permitted by this section, except that licensees and permittees may request an increase in either ERP in some azimuthal direction or antenna HAAT, or both, up to the maximum permissible limits on TV power set forth in paragraph (b)(1), (2), or (3) of this section, as appropriate, up to that needed to provide the same geographic coverage area as the largest station within their market. Such requests must be accompanied by a technical showing that the increase complies with the technical criteria in § 73.620, and thereby will not result in new interference exceeding the de minimis standard set forth in that section, or statements agreeing to the change from any co-channel or adjacent channel stations that might be affected by potential new interference, in accordance with § 73.620(e). For the purposes of this paragraph:

(i) The maximum ERP value shall not exceed the maximum permitted at any height within the relevant zone consistent with the values permitted in paragraph (b)(1), (2), or (3) of this section. The associated maximum height for that given ERP may be exceeded.

(ii) Stations in the same Nielsen DMA are considered to be in the same market.

(iii) “Geographic coverage area” is defined as the number of square kilometers found within a station's F(50,90) contour as calculated in § 73.619. A station taking advantage of this provision need not specify coverage that is congruent with or encompassed by the largest station in the market.

* * * * *

§ 73.615 [Removed and Reserved]

11. Remove and reserve § 73.615.

12. Section 73.616 is amended by:

a. Revising the section heading;

b. Removing and reserving paragraphs (a), (b), and (c), and the introductory text to paragraph (d);

c. Revising the introductory text to paragraph (d)(1); and

d. Removing and reserving paragraphs (d)(2), (e) and (g).

The revisions read as follows:

§ 73.616 References to TV station interference protection methodology.

* * * * *

(d) [Reserved]

(1) For evaluating compliance with the requirements of this paragraph, interference to populations served is to be predicted based on the most recent official decennial U.S. Census population data as identified by the Media Bureau in a Public Notice issued not less than 60 days prior to use of the data for a specific year in application processing and otherwise according to the procedure set forth in OET Bulletin No. 69: “Longley-Rice Methodology for Evaluating TV Coverage and Interference” (February 6, 2004) (incorporated by reference, see § 73.8000), including population served within service areas determined in accordance with § 73.619, consideration of whether F(50,10) undesired signals will exceed the following desired-to-undesired (D/U) signal ratios, assumed use of a directional receiving antenna, and use of the terrain dependent Longley-Rice point-to-point propagation model. Applicants may request the use of a cell size other than the default of 2.0 km per side, but only requests for cell sizes of 1.0 km per side or 0.5 km per side will be considered. The threshold levels at which interference is considered to occur are:

* * * * *

13. Section 73.617 is added to read as follows:

§ 73.617 Interference protection of other services.

(a) Protection of land mobile operations on channels 14-20. The Commission will not accept petitions to amend the Table of TV Allotments, applications for new TV stations, or applications to change the channel or location of authorized TV stations that would use channels 14-20 where the distance between the TV reference coordinates as defined in § 73.622(d), would be located less than 250 km from the city center of a co-channel land mobile operation or 176 km from the city center of an adjacent channel land mobile operation. Such filings that do not meet the minimum TV-to-land mobile spacing standards will, however, be considered where all affected land mobile licensees consent to the requested action. Land mobile operations are authorized on these channels in the following markets:

Table 1 to Paragraph (a)—Land Mobile Operations To Be Protected
City | Channels | Latitude | Longitude
Boston, MA | 14, 16 | 42°21′24.4″ | 71°03′23.2″
Chicago, IL | 14, 15 | 41°52′28.1″ | 87°38′22.2″
Cleveland, OH | 14, 15 | 41°29′51.2″ | 81°49′49.5″
Dallas, TX | 16 | 32°47′09.5″ | 96°47′38.0″
Detroit, MI | 15, 16 | 42°19′48.1″ | 83°02′56.7″
Houston, TX | 17 | 29°45′26.8″ | 95°21′37.8″
Los Angeles, CA | 14, 16, 20 | 34°03′15.0″ | 118°14′31.3″
Miami, FL | 14 | 25°46′38.4″ | 80°11′31.2″
New York, NY | 14, 15, 16 | 40°45′06.4″ | 73°59′37.5″
Philadelphia, PA | 19, 20 | 39°56′58.4″ | 75°09′19.6″
Pittsburgh, PA | 14, 18 | 40°26′19.2″ | 79°59′59.2″
San Francisco, CA | 16, 17 | 37°46′38.7″ | 122°24′43.9″
Washington, DC | 17, 18 | 38°53′51.4″ | 77°00′31.9″

Note 1 to paragraph (a). The Chief, Public Safety and Homeland Security Bureau, waived the rules to allow channel 15 to be used for land mobile operation in Los Angeles County, CA (DA 08-2823; adopted December 30, 2008). Notwithstanding the channels listed in paragraph (a) of this section, the waiver requires television stations to protect this land mobile operation.

(b) Protection of land mobile operations below channel 14. (1) TV broadcast stations operating on Channel 14 must take special precautions to avoid interference to adjacent spectrum land mobile radio service facilities. Where a TV station is authorized and operating prior to the authorization and operation of the land mobile facility, a Channel 14 station must attenuate its emissions within the frequency range 467 to 470 MHz if necessary to permit reasonable use of the adjacent frequencies by land mobile licensees.

(2) The requirements listed below apply to permittees authorized to construct a new station on TV Channel 14, and to licensees authorized to change the channel of an existing station to Channel 14, to increase effective radiated power (ERP) (including any change in directional antenna characteristics that results in an increase in ERP in any direction), or to change the transmitting location of an existing station.

(i) For the purposes of this paragraph (b), a protected land mobile facility is a receiver that is intended to receive transmissions from licensed land mobile stations within the frequency band below 470 MHz, and is associated with one or more land mobile stations for which a license has been issued by the Commission, or a proper application has been received by the Commission prior to the date of the filing of the TV construction permit application. However, a land mobile facility will not be protected if it is proposed in an application that is denied or dismissed and that action is no longer subject to Commission review. Further, if the land mobile station is not operating when the TV facility commences operation and it does not commence operation within the time permitted by its authorization in accordance with part 90 of this chapter, it will not be protected.

(ii) A TV permittee must take steps before construction to identify potential interference to normal land mobile operation that could be caused by TV emissions outside the authorized channel, land mobile receiver desensitization or intermodulation. It must install filters and take other precautions as necessary, and submit evidence that no interference is being caused before it will be permitted to transmit programming on the new facilities pursuant to the provisions of § 73.1615 or § 73.1620 of this part. A TV permittee must reduce its emissions within the land mobile channel of a protected land mobile facility that is receiving interference caused by the TV emission producing a vertically polarized signal and a field strength in excess of 17 dBu at the land mobile receiver site on the land mobile frequency. The TV emission should be measured with equipment set to a 30 kHz measurement bandwidth including the entire applicable land mobile channel. A TV permittee must correct a desensitization problem if its occurrence can be directly linked to the start of the TV operation and the land mobile station is using facilities with typical desensitization rejection characteristics. A TV permittee must identify the source of an intermodulation product that is generated when the TV operation commences. If the intermodulation source is under its control, the TV permittee must correct the problem. If the intermodulation source is beyond the TV permittee's control, it must cooperate in the resolution of the problem and should provide whatever technical assistance it can.

(c) Channel 6 Protection of FM radio stations. Parties requesting new allotments on channel 6 be added to the Table of TV Allotments must submit an engineering study demonstrating that no interference would be caused to existing FM radio stations on FM channels 200-220.

(d) Blanketing interference. Present information is not sufficiently complete to establish blanketing interference areas for television broadcast stations. Blanketing interference is interference in an area adjacent to a transmitter in which the reception of other stations is subject to interference due to the strong signal from this station. The authorization of station construction in areas where blanketing interference is found to be excessive will be on the basis that the applicant will assume full responsibility for the adjustment of reasonable complaints arising from excessively strong signals of the applicant's station or take other corrective action.

(e) Medical telemetry device notification condition. Stations should be aware that a condition is placed on all TV broadcast station authorizations that result in a change in coverage area, or all authorizations for new stations, which requires TV broadcasters to identify and notify hospital and other health care facilities within the station's coverage area to avoid interference to medical telemetry devices.

14. Section 73.618 is added to read as follows:

§ 73.618 Antenna location and principal community coverage.

(a) The TV antenna location shall be chosen so that, on the basis of the effective radiated power (ERP) and antenna height above average terrain (HAAT) employed, the following minimum F(50,90) field strength in dB above one uV/m will be provided over the entire principal community to be served:

Table 1 to Paragraph (a)—Minimum Field Strength Required Over Principal Community
| dBu
Channels 2-6 | 35
Channels 7-13 | 43
Channels 14-36 | 48

(b) The location of the antenna must be so chosen that there is not a major obstruction in the path over the principal community to be served.

(c) For the purposes of this section, coverage is to be determined in accordance with § 73.619(b). Under actual conditions, the true coverage may vary from these estimates because the terrain over any specific path is expected to be different from the average terrain on which the field strength charts were based. Further, the actual extent of service will usually be less than indicated by these estimates due to interference from other stations. Because of these factors, the predicted field strength contours give no assurance of service to any specific percentage of receiver locations within the distances indicated.

15. Section 73.619 is added to read as follows:

§ 73.619 Contours and service areas.

(a) Purposes of the field strength contours. The field strength contours will be considered for the following purposes only:

(1) In the estimation of coverage resulting from the selection of a particular transmitting antenna site by an applicant for a TV station.

(2) In connection with problems of coverage arising out of application of § 73.3555.

(3) In determining compliance with § 73.618(a) concerning the minimum field strength to be provided over the principal community to be served.

(b) Determining coverage. (1) In predicting the distance to the field strength contours, the F (50,50) field strength charts (Figures 9, 10 and 10b of § 73.699 of this part) and the F (50,10) field strength charts (Figures 9a, 10a and 10c of § 73.699 of this part) shall be used. To use the charts to predict the distance to a given F (50,90) contour, the following procedure is used: Convert the effective radiated power in kilowatts for the appropriate azimuth into decibel value referenced to 1 kW (dBk). Subtract the power value in dBk from the contour value in dBu. Note that for power less than 1 kW, the difference value will be greater than the contour value because the power in dBk is negative. Locate the difference value obtained on the vertical scale at the left edge of the appropriate F (50,50) chart for the TV station's channel. Follow the horizontal line for that value into the chart to the point of intersection with the vertical line above the height of the antenna above average terrain for the appropriate azimuth located on the scale at the bottom of the chart. If the point of intersection does not fall exactly on a distance curve, interpolate between the distance curves below and above the intersection point. The distance values for the curves are located along the right edge of the chart. Using the appropriate F (50,10) chart for the DTV station's channel, locate the point where the distance coincides with the vertical line above the height of the antenna above average terrain for the appropriate azimuth located on the scale at the bottom of the chart. Follow a horizontal line from that point to the left edge of the chart to determine the F (50,10) difference value. Add the power value in dBk to this difference value to determine the F (50,10) contour value in dBu. Subtract the F (50,50) contour value in dBu from this F (50,10) contour value in dBu. Subtract this difference from the F (50,50) contour value in dBu to determine the F (50,90) contour value in dBu at the pertinent distance along the pertinent radial.

(2)(i) The effective radiated power to be used is that radiated at the vertical angle corresponding to the depression angle between the transmitting antenna center of radiation and the radio horizon as determined individually for each azimuthal direction concerned. The depression angle is based on the difference in elevation of the antenna center of radiation above the average terrain and the radio horizon, assuming a smooth spherical earth with a radius of 8,495.5 kilometers (5,280 miles) and shall be determined by the following equation:

Equation 1 to paragraph (b)(2)(i)

A = 0.0277 square root of H

Where:

A is the depression angle in degrees.

H is the height in meters of the transmitting antenna radiation center above average terrain of the 3.2-16.1 kilometers (2-10 miles) sector of the pertinent radial.

(ii) This equation is empirically derived for the limited purpose specified here of determining distance to filed strength contours for coverage. Its use for any other purpose may be inappropriate.

(3) Applicants for new TV stations or changes in the facilities of existing TV stations must submit to the FCC a showing as to the location of their stations' or proposed stations' contour. This showing is to include a map showing this contour, except where applicants have previously submitted material to the FCC containing such information and it is found upon careful examination that the contour locations indicated therein would not change, on any radial, when the locations are determined under this section. In the latter cases, a statement by a qualified engineer to this effect will satisfy this requirement and no contour maps need be submitted.

(4) The antenna height to be used with these charts is the height of the radiation center of the antenna above the average terrain along the radial in question. In determining the average elevation of the terrain, the elevations between 3.2-16.1 kilometers (2-10 miles) from the antenna site are employed. Path profiles shall be determined for 8 radials beginning at the antenna site and extending 16.1 kilometers (10 miles) therefrom. The radials should be determined for each 45 degrees of azimuth starting with True North. 10 points per kilometer of elevation (uniformly spaced) should be used for each radial. It is not necessary to take the curvature of the earth into consideration in this procedure, as this factor is taken care of in the charts showing signal strengths. The average elevation of the 12.9 kilometer (8 miles) distance between 3.2-16.1 kilometers (2-10 miles) from the antenna site should then be determined from the path profile for each radial. In directions where the terrain is such that negative antenna heights or heights below 30.5 meters (100 feet) for the 3.2 to 16.1 kilometers (2 to 10 mile) sector are obtained, an assumed height of 30.5 meters (100 feet) shall be used for the prediction of coverage. Actual calculated values should be used for computation of height above average terrain.

(5) In the preparation of the path profiles previously described, and in determining the location and height above sea level of the antenna site, the elevation or contour intervals shall be taken from a high quality bald earth terrain map or dataset such as the United States Geological Survey Topographic Quadrangle Maps or the National Elevation Dataset. If a dataset is used, the data must be processed for intermediate points along each radial using linear interpolation techniques.

(6) It is anticipated that many of these calculations may be done using computer software and with computerized datasets. If software or datasets besides those officially adopted by the FCC are utilized, the alternate software or data must be identified.

(c) TV Service Areas. (1) The service area of a TV station is the geographic area within the station's noise-limited F(50,90) contour where its signal strength is predicted to exceed the noise-limited service level. The noise-limited contour is the area in which the predicted F(50,90) field strength of the station's signal, in dB above 1 microvolt per meter (dBu) as determined using the method in § 73.619(b) exceeds the following levels (these are the levels at which reception of TV service is limited by noise):

Table 1 to Paragraph (c)(1)—Noise Limited Service Levels
| dBu
Channels 2-6 | 28
Channels 7-13 | 36
Channels 14-36 | 41

(2) Within this contour, service is considered available at locations where the station's signal strength, as predicted using the terrain dependent Longley-Rice point-to-point propagation model, exceeds the levels above. Guidance for evaluating coverage areas using the Longley-Rice methodology is provided in OET Bulletin No. 69. For availability of OET Bulletin No. 69 (which is incorporated by reference elsewhere in this part), contact FCC (see § 73.8000 for contact information).

(d) Protected facilities of an allotment. The protected facilities of a TV allotment shall be the facilities (effective radiated power, antenna height and antenna directional radiation pattern, if any) authorized by a construction permit or license, or, where such an authorization is not available for establishing reference facilities, the facilities designated in the FCC order creating or modifying the Table of TV Allotments.

16. Section 73.620 is added to read as follows:

§ 73.620 Interference calculation and protection of TV broadcast services.

(a) Due to the frequency spacing that exists between Channels 4 and 5, between Channels 6 and 7, and between Channels 13 and 14, the minimum adjacent channel technical criteria specified in this section shall not be applicable to these pairs of channels (see § 73.603(a)).

(b) Interference is to be predicted based on the procedures found in § 73.616(d)(1). (c) An application will not be accepted if it is predicted to cause interference to more than an additional 0.5 percent of the population served by another TV station. For this purpose, the population served by the station receiving additional interference does not include portions of the population within the noise-limited service contour of that station that are predicted to receive interference from the TV allotment facilities of the applicant or portions of that population receiving masking interference from any other station.

(d) A petition to add a new channel to the TV Table or any application to modify an existing TV station or allotment will not be accepted if it is predicted to cause more than 0.5 percent new interference, consistent with paragraphs (a) and (b) of this section, to a Class A TV station authorized pursuant to subpart J of this part, within the protected contour defined in § 73.6010.

(e) Negotiated agreements on interference. TV stations may operate with increased effective radiated power (ERP) and/or antenna height above average terrain (HAAT) that would result in more than 0.5 percent additional interference to another TV station if that station agrees, in writing, to accept the additional interference. Such agreements must be submitted with the application for authority to construct or modify the affected TV station. Negotiated agreements under this paragraph can include the exchange of money or other considerations from one station to another, including payments to and from noncommercial television stations assigned to reserved channels. Applications submitted pursuant to the provisions of this paragraph will be granted only if the Commission finds that such action is consistent with the public interest.

(f) The interference protection requirements contained in this section apply to television station operations under both the TV transmission standard in § 73.682(d) and the Next Gen TV transmission standard in § 73.682(f).

17. Section 73.621 is amended by removing and reserving paragraphs (g) and (h) and revising paragraph (j).

§ 73.621 Noncommercial educational TV stations.

* * * * *

(j) The requirements of this section apply to the entire digital bitstream of noncommercial educational television stations, including the provision of ancillary or supplementary services.

18. Revise § 73.622 to read as follows:

§ 73.622 Table of TV allotments.

(a) General. The following table of TV allotments contains the television channel allotments designated for the listed communities in the United States, its Territories, and possessions. Requests for addition of new TV allotments, or requests to change the channels allotted to a community, must be made in a petition for rule making to amend the Table of TV Allotments. A request to amend the Table of TV Allotments to add an allotment or change the channel of an allotment in the Table will be evaluated for technical acceptability using engineering criteria set forth in §§ 73.617, 73.618, and 73.620. A request to amend the TV table to add a new allotment will be evaluated for technical acceptability using the geographic spacing criteria set forth in § 73.622(k) and the engineering criteria set forth in §§ 73.614, 73.617, 73.618, and 73.620(a) and (d). TV allotments designated with an asterisk are assigned for use by non-commercial educational broadcast stations only. Rules governing noncommercial educational TV stations are contained in § 73.621.

(b)[Reserved]

(c) [Reserved]

(d) Reference points and distance computations.

(1) [Reserved]

(2) The reference coordinates of a TV allotment shall be the coordinates of the authorized facility. Where such a transmitter site is not available for use as reference coordinates, such as a new allotment, the coordinates shall be those designated in the FCC order modifying the Table of TV Allotments.

(e) [Reserved]

(f) [Reserved]

(g) [Reserved]

(h) [Reserved]

(i) [Reserved]

(j) Table of TV Allotments.

Community | Channel No.
Alabama:
Anniston | 9
Bessemer | 14
Birmingham | 7, *10, 20, 29, 30
Demopolis | *19
Dothan | 21, 36
Dozier | *10
Florence | 2, *22
Gadsden | 26
Gulf Shores | 27
Homewood | 21
Hoover | 33
Huntsville | 15, 17, 18, 19, *24
Louisville | *30
Mobile | 9, 15, 18, 20, 23, *30
Montgomery | 8, 22, *27, 28, 31
Mount Cheaha | *12
Opelika | 17
Ozark | 33
Selma | 25, 34
Troy | 19
Tuscaloosa | 6, 36
Tuskegee | 18
Vernon | *4
Alaska:
Anchorage | 7, *8, 10, 12, 20, *26, 28, 33
Bethel | *3
Fairbanks | 7, *9, 18, 26
Juneau | *10, 11
Ketchikan | 13
North Pole | 20
Sitka | 7
Arizona:
Douglas | 36
Flagstaff | 13, 22, 32
Green Valley | 34
Holbrook | *11
Kingman | 19
Mesa | 18
Phoenix | *8, 10, 15, 17, 20, 24, 26, 27, 29, 33
Prescott | 7
Sierra Vista | 21
Tolleson | 31
Tucson | 9, 16, 19, 23, 25, *28, *30, 32
Yuma | 11, 13
Arkansas:
Arkadelphia | *13
Camden | 18
El Dorado | *10, 27
Eureka Springs | 25
Fayetteville | *9, 15
Fort Smith | 18, 21, 27
Harrison | 31
Hot Springs | 16
Jonesboro | 18, *20, 27
Little Rock | *7, 12, 22, 28, 30, 32, *36
Mountain View | *13
Pine Bluff | 24, 34
Rogers | 33
Springdale | 29
California:
Anaheim | 12
Arcata | 22
Avalon | S
Bakersfield | 10, 25, 26, 33
Bishop | 20
Calipatria | 36
Ceres | *15
Chico | 20, 36
Clovis | 27
Concord | S
Corona | 25
Cotati | *5
El Centro | 9, 22
Eureka | 3, *11, 17, 28
Fort Bragg | * 4, 8
Fremont | S
Fresno | 7, 20, 30, *32, 34
Garden Grove | S
Hanford | 21
Huntington Beach | *S
Inglewood | S
Long Beach | 18
Los Angeles | 4, 7, 9, 11, 13, *28, 31, 34, 35, 36, *S
Merced | 11
Modesto | 18
Monterey | 32, S
Oakland | 31
Ontario | 29
Palm Springs | 26, 28
Palo Alto | S
Paradise | 30
Porterville | 23
Rancho Palos Verdes | 30
Redding | *9, 15
Riverside | S
Sacramento | *9, 10, 21, 22, 24, 35
Salinas | 8, 11
San Bernardino | *5, 24
San Diego | 8, 10, 17, 18, *19, 26
San Francisco | 7, 12, 20, 28, 29, *30, 32, S, S, *S
San Jose | 13, 19, 33, 36, *S
San Luis Obispo | 15, 34
San Mateo | *27
Sanger | 36
Santa Ana | 33
Santa Barbara | 21, 27
Santa Maria | 19
Stockton | 23, 25, 26
Twentynine Palms | 23
Vallejo | 34
Ventura | S
Visalia | *22, 28
Watsonville | *25
Colorado:
Boulder | 32
Broomfield | *13
Castle Rock | 15
Colorado Springs | 22, 24, 26
Denver | 7, 9, 18, *20, 28, 31, *33, 34, 35, 36
Durango | 15, *20, 33
Fort Collins | 21
Glenwood Springs | 23
Grand Junction | 2, 7, 12, 15, *18
Greeley | 17
Longmont | 29
Montrose | 13
Pueblo | *8, 25, 27
Steamboat Springs | 10
Sterling | 23
Connecticut:
Bridgeport | S
Hartford | *30, 34, 36, S
New Britain | 31
New Haven | 10, S, *S
New London | 28
Norwich | *9
Stamford | *21
Waterbury | 33
Delaware:
Dover | 5
Seaford | *24
Wilmington | 2, *13, 34
District of Columbia:
Washington | 7, 9, *31, *33, 34, 36, S, S
Florida:
Boca Raton | *25
Boynton Beach | *S
Bradenton | 29
Cape Coral | 34
Clearwater | 21
Clermont | 23
Cocoa | *30, 32
Daytona Beach | 11, 15
Destin | 29
Fort Lauderdale | 30
Fort Myers | 15, *22, 31
Fort Pierce | *18, 20
Fort Walton Beach | 14, 21, 25
Gainesville | 8, 16, *36
High Springs | 29
Hollywood | 24
Jacksonville | *9, 13, 14, 18, 19, 20, *21
Key West | 3, 8
Lake Worth | 36
Lakeland | 18
Leesburg | 7, *S
Live Oak | 17
Marianna | 26
Melbourne | 14, 22
Miami | 9, 10, 21, 22, 23, *26, 27, 28, *29, 31, 32
Naples | 28, 32
New Smyrna Beach | *24
Ocala | 31
Orange Park | 10
Orlando | 26, 27, 28, 33, *34, 35
Palm Beach | 7
Panama City | 9, 13, 16, *28
Panama City Beach | 33
Pensacola | 17, *24, 34, 35
Sarasota | 24
St. Petersburg | 10, 19, S
Stuart | 34
Tallahassee | 22, 24, 27, *32
Tampa | 9, 12, *13, 17, 20, *S
Tequesta | 16
Tice | 33
Venice | 25
West Palm Beach | 12, 13, 35
Georgia:
Albany | 10, 29
Athens | *7, 18
Atlanta | 10, 19, *21, 25, 27, 31, 32, *34, 36
Augusta | 27, 28, 36
Bainbridge | 19
Baxley | 35
Brunswick | 24
Chatsworth | *4
Cochran | *9
Columbus | *5, 11, 15, 24, 35
Cordele | 34
Dalton | 28
Dawson | *7
Macon | 13, 26, 30, 33
Monroe | 22
Pelham | *6
Perry | 23
Rome | 16
Savannah | *8, 16, 22, 23
Thomasville | 20
Toccoa | 24
Valdosta | 31
Waycross | *7
Wrens | *6
Hawaii:
Hilo | 9, 11, 13, 22, 23
Honolulu | 8, *11, *18, 19, 20, 22, 23, *26, 27, 31, 33, 35
Kailua | 29
Kailua-Kona | 25
Kaneohe | 32
Wailuku | 7, *10, 12, 16, 21, 24
Waimanalo | 15
Idaho:
Boise | 7, 15, 20, *21
Caldwell | 10
Coeur d'Alene | *18
Filer | *18
Idaho Falls | 8, 20, 36
Lewiston | 32
Moscow | *12
Nampa | 13, 24
Pocatello | *17, 23, 31
Sun Valley | 5
Twin Falls | 11, *22, 34
Illinois:
Aurora | S
Bloomington | 28
Carbondale | *8
Champaign | 32, 34
Charleston | *30
Chicago | 12, 19, 22, 23, 24, *25, 33, 34, S
Decatur | 20, 22
East St. Louis | 28
Freeport | 9
Galesburg | 8
Harrisburg | 34
Jacksonville | *18
Joliet | 35
Macomb | *36
Marion | 30
Moline | *23, 31
Mount Vernon | 13
Naperville | S
Olney | *23
Oswego | 10
Peoria | 24, 25, 26, *35
Quincy | 22, 32, *34
Rock Island | 4
Rockford | 13, 16, 36
Springfield | 11, 15, 16
Urbana | *9, 36
Indiana:
Angola | 12
Bloomington | 27, 28, *33, S
Elkhart | 30
Evansville | *9, 12, 22, 26, 28
Fort Wayne | *18, 20, 24, 32, 34
Gary | *17, S
Hammond | 21
Indianapolis | 7, 9, 13, *21, 22, *23, 25
Kokomo | 15
Lafayette | 11
Marion | S
Muncie | 19
Richmond | S
Salem | 16
South Bend | 27, 29, *31, 36
Terre Haute | 10, 18, 35
Vincennes | *31
Iowa:
Ames | 5, 23, *34
Burlington | 21
Cedar Rapids | 22, 27, 29, 32
Council Bluffs | *33
Davenport | 17, 30, *34
Des Moines | 8, *11, 13, 16, 19
Dubuque | 14
Fort Dodge | *25
Iowa City | *12, 25
Mason City | *18, 24
Newton | 36
Ottumwa | 15
Red Oak | *35
Sioux City | 9, 14, *28, 30, 32
Waterloo | 7, *35
Kansas:
Colby | 17, *19
Derby | 31
Dodge City | *21
Ensign | 6
Garden City | 11, 13
Goodland | 10
Great Bend | 22
Hays | 7, *16
Hoisington | 14
Hutchinson | *8, 19, 35
Lakin | *8
Lawrence | 25
Pittsburg | 7, 13
Salina | 17
Topeka | *11, 12, 13, 16, 27
Wichita | 10, 15, 26, 28
Kentucky:
Ashland | 13, *36
Beattyville | 7
Bowling Green | 13, *18, 24, *29
Covington | *22
Danville | 19
Elizabethtown | *23
Harlan | S
Hazard | 20, *33
Lexington | 21, 27, 28, *35
Louisville | 8, 11, 14, *30, 32, *34, 36
Madisonville | *31
Morehead | *30
Murray | *17
Newport | 15
Owensboro | 17
Owenton | *24
Paducah | 19, *23, 25
Pikeville | *23
Richmond | 25
Somerset | *17
Louisiana:
Alexandria | 26, 31, *33, 35
Baton Rouge | 9, 13, 24, *25, 34
Columbia | 11
Hammond | 35
Lafayette | 10, 16, *23, 28
Lake Charles | 7, 18, *20
Minden | 32
Monroe | *13, 24
New Iberia | 17
New Orleans | 15, 19, 21, *23, 26, 27, *28, 29, 33
Shreveport | 16, *17, 23, 28, 34
Slidell | 17
West Monroe | 19, 22
Maine:
Augusta | *20
Bangor | 2, 7, 13
Biddeford | *36
Calais | *10
Lewiston | 24
Orono | *22
Poland Spring | 8
Portland | 15, 31, 34
Presque Isle | 8, *10
Waterville | 17
Maryland:
Annapolis | *21
Baltimore | 11, 12, *22, 25, 26, 27, S
Frederick | *28
Hagerstown | 23, *29
Oakland | *26
Salisbury | *16, 29, 32
Silver Spring | S
Massachusetts:
Boston | *5, 20, 21, 22, *32, 33, 34, 35
Cambridge | S
Foxborough | S
Lowell | *S
Marlborough | 27
New Bedford | 24, S
Norwell | 36
Pittsfield | 7
Springfield | 11, *13, 26
Woburn | S
Worcester | 19
Michigan:
Alpena | 11, *24
Ann Arbor | 24
Bad Axe | *15
Battle Creek | 17, 21
Bay City | 23, 30
Cadillac | 9, 32, *34
Calumet | 5
Cheboygan | 16
Detroit | 7, *20, 21, 25, 31, 32, 34
East Lansing | *33
Escanaba | 32
Flint | 12, 16
Grand Rapids | 7, *11, 13, 19
Ishpeming | 10
Kalamazoo | *5, 8, 22
Lansing | 14, 28, S
Manistee | *20
Marquette | *8, 19, 35
Mount Clemens | 27
Mount Pleasant | *26
Muskegon | 24
Onondaga | 10
Saginaw | 18, 36
Sault Ste. Marie | 8, 10
Traverse City | 29, 35
Vanderbilt | 21
Minnesota:
Alexandria | 7, 24
Appleton | *10
Austin | *20, 36
Bemidji | *9, 26
Brainerd | *28
Chisholm | 11
Crookston | *16
Duluth | *8, 10, 18, 27, 33
Hibbing | 13, *31
Mankato | 12
Minneapolis | 9, 22, 29, 30, 31, 32
Redwood Falls | 27
Rochester | 10, 26
St. Cloud | 16
St. Paul | *23, *34, 35
Thief River Falls | 10
Walker | 12
Worthington | *15
Mississippi:
Biloxi | *16, 32
Booneville | *9
Bude | *18
Columbus | 27
Greenville | 15
Greenwood | *25, 32
Gulfport | 25
Hattiesburg | 22
Holly Springs | 26
Jackson | 12, 14, *20, 21, 23, 30
Laurel | 7
Magee | 34
Meridian | 13, 24, *28, 31
Mississippi State | *8
Natchez | 15
Oxford | *36
Senatobia | *S
Tupelo | 11, 17
Vicksburg | 36
West Point | 16
Missouri:
Cape Girardeau | 32, 36
Columbia | 17, 27
Hannibal | 22
Jefferson City | 20, 29
Joplin | 17, 23, *35
Kansas City | *18, 24, 29, 30, 31, 32, 34, 36
Kirksville | 33
Osage Beach | 22
Poplar Bluff | 15
Sedalia | 15
Springfield | 10, *16, 19, 28
St. Joseph | 7, 21
St. Louis | 14, *23, 24, 26, 31, 33, 35
Montana:
Billings | 11, *16, 18, 20
Bozeman | * 8, 27
Butte | 15, 19, 20, 24
Glendive | 5
Great Falls | 8, 17, * 21, 22, 26
Hardin | 22
Havre | 9
Helena | 29, 31
Kalispell | 9, *15
Miles City | 3
Missoula | 7, *11, 20, 23
Nebraska:
Alliance | *13
Bassett | *7
Grand Island | 11
Hastings | 5, *28
Hayes Center | 6
Kearney | 18
Lexington | *26
Lincoln | 8, 10, *12, 15
McCook | 12
Merriman | *12
Missoula | *11, 20, 23, 25
Norfolk | *19
North Platte | 2, *9
Omaha | *17, 20, 22, 26, 29, 31
Scottsbluff | 29
Sidney | 7
York | 24
Nevada:
Elko | 10
Ely | 27
Henderson | 24
Las Vegas | 2, 7, *11, 13, 16, 22, 29
Laughlin | 32
Paradise | 20
Reno | 8, 11, 12, *15, 20, 23, 26
Tonopah | 9
Winnemucca | 7
New Hampshire:
Concord | 23
Derry | S
Durham | *11
Keene | *18
Littleton | *23
Manchester | 9
Merrimack | 29
New Jersey:
Atlantic City | 4
Camden | *23
Jersey City | S
Linden | 35
Middletown Township | 3
Millville | S
Montclair | *S
Mount Laurel | S
New Brunswick | *8
Newark | 12, 26
Newton | 18
Paterson | S
Princeton | S
Secaucus | 25
Trenton | *S
Vineland | S
Wildwood | 36
New Mexico:
Albuquerque | 7, 13, 16, *17, 22, 24, 26, *35, 36
Carlsbad | 19, 25
Clovis | 12
Farmington | 12
Hobbs | 29
Las Cruces | *23, 26
Portales | *32
Roswell | 8, 10, 21, 27
Santa Fe | *8, 10, 27, 29
Silver City | 10, 12
New York:
Albany | 8, 21, 24
Amsterdam | 19
Batavia | 24
Binghamton | 7, 8, 27, *31
Buffalo | 16, *31, 32, 33, 34, 36, S
Carthage | 8
Corning | *25, 30
Elmira | 23, 35
Garden City | *32
Ithaca | 13
Jamestown | 5
New Rochelle | S
New York | 7, 11, *24, 27, 34, 36, S
Norwood | *23
Plattsburgh | 14, *36
Riverhead | 29
Rochester | 9, 10, 21, *22, 28
Saranac Lake | 34
Schenectady | 22, *25, 35
Smithtown | 23
Springville | 7
Syracuse | 14, 15, 17, 18, 19, *20, 36
Utica | 29, 30, 34
Watertown | *26, 31
North Carolina:
Archer Lodge | S
Asheville | 13, *20, S
Belmont | 25
Burlington | 26
Chapel Hill | *20
Charlotte | *9, 18, 19, 23, 24
Concord | *21
Durham | 9, 14
Edenton | *29
Fayetteville | 22
Goldsboro | 8
Greensboro | 28, 35, S
Greenville | 12, 19, *25, 36
Hickory | 14
High Point | 31
Jacksonville | 16, *28
Kannapolis | 32
Lexington | S
Linville | *36
Lumberton | *30
Manteo | 13
New Bern | 10
Raleigh | 15, 17, 18
Roanoke Rapids | *27
Rocky Mount | 32
Wake Forest | S
Washington | 34
Wilmington | *21, 23, 24, 29
Winston-Salem | 16, 29, *33
North Dakota:
Bismarck | 12, 17, *22, 26, 31
Devils Lake | 8, *25
Dickinson | 7, *9, 19
Ellendale | *20
Fargo | *13, 19, 21, 36
Grand Forks | *15, 27
Jamestown | 7
Minot | 10, 13, 14, *15, 24
Pembina | 12
Valley City | 24
Williston | 8, *11, 14
Ohio:
Akron | 17, 22, *24
Alliance | *29
Athens | *32
Bowling Green | *22
Cambridge | *6
Canton | S, S
Chillicothe | 23
Cincinnati | 12, *17, 18, 20, 26
Cleveland | 8, 15, 19, *35, 36
Columbus | 14, *16, 21, 27, 28
Dayton | 31, 33, 34, *35, 36
Lima | 4, 8
London | S
Lorain | S
Mansfield | 12
Oxford | *29
Portsmouth | 15
Sandusky | 3
Shaker Heights | 10
Springfield | S
Steubenville | 9
Toledo | 11, 13, 23, 26, *29, 35
Youngstown | 31, 33, S
Zanesville | 30
Oklahoma:
Ada | 17
Bartlesville | 36
Cheyenne | *8
Claremore | *32
Eufaula | *31
Lawton | 11
Muskogee | 20
Norman | 16
Oklahoma City | 7, *13, 15, 18, 19, 23, 24, 25, 27, 33
Okmulgee | 28
Shawnee | 29
Tulsa | 8, *11, 12, 14, 16, 22, 26, 34
Woodward | 35
Oregon:
Bend | *11, 18, 21
Coos Bay | 11, 22
Corvallis | *7
Eugene | 9, 17, 28, *29, 31
Grants Pass | 30
Klamath Falls | 13, 29, *33
La Grande | *13, 16
Medford | 5, *8, 12, 16, 26
Pendleton | 11
Portland | *10, 21, 24, 25, 26, 32
Roseburg | 18, 19, 36
Salem | 22, 33
Pennsylvania:
Allentown | S, *S
Altoona | 6, 24, 31
Bethlehem | 9
Clearfield | *15
Erie | 12, 21, 26, *27, 28
Greensburg | 28
Harrisburg | 10, 32, *36
Hazleton | 22
Jeannette | 11
Johnstown | 8, 35
Lancaster | 8, S
Philadelphia | 6, 17, 28, 30, 31, 33, *S
Pittsburgh | *4, 16, 20, 21, 23, 25, 27
Red Lion | S
Scranton | 12, 21, 33, 34, *S
Wilkes-Barre | 11
Williamsport | 29
Willow Grove | S
York | S
Rhode Island:
Newport | 17
Providence | *2, 7, 12, 25
South Carolina:
Allendale | *21
Anderson | 35
Beaufort | *32
Charleston | 17, 19, 20, *24, 25, 34
Columbia | 7, 10, 15, 22, 25, *33
Conway | *28
Florence | 13, *16, 26, 27
Greenville | 2, *8, 17, 30
Greenwood | *26
Hardeeville | 26
Myrtle Beach | 32, 36
Rock Hill | 34, S
Spartanburg | 11, *S
Sumter | *29, 31
South Dakota:
Aberdeen | 9, *17
Brookings | *8
Eagle Butte | *13
Florence | 3
Huron | 12
Lead | 5, 10
Lowry | *11
Martin | *8
Mitchell | 26
Pierre | *10, 19
Rapid City | 2, 7, 16, 21, *26
Reliance | 13
Sioux Falls | 7, 11, 13, 21, *24, 36
Vermillion | *34
Tennessee:
Chattanooga | 8, 9, 13, 14, *35
Cleveland | 23
Cookeville | *22
Crossville | 31
Franklin | 32
Greeneville | 28
Hendersonville | 33
Jackson | 21, 35
Jellico | 18
Johnson City | 9
Kingsport | 32
Knoxville | 7, 10, 15, 26, *29, 34
Lebanon | 25
Lexington | *27
Memphis | 13, 23, 25, 28, *29, 30, 31, 33
Murfreesboro | 16
Nashville | *7, 10, 20, 21, 27, 30, 36
Sneedville | *24
Tazewell | 36
Texas:
Abilene | 15, 29, 30
Alvin | 36
Amarillo | *9, 10, 15, 19, 20
Arlington | 25
Austin | 7, 21, *22, 23, 33, 34
Baytown | 31
Beaumont | 12, 15, *29
Belton | 17
Big Spring | 33
Blanco | 18
Borger | 31
Bryan | 24
College Station | 16, 29
Conroe | *12
Corpus Christi | 8, 10, 19, *23, 26, 27
Dallas | 8, *14, 21, 27, 32, 35, 36
Decatur | 30
Del Rio | 28
Denton | *29
Eagle Pass | 18
El Paso | *13, 15, 16, 17, 18, 20, *21, 25
Farwell | 18
Fort Worth | 9, 18, 19, 24
Fredericksburg | 8
Galveston | 22, *23
Garland | 33
Greenville | 23
Harlingen | 16, 18, *21
Houston | *8, 11, 13, 19, 21, *24, 26, 34, 35
Irving | 34
Jacksonville | 22
Katy | 25
Kerrville | 32
Killeen | 13
Lake Dallas | 31
Laredo | 8, 19
Llano | 27
Longview | 20, S
Lubbock | 16, *25, 27, 31, 35, 36
Lufkin | 9
McAllen | 17
Midland | 18, 26
Nacogdoches | 15
Odessa | 7, 9, 15, 23, *28, 30
Port Arthur | 27
Rio Grande | 14
Rosenberg | 30
San Angelo | 11, 16, 19
San Antonio | *9, 12, 15, *16, 24, 28, 29, 30
Sherman | 12
Snyder | 17
Sweetwater | 20
Temple | 9
Texarkana | 26
Tyler | 7
Uvalde | 26
Victoria | 11, 20
Waco | 10, *20, 26, 28
Weslaco | 13
Wichita Falls | 15, 22, 28
Wolfforth | 23
Utah:
Cedar City | 14
Logan | 12
Ogden | 24, 35, *36
Price | 11
Provo | *17, 29, 32
Richfield | *19
Salt Lake City | 19, 20, 23, *27, 28, 30, 34
St. George | *18, 21
Vernal | 16
Vermont:
Burlington | 7, 16, 20, *32
Montpelier | S
Rutland | *10
St. Johnsbury | *28
Windsor | *S
Virginia:
Arlington | 15
Ashland | 8
Bristol | 35
Charlottesville | 2, *26, 32
Culpeper | *S
Danville | S
Grundy | 14
Hampton | 11
Hampton-Norfolk | *31
Harrisonburg | 20
Lynchburg | 7, 21
Manassas | 35
New Market | *S
Norfolk | 16, 32, 33
Petersburg | 28
Portsmouth | 19, 20
Richmond | 10, *22, 23, 24, *29
Roanoke | *3, 27, 30, 34, 36
Spotsylvania | *S
Staunton | *15
Virginia Beach | 7, 21
Washington:
Bellevue | 24, 33
Bellingham | 14, 19
Centralia | *19
Everett | 31
Kennewick | 27
Pasco | 18
Pullman | *10, 24
Richland | *22, 26
Seattle | *9, 16, 23, 25, 30, 36
Spokane | *7, 13, 15, 20, 28, 34, 36
Tacoma | 11, 13, 21, *27, *34
Vancouver | 30
Walla Walla | 9
Yakima | 14, 16, *21, 33
West Virginia:
Bluefield | 17, 25
Charleston | 18, 24, 29
Clarksburg | 12, 13
Grandview | *8
Huntington | *9, 10, 22
Lewisburg | 11
Martinsburg | 13
Morgantown | *34
Oak Hill | 31
Parkersburg | 35
Weston | 33
Wheeling | 7
Wisconsin:
Antigo | 19
Appleton | 36
Chippewa Falls | 21
Crandon | 13
Eagle River | 26, 28
Eau Claire | 17, 25
Fond du Lac | 5
Green Bay | 14, 18, 22, 23, *25
Janesville | 21
Kenosha | 30
La Crosse | 8, *15, 28, 33
Madison | 11, 18, 19, *20, 26
Mayville | 34
Menomonie | *27
Milwaukee | *8, 27, 28, 29, 31, 32, S, *S
Park Falls | *36
Racine | S
Rhinelander | 16
Superior | 19
Suring | 15
Wausau | 7, 9, *24
Wittenberg | 31
Wyoming:
Casper | *8, 12, 14, 17, 20
Cheyenne | 11, 27, 30
Jackson | 11
Lander | 7, *8
Laramie | *8
Rawlins | 9
Riverton | 10
Rock Springs | 13
Sheridan | 7, 13
Guam:
Hagåtña | 8, 12
Tamuning | 14
Puerto Rico:
Aguada | 25
Aguadilla | 12, 17
Arecibo | 35
Bayamón | S
Caguas | 11, *24
Carolina | 30
Fajardo | 13, *15, 16
Guayama | 34
Humacao | 23
Mayagüez | 20, 29, 31, 32
Naranjito | 18
Ponce | 7, 9, 14, *19, 36, S
San Juan | 21, *26, 27, 28, S
San Sebastián | 33
Toa Baja | *S
Yauco | S
U.S. Virgin Islands:
Charlotte Amalie | 17, 21, *36
Christiansted | 20, 23

(k) Minimum geographic spacing requirements for new TV allotments. No petition to add a new channel to the Table of TV Allotments will be accepted unless it shows compliance with the requirements of this paragraph.

(1) Requests filed pursuant to this paragraph must demonstrate compliance with the principal community coverage requirements of § 73.618.

(2) Requests filed pursuant to this paragraph must meet the following requirements for geographic spacing with regard to all other TV stations and allotments:

(i) For VHF channels 2-13 in Zone I, co-channel allotments must be separated by 244.6 km, and no adjacent-channel allotments are permitted between 20 km and 110 km.

(ii) For UHF channels 14-36 in Zone I, co-channel allotments must be separated by 196.3 km, and no adjacent-channel allotments are permitted between 24 km and 110 km.

(iii) For VHF channels 2-13 in Zones II and III, co-channel allotments must be separated by 273.6 km, and no adjacent-channel allotments are permitted between 23 km and 110 km.

(iv) For UHF channels 14-36 in Zones II and III, co-channel allotments must be separated by 223.7 km, and no adjacent-channel allotments are permitted between 24 km and 110 km.

(3) Zones are defined in § 73.609. The minimum distance separation between a TV station in one zone and TV station in another zone shall be that of the zone requiring the lower separation.

(4) Due to the frequency spacing that exists between Channels 4 and 5, between Channels 6 and 7, and between Channels 13 and 14, the minimum geographic spacing requirements specified in paragraph (k)(2) of this section shall not be applicable to these pairs of channels (§ 73.603(a)).

19. Revise § 73.623 to read as follows:

§ 73.623 TV application processing.

(a) General. Applications for new TV broadcast stations or for changes in authorized TV stations filed pursuant to this section will not be accepted for filing if they fail to comply with the requirements of this section and §§ 73.614, 73.617, 73.618, and 73.620.

(b) Availability of channels. Applications may be filed to construct TV broadcast stations only on the channels designated in the Table of TV Allotments set forth in § 73.622(j), and only in the communities listed therein. Applications that fail to comply with this requirement, whether or not accompanied by a petition to amend the TV Table, will not be accepted for filing.

(c) through (g) [Reserved]

(h) TV application processing priorities.

(1) [Reserved]

(2) TV applications for a construction permit or a modified construction permit:

(i) Shall be afforded the interference protection set forth in § 73.620:

(A) through (C) [Reserved]

(D) By later-filed TV applications; and

(E) By later-filed rulemaking petitions to amend the Table of TV Allotments;

(ii) Must demonstrate the requisite interference protection set forth in § 73.620 to:

(A) TV licensed stations;

(B) TV construction permits;

(C) Earlier-filed TV applications;

(D) Existing TV allotments;

(E) Rulemaking petitions to amend the Table of TV Allotments for which a Notice of Proposed Rule Making has been released and the comment deadline specified therein has passed prior to the filing date of the TV application;

(F) through (J) [Reserved]

(iii) That do not provide the requisite interference protection set forth § 73.620 to the following applications and petitions will be deemed mutually exclusive with those applications and petitions:

(A) Other TV applications filed the same day;

(B) Rulemaking petitions to amend the Table of TV Allotments for which a Notice of Proposed Rule Making had been released and the comment deadline specified therein had not passed prior to the filing date of the TV application; and

(C) Earlier-filed rulemaking petitions to amend the Table of TV Allotments for which a Notice of Proposed Rule Making had not been released.

(3) TV applicants and TV rulemaking petitioners that are mutually exclusive pursuant to this section will be notified by Public Notice and provided with a 90-day period of time to resolve their mutual exclusivity via engineering amendment or settlement. Those applications and petitions that remain mutually exclusive upon conclusion of the 90-day settlement period will be dismissed.

20. Revise § 73.624 to read as follows:

§ 73.624 Television broadcast stations.

(a) Television broadcast stations are assigned channels 6 MHz wide.

(b) Minimum programming requirements. The TV service that is provided pursuant to this paragraph (b) must have a resolution of at least 480i (vertical resolution of 480 lines, interlaced).

(1) TV licensees or permittees that broadcast in ATSC 1.0 (using the transmission standard in 73.682(d)) shall transmit at least one free over the air video program signal at no direct charge to viewers.

(2) [Reserved]

(3) TV licensees or permittees that choose to broadcast an ATSC 3.0 signal (using the Next Gen TV transmission standard in § 73.682(f)) shall transmit at least one free over the air video programming stream on that signal that requires at most the signal threshold of a comparable received TV signal. TV licensees or permittees that choose to broadcast an ATSC 3.0 signal (using the Next Gen TV transmission standard in § 73.682(f)) shall also simulcast the primary video programming stream on its ATSC 3.0 signal by broadcasting an ATSC 1.0 signal (using the TV transmission standard in § 73.682(d)) from another broadcast television facility within its local market in accordance with the local simulcasting requirement in §§ 73.3801, 73.6029 and 74.782 of this chapter.

(c) Provided that TV broadcast stations comply with paragraph (b) of this section, TV broadcast stations are permitted to offer services of any nature, consistent with the public interest, convenience, and necessity, on an ancillary or supplementary basis. The kinds of services that may be provided include, but are not limited to computer software distribution, data transmissions, teletext, interactive materials, aural messages, paging services, audio signals, subscription video, and any other services that do not derogate TV broadcast stations' obligations under paragraph (b) of this section. Such services may be provided on a broadcast, point-to-point or point-to-multipoint basis, provided, however, that any video broadcast signal provided at no direct charge to viewers shall not be considered ancillary or supplementary.

(1) TV licensees that provide ancillary or supplementary services that are analogous to other services subject to regulation by the Commission must comply with the Commission regulations that apply to those services, provided, however, that no ancillary or supplementary service shall have any rights to carriage under §§ 614 or 615 of the Communications Act of 1934, as amended, or be deemed a multichannel video programming distributor for purposes of section 628 of the Communications Act of 1934, as amended.

(2) In all arrangements entered into with outside parties affecting service operation, the TV licensee or permittee must retain control over all material transmitted in a broadcast mode via the station's facilities, with the right to reject any material in the sole judgement of the permittee or licensee. The license or permittee is also responsible for all aspects of technical operation involving such telecommunications services.

(3) In any application for renewal of a broadcast license for a television station that provides ancillary or supplementary services, a licensee shall establish that all of its program services are in the public interest. Any violation of the Commission's rules applicable to ancillary or supplementary services will reflect on the licensee's qualifications for renewal of its license.

(d) through (f) [Reserved]

(g) Commercial TV licensees and permittees, and low power television, TV translator, and Class A licensees and permittees, must annually remit a fee of 5 percent of the gross revenues derived from all ancillary and supplementary services, as defined by paragraph (c) of this section, which are feeable, as defined in paragraphs (g)(1)(i) and (ii) of this section. Noncommercial TV licensees and permittees must annually remit a fee of 5 percent of the gross revenues derived from all ancillary and supplementary services, as defined by paragraph (c) of this section, which are feeable, as defined in paragraphs (g)(1)(i) and (ii) of this section, except that such licensees and permittees must annually remit a fee of 2.5 percent of the gross revenues from such ancillary or supplementary services which are nonprofit, noncommercial, and educational.

(1)(i) All ancillary or supplementary services for which payment of a subscription fee or charge is required in order to receive the service are feeable. The fee required by this provision shall be imposed on any and all revenues from such services, including revenues derived from subscription fees and from any commercial advertisements transmitted on the service.

(ii) Any ancillary or supplementary service for which no payment is required from consumers in order to receive the service is feeable if the TV licensee directly or indirectly receives compensation from a third party in return for the transmission of material provided by that third party (other than commercial advertisements used to support broadcasting for which a subscription fee is not required). The fee required by this provision shall be imposed on any and all revenues from such services, other than revenues received from a third party in return for the transmission of commercial advertisements used to support broadcasting for which a subscription fee is not required.

(2) Payment of fees. (i) Each December 1, all commercial and noncommercial TV licensees and permittees that provided feeable ancillary or supplementary services as defined in this section at any point during the 12-month period ending on the preceding September 30 will electronically report, for the applicable period:

(A) A brief description of the feeable ancillary or supplementary services provided;

(B) Gross revenues received from all feeable ancillary and supplementary services provided during the applicable period; and

(C) The amount of bitstream used to provide feeable ancillary or supplementary services during the applicable period. Licensees and permittees will certify under penalty of perjury the accuracy of the information reported. Failure to file information required by this section may result in appropriate sanctions.

(ii) A commercial or noncommercial TV licensee or permittee that has provided feeable ancillary or supplementary services at any point during a 12-month period ending on September 30 must additionally file the FCC's standard remittance form (Form 159) on the subsequent December 1. Licensees and permittees will certify the amount of gross revenues received from feeable ancillary or supplementary services for the applicable 12-month period and will remit the payment of the required fee.

(iii) The Commission reserves the right to audit each licensee's or permittee's records which support the calculation of the amount specified on line 23A of Form 159. Each licensee or permittee, therefore, is required to retain such records for three years from the date of remittance of fees.

21. Amend § 73.625 by:

a. Revising the section heading;

b. Removing and reserving paragraphs (a) through (b);

c. Revising paragraphs (c)(3)(ii) and (v);

d. Adding paragraphs (c)(3)(vii) and (viii);

e. Revising paragraphs (c)(4)(i) and (ii);

f. Adding paragraph (c)(4)(iii);

g. Revising paragraph (c)(5); and

h. Adding paragraph (d).

The revisions and additions read as follows:

§ 73.625 TV antenna system.

* * * * *

(c) * * *

* * * * *

(3) * * *

(ii) Relative field horizontal plane pattern (patterns for both horizontal and vertical polarization should be included if elliptical or circular polarization is used consistent with paragraph (d) of this section) of the proposed directional antenna. A value of 1.0 should be used for the maximum radiation in the horizontal polarization. The plot of the pattern should be oriented so that 0 degrees corresponds to true North. Where mechanical beam tilt is intended, the amount of tilt in degrees of the antenna vertical axis and the orientation of the downward tilt with respect to true North must be specified. The horizontal plane pattern must reflect the use of mechanical beam tilt if no elevation pattern is included, but it is preferable to submit a separate unmodified horizontal plane pattern with the elevation pattern for mechanically-tilted stations.

* * * * *

(v) All horizontal plane patterns must be plotted in a PDF attachment to the application in a size sufficient to be easily viewed.

* * * * *

(vii) If an elevation pattern is submitted in the application form, similar tabulations and PDF attachments shall be provided for the elevation pattern.

(viii) If a matrix pattern is submitted in the application form, similar tabulations and PDF attachments shall be provided as necessary to accurately represent the pattern.

(4) * * *

(i) In cases where it is proposed to use a tower of an AM broadcast station as a supporting structure for a TV broadcast antenna, an appropriate application for changes in the radiating system of the AM broadcast station must be filed by the licensee thereof. A formal application (FCC Form 301, or FCC Form 340 for a noncommercial educational station) will be required if the proposal involves substantial change in the physical height or radiation characteristics of the AM broadcast antennas; otherwise an informal application will be acceptable. (In case of doubt, an informal application (letter) together with complete engineering data should be submitted.) An application may be required for other classes of stations when the tower is to be used in connection with a TV station.

(ii) When the proposed TV antenna is to be mounted on a tower in the vicinity of an AM station directional antenna system and it appears that the operation of the directional antenna system may be affected, an engineering study must be filed with the TV application concerning the effect of the TV antenna on the AM directional radiation pattern. Field measurements of the AM stations may be required prior to and following construction of the TV station antenna, and readjustments made as necessary.

(iii) In any case, where the TV licensee or permittee proposes to mount its antenna on or near an AM tower, as defined in § 1.30002, the TV licensee or permittee must comply with § 1.30002 or § 1.30003, as applicable.

(5) Applications proposing the use of electrical beam tilt must be accompanied by the following:

* * * * *

(d) It shall be standard to employ horizontal polarization. However, circular or elliptical polarization may be employed if desired, in which case clockwise (right hand) rotation, as defined in the IEEE Standard Definition 42A65-3E2, and transmission of the horizontal and vertical components in time and space quadrature shall be used. For either omnidirectional or directional antennas the licensed effective radiated power of the vertically polarized component may not exceed the licensed effective radiated power of the horizontally polarized component. For directional antennas, the maximum effective radiated power of the vertically polarized component shall not exceed the maximum effective radiated power of the horizontally polarized component in any specified horizontal or vertical direction.

22. Section 73.626 is amended by revising the section heading and paragraphs (a)(b), (c)(1), (2), (d), (e), (f)(2), (f)(2)(i) through (iii), (f)(4), (5), and (6) to read as follows:

§ 73.626 TV distributed transmission systems.

(a) Distributed transmission systems. A TV station may be authorized to operate multiple synchronized transmitters on its assigned channel to provide service consistent with the requirements of this section. Such operation is called a distributed transmission system (DTS). Except as expressly provided in this section, TV stations operating a DTS facility must comply with all rules applicable to TV single-transmitter stations.

(b) Authorized service area. For purposes of compliance with this section, a station's “authorized service area” is defined as the area within its predicted noise-limited service contour determined using the facilities authorized for the station in a license or construction permit for non-DTS, single-transmitter-location operation (its “authorized facility”).

(c) * * *

(1) TV station zones are defined in § 73.609.

(2) DTS reference point. A station's DTS reference point is established in the FCC Order that created or made final modifications to the Table of TV Allotments, § 73.622(j), and the corresponding facilities for the station's channel assignment as set forth in that FCC Order.

(d) Determining DTS coverage. The coverage for each DTS transmitter is determined based on the F(50,90) field strength given in the Table of Distances (in paragraph (c) of this section), calculated in accordance with § 73.619(b). The combined coverage of a DTS station is the logical union of the coverage of all DTS transmitters.

(e) DTS protection from interference. A DTS station must be protected from interference in accordance with the criteria specified in § 73.620. To determine compliance with the interference protection requirements of § 73.620, the population served by a DTS station shall be the population within the station's combined coverage contour, excluding the population in areas that are outside both the TV station's authorized service area and the Table of Distances area (in paragraph (c) of this section). Only population that is predicted to receive service by the method described in § 73.619(c)(2) from at least one individual DTS transmitter will be considered.

(f) * * *

* * * * *

(2) Each DTS transmitter's coverage is contained within either the TV station's Table of Distances area (pursuant to paragraph (c) of this section) or its authorized service area, except where such extension of coverage meets the following criteria:

(i) In no event shall the F(50,50) service contour of any DTS transmitter extend beyond that of its authorized facility and its Table of Distances F(50,50) area; and

(ii) In no event shall the F(50,10) node-interfering contour of any DTS transmitter, aside from one located at the site of its authorized facility, extend beyond the F(50,10) reference-interfering contour of its authorized facility and its Table of Distances F(50,10) reference area; and

(iii) In no event shall the F(50,10) reference-interfering contour of a facility located at the site of its authorized facility extend beyond the F(50,10) reference-interfering contour of its authorized facility;

* * * * *

(4) The coverage from one or more DTS transmitter(s) is shown to provide principal community coverage as required in § 73.618;

(5) The “combined field strength” of all the DTS transmitters in a network does not cause interference to another station in excess of the criteria specified in § 73.620, where the combined field strength level is determined by a “root-sum-square” calculation, in which the combined field strength level at a given location is equal to the square root of the sum of the squared field strengths from each transmitter in the DTS network at that location.

(6) Each DTS transmitter must be located within either the TV station's Table of Distances area or its authorized service area.

* * * * *

§ 73.641 [Removed]

23. Remove § 73.641.

§ 73.642 [Removed]

24. Remove § 73.642.

§ 73.643 [Removed]

25. Remove § 73.643.

§ 73.644 [Removed]

26. Remove § 73.644.

§ 73.646 [Removed and Reserved]

27. Remove and reserve § 73.646.

§ 73.653 [Removed and Reserved]

28. Remove and reserve § 73.653.

29. Revise § 73.664 to read as follows:

§ 73.664 Determining operating power.

(a) Required method. The operating power of each TV transmitter shall normally be determined by the direct method.

(b) Direct method. The direct method of power determination for a TV transmitter uses the indications of a calibrated transmission line meter located at the RF output terminals of the transmitter. The indications of the calibrated meter are used to observe and maintain the authorized operating power of the transmitter. This meter must be calibrated whenever any component in the metering circuit is repaired or replaced and as often as necessary to ensure operation in accordance with the provisions of § 73.1560 of this part. The following calibration procedures are to be used:

(1) The transmission line meter is calibrated by measuring the average power at the output terminals of the transmitter, including any filters which may be used in normal operation. For this determination the average power output is measured while operating into a dummy load of substantially zero reactance and a resistance equal to the transmission line characteristic impedance.

(2) If electrical devices are used to determine the output power, such devices must permit determination of this power to within an accuracy of ±5% of the power indicated by the full scale reading of the electrical indicating instrument of the device. If temperature and coolant flow indicating devices are used to determine the power output, such devices must permit determination of this power to within an accuracy of ±4% of measured average power output. During this measurement the input voltage and current to the final radio frequency amplifier stage and the transmission line meter are to be read and compared with similar readings taken with the dummy load replaced by the antenna. These readings must be in substantial agreement.

(3) The meter must be calibrated with the transmitter operating at 80%, 100%, and 110% of the authorized power as often as may be necessary to maintain its accuracy and ensure correct transmitter operating power. In cases where the transmitter is incapable of operating at 110% of the authorized power output, the calibration may be made at a power output between 100% and 110% of the authorized power output. However, where this is done, the output meter must be marked at the point of calibration of maximum power output, and the station will be deemed to be in violation of this rule if that power is exceeded. The upper and lower limits of permissible power deviation as determined by the prescribed calibration, must be shown upon the meter either by means of adjustable red markers incorporated in the meter or by red marks placed upon the meter scale or glass face. These markings must be checked and changed, if necessary, each time the meter is calibrated.

(c) Indirect method. The operating power is determined by the indirect method by applying an appropriate factor to the input power to the final radio-frequency amplifier stage of the transmitter using the following formula:

Formula 1 to introductory text of paragraph (c)

Transmitter output power = Ep × Ip × F

Where:

Ep = DC input voltage of the final radio-frequency amplifier stage.

Ip = DC input current of the final radio-frequency amplifier stage.

F = Efficiency factor.

(1) If the above formula is not appropriate for the design of the transmitter final amplifier, use a formula specified by the transmitter manufacturer with other appropriate operating parameters.

(2) The value of the efficiency factor, F established for the authorized transmitter output power is to be used for maintaining the operating power, even though there may be some variation in F over the power operating range of the transmitter.

(3) The value of F is to be determined and a record kept thereof by one of the following procedures listed in order of preference:

(i) Using the most recent measurement data for calibration of the transmission line meter according to the procedures described in paragraph (b) of this section or the most recent measurements made by the licensee establishing the value of F. In the case of composite transmitters or those in which the final amplifier stages have been modified pursuant to FCC approval, the licensee must furnish the FCC and also retain with the station records the measurement data used as a basis for determining the value of F.

(ii) Using measurement data shown on the transmitter manufacturer's test data supplied to the licensee, provided that measurements were made at the authorized channel and transmitter output power.

(iii) Using the transmitter manufacturer's measurement data.

§ 73.665 [Removed and Reserved]

30. Remove and reserve § 73.665.

§ 73.667 [Removed and Reserved]

31. Remove and reserve § 73.667.

§ 73.669 [Removed and Reserved]

32. Remove and reserve § 73.669.

33. Revise § 73.681 to read as follows:

§ 73.681 Definitions.

Antenna electrical beam tilt. The shaping of the radiation pattern in the vertical plane of a transmitting antenna by electrical means so that maximum radiation occurs at an angle below the horizontal plane.

Antenna height above average terrain. The average of the antenna heights above the terrain from approximately 3.2 (2 miles) to 16.1 kilometers (10 miles) from the antenna for the eight directions spaced evenly for each 45 degrees of azimuth starting with True North. (In general, a different antenna height will be determined in each direction from the antenna. The average of these various heights is considered the antenna height above the average terrain. Where circular or elliptical polarization is employed, the antenna height above average terrain shall be based upon the height of the radiation center of the antenna which transmits the horizontal component of radiation.

Antenna mechanical beam tilt. The intentional installation of a transmitting antenna so that its axis is not vertical, in order to change the normal angle of maximum radiation in the vertical plane.

Antenna power gain. The square of the ratio of the root-mean-square free space field strength produced at 1 kilometer in the horizontal plane, in millivolts per meter for one kW antenna input power to 221.4 mV/m. This ratio should be expressed in decibels (dB). (If specified for a particular direction, antenna power gain is based on the field strength in that direction only.)

Aspect ratio. The ratio of picture width to picture height as transmitted.

Auxiliary facility. An auxiliary facility is an antenna separate a from the main facility's antenna, permanently installed on the same tower or at a different location, from which a station may broadcast for short periods without prior Commission authorization or notice to the Commission while the main facility is not in operation (e.g., where tower work necessitates turning off the main antenna or where lightning has caused damage to the main antenna or transmission system) (See § 73.1675).

Effective radiated power. The product of the antenna input power and the antenna power gain. This product should be expressed in kW and in dB above 1 kW (dBk). (If specified for a particular direction, effective radiated power is based on the antenna power gain in that direction only. The licensed effective radiated power is based on the maximum antenna power gain. When a station is authorized to use a directional antenna or an antenna beam tilt, the direction of the maximum effective radiated power will be specified.) Where circular or elliptical polarization is employed, the term effective radiated power is applied separately to the horizontally and vertically polarized components of radiation. For assignment purposes, only the effective radiated power authorized for the horizontally polarized component will be considered.

Equivalent isotropically radiated power (EIRP). The term “equivalent isotropically radiated power” (also known as “effective radiated power above isotropic”) means the product of the antenna input power and the antenna gain in a given direction relative to an isotropic antenna.

Free space field strength. The field strength that would exist at a point in the absence of waves reflected from the earth or other reflecting objects.

Interlaced scanning. A scanning process in which successively scanned lines are spaced an integral number of line widths, and in which the adjacent lines are scanned during successive cycles of the field frequency.

Polarization. The direction of the electric field as radiated from the transmitting antenna.

Standard television signal. A signal which conforms to the television transmission standards.

Synchronization. The maintenance of one operation in step with another.

Television broadcast band. The frequencies in the band extending from 54 to 608 megahertz which are assignable to television broadcast stations. These frequencies are 54 to 72 megahertz (channels 2 through 4), 76 to 88 megahertz (channels 5 and 6), 174 to 216 megahertz (channels 7 through 13), and 470 to 608 megahertz (channels 14 through 36).

Television broadcast station. A station in the television broadcast band transmitting simultaneous visual and aural signals intended to be received by the general public.

Television channel. A band of frequencies 6 MHz wide in the television broadcast band and designated either by number or by the extreme lower and upper frequencies.

Television transmission standards. The standards which determine the characteristics of a television signal as radiated by a television broadcast station.

Television transmitter. The radio transmitter or transmitters for the transmission of both visual and aural signals.

Vestigial sideband transmission. A system of transmission wherein one of the generated sidebands is partially attenuated at the transmitter and radiated only in part.

34. Amend § 73.682 by:

a. Removing and reserving paragraphs (a) through (c);

b. Revising paragraph (d);

c. Adding paragraph (e)(7); and

d. Removing the Note to § 73.682.

The revision and addition read as follows:

§ 73.682 TV transmission standards.

* * * * *

(d) Broadcast television transmission standards. (1) Transmission of broadcast television signals shall comply with the standards (incorporated by reference, see § 73.8000) for such transmissions set forth in:

(i) ATSC A/52;

(ii) ATSC A/53, Parts 1-4 and 6: 2007 and ATSC A/53 Part 5:2010;, and

(iii) ATSC A/65C:.

(2) Although not incorporated by reference, licensees may also consult:

(i) ATSC A/54A: “Recommended Practice: Guide to Use of the ATSC Digital Television Standard, including Corrigendum No. 1,” (December 4, 2003, Corrigendum No. 1 dated December 20, 2006, and

(ii) ATSC A/69: “Recommended Practice PSIP Implementation Guidelines for Broadcasters,” (June 25, 2002).

(iii) For availability of this material, contact ATSC (see § 73.8000 for contact information).

(e) * * *

(7) For additional information regarding this requirement, see Implementation of the Commercial Advertisement Loudness Mitigation (CALM) Act, FCC 11-182.

* * * * *

35. Amend § 73.683 by:

a. Revising the section heading and paragraph (a);

b. Removing and reserving paragraphs (b) and (c); and

c. Revising paragraph (d).

The revisions read as follows:

§ 73.683 Presumptive determination of field strength at individual locations.

(a) See § 73.619(c). For purposes of the cross-reference from § 90.307(b), the Grade B contour is defined as the F(50,50) contour at 64 dBu.

* * * * *

(d) For purposes of determining the eligibility of individual households for satellite retransmission of distant network signals under the copyright law provisions of 17 U.S.C. 119(d)(10)(A), field strength shall be determined by the Individual Location Longley-Rice (ILLR) propagation prediction model. Such eligibility determinations shall consider only the signals of network stations located in the subscriber's Designated Market Area. Guidance for use of the ILLR model in predicting the field strength of television signals for such determinations is provided in OET Bulletin No. 73. For availability of OET Bulletin No. 73, contact FCC (see § 73.8000 for contact information).

* * * * *

§ 73.684 [Removed and Reserved]

36. Remove and reserve § 73.684.

§ 73.685 [Removed and Reserved]

37. Remove and reserve § 73.685.

38. Amend § 73.686 by:

a. Revising paragraphs (c)(1)(i);

b. Removing and reserving paragraph (d); and

c. Revising paragraph (e) introductory text.

The revisions read as follows:

§ 73.686 Field strength measurements.

* * * * *

(c) * * *

(1) * * *

(i) The population (P) of the community, and its suburbs, if any, is determined by reference to the most recent official decennial U.S. Census population data as identified by the Media Bureau in a Public Notice. (See § 73.620(b)).

* * * * *

(e) Collection of field strength data to determine television signal intensity at an individual location—cluster measurements—

* * * * *

39. Amend § 73.687 by:

a. Removing and reserving paragraphs (a) and (b);

b. Revising paragraph (c) introductory text;

c. Removing and reserving paragraph (c)(1); and

d. Removing paragraph (e).

The revisions read as follows:

§ 73.687 Transmission system requirements.

* * * * *

(c) Requirements applicable to transmitters. (1) [Reserved].

* * * * *

40. Section 73.688 is amended by revising paragraph (a) to read as follows:

§ 73.688 Indicating instruments.

(a) Each TV broadcast station shall be equipped with indicating instruments which conform with the specifications described in § 73.1215 for measuring the operating parameters of the last radio stage of the transmitter, and with such other instruments as are necessary for the proper adjustment, operation, and maintenance of the transmitting system.

* * * * *

§ 73.691 [Removed and Reserved]

41. Remove and reserve § 73.691.

§ 73.698 [Removed and Reserved]

42. Remove and reserve § 73.698.

§ 73.699 [Amended]

43. Section 73.699 is amended by removing Figures 5, 5(a), 6, 7, 8, 11, 12, 16, and 17.

44. Section 73.1001 is amended to revise paragraph (c) to read as follows:

§ 73.1001 Scope.

* * * * *

(c) Certain provisions of this subpart apply to International Broadcast Stations (subpart F, part 73), LPFM (subpart G, part 73), and Low Power TV and TV Translator Stations (subpart G, part 74) where the rules for those services so provide.

* * * * *

45. Revise § 73.1015 to read as follows:

§ 73.1015 Truthful written statements and responses to Commission inquiries and correspondence.

The Commission or its representatives may, in writing, require from any applicant, permittee, or licensee written statements of fact relevant to a determination whether an application should be granted or denied, or to a determination whether a license should be revoked, or to any other matter within the jurisdiction of the Commission, or, in the case of a proceeding to amend the Table of FM Allotments or Table of TV Allotments, require from any person filing an expression of interest, written statements of fact relevant to that allotment proceeding. Any such statements of fact are subject to the provisions of § 1.17 of this chapter.

46. Section 73.1020 is amended by revising paragraphs (a)(1)(i) and (ii), (2)(i) and (ii), (3)(1)(i) and (ii), (4)(1)(i) and (ii), (5)(1)(i) and (ii), (6)(1)(i) and (ii), (7)(1)(i) and (ii), (8)(1)(i) and (ii), (9)(1)(i) and (ii), (10)(1)(i) and (ii), (11)(1)(i) and (ii), (12)(1)(i) and (ii), (13)(1)(i) and (ii), (14)(1)(i) and (ii), (15)(1)(i) and (ii), (16)(1)(i) and (ii), (17)(1)(i) and (ii), (18)(1)(i) and (ii) and (b) to read as follows:

§ 73.1020 Station license period.

(a) * * *

(1) * * *

(i) Radio stations, October 1, 2027.

(ii) Television stations, October 1, 2028.

(2) * * *

(i) Radio stations, December 1, 2027.

(ii) Television stations, December 1, 2028.

(3) * * *

(i) Radio stations, February 1, 2028.

(ii) Television stations, February 1, 2029.

(4) * * *

(i) Radio stations, April 1, 2028.

(ii) Television stations, April 1, 2029.

(5) * * *

(i) Radio stations, June 1, 2028.

(ii) Television stations, June 1, 2029.

(6) * * *

(i) Radio stations, August 1, 2028.

(ii) Television stations, August 1, 2029.

(7) * * *

(i) Radio stations, October 1, 2028.

(ii) Television stations, October 1, 2029.

(8) * * *

(i) Radio stations, December 1, 2028.

(ii) Television stations, December 1, 2029.

(9) * * *

(i) Radio stations, February 1, 2029.

(ii) Television stations, February 1, 2030.

(10) * * *

(i) Radio stations, April 1, 2029.

(ii) Television stations, April 1, 2030.

(11) * * *

(i) Radio stations, June 1, 2029.

(ii) Television stations, June 1, 2030.

(12) * * *

(i) Radio stations, August 1, 2029.

(ii) Television stations, August 1, 2030.

(13) * * *

(i) Radio stations, October 1, 2029.

(ii) Television stations, October 1, 2022.

(14) * * *

(i) Radio stations, December 1, 2029.

(ii) Television stations, December 1, 2022.

(15) * * *

(i) Radio stations, February 1, 2030.

(ii) Television stations, February 1, 2023.

(16) * * *

(i) Radio stations, April 1, 2030.

(ii) Television stations, April 1, 2023.

(17) * * *

(i) Radio stations, June 1, 2030.

(ii) Television stations, June 1, 2023.

(18) * * *

(i) Radio stations, August 1, 2030.

(ii) Television stations, August 1, 2023.

(b) For the deadline for filing petitions to deny renewal applications, see § 73.3516(e).

* * * * *

47. Section 73.1030 is amended by revising paragraphs (a)(1) and (b)(2) to read as follows:

§ 73.1030 Notifications concerning interference to radio astronomy, research and receiving installations.

(a) ***(1) Radio astronomy and radio research installations. In order to minimize harmful interference at the National Radio Astronomy Observatory site located at Green, Pocahontas County, West Virginia, and at the Naval Radio Research Observatory at Sugar Grove, Pendleton County, West Virginia, a licensee proposing to operate a short-term broadcast auxiliary station pursuant to § 74.24, and any applicant for authority to construct a new broadcast station, or for authority to make changes in the frequency, power, antenna height, or antenna directivity of an existing station within the area bounded by 39°15′ N on the north, 78°30′ W on the east, 37°30′ N on the south, and 80°30′ W on the west, shall notify the Interference Office, National Radio Astronomy Observatory, P.O. Box 2, Green Bank, West Virginia 24944. Telephone: (304) 456-2011; Email: nrqz@nrao.edu. * * *

* * * * *

(b) * * *

(2) Applicants concerned are urged to communicate with the Radio Frequency Management Coordinator, Institute for Telecommunication Sciences, 325 Broadway, Boulder, CO 80305; telephone (303) 497-4220, email frequencymanager@ntia.gov, in advance of filing their applications with the Commission.

48. Amend § 73.1201 by:

a. Revising paragraph (b)(1);

b. Removing and reserving paragraph (d); and

c. Adding paragraph (e):

The revisions and additions read as follows:

§ 73.1201 Station identification.

* * * * *

(b) * * *

(1) Official station identification shall consist of the station's call letters immediately followed by the community or communities specified in its license as the station's location; Provided, That the name of the licensee, the station's frequency, the station's channel number, as stated on the station's license, and/or the station's network affiliation may be inserted between the call letters and station location. TV stations, or DAB Stations, choosing to include the station's channel number in the station identification must use the station's major channel number and may distinguish multicast program streams. For example, a TV station with major channel number 26 may use 26.1 to identify an HDTV program service and 26.2 to identify an SDTV program service. A TV station that is devoting one of its multicast streams to transmit the programming of another television licensee must identify itself and may also identify the licensee that it is transmitting. If a TV station in this situation chooses to identify the station that is the source of the programming it is transmitting, it must use the following format: Station WYYY, community of license (call sign and community of license of the station whose multicast stream is transmitting the programming), bringing you WXXX, community of license (call sign and community of license of the licensee providing the programming). The transmitting station may insert between its call letters and its community of license the following information: the frequency of the transmitting station, the channel number of the transmitting station, the name of the licensee of the transmitting station and the licensee providing the programming, and/or the name of the network of either station. Where a multicast station is carrying the programming of another station and is identifying that station as the source of the programming, using the format described above, the identification may not include the frequency or channel number of the program source. A radio station operating in DAB hybrid mode or extended hybrid mode shall identify its digital signal, including any free multicast audio programming streams, in a manner that appropriately alerts its audience to the fact that it is listening to a digital audio broadcast. No other insertion between the station's call letters and the community or communities specified in its license is permissible.

* * * * *

(e) Transport Stream ID (TSID) values are identification numbers assigned to stations by the FCC and stored in the Commission's online database. Two sequential values are assigned to each station.

(1) All TV and Class A TV stations shall transmit their assigned odd-numbered TSID.

(2) In ATSC 3.0, a similar value is used called a Bit Stream ID (BSID). Stations operating in ATSC 3.0 mode shall utilize their assigned even-numbered TSID as their BSID, consistent with paragraph (1) of this section.

49. Section 73.1207 is amended by revising paragraph (b)(2) to read as follows:

§ 73.1207 Rebroadcasts.

* * * * *

(b) * * *

* * * * *

(2) Permission must be obtained from the originating station to rebroadcast any subsidiary communications transmitted by means of a multiplex subcarrier.

* * * * *

50. Section 73.1216 is amended by adding paragraphs (a)(1) through (3) and (d), and removing Notes 1, 2 and 3 to read as follows:

§ 73.1216 Licensee-conducted contests.

(a) * * *

(1) A contest is a scheme in which a prize is offered or awarded, based upon chance, diligence, knowledge or skill, to members of the public;

(2) Material terms include those factors which define the operation of the contest and which affect participation therein. Although the material terms may vary widely depending upon the exact nature of the contest, they will generally include: How to enter or participate; eligibility restrictions; entry deadline dates; whether prizes can be won; when prizes can be won; the extent, nature and value of prizes; basis for valuation of prizes; time and means of selection of winners; and/or tie-breaking procedures.

(3) In general, the time and manner of disclosure of the material terms of a contest are within the licensee's discretion. However, the obligation to disclose the material terms arises at the time the audience is first told how to enter or participate and continues thereafter.

* * * * *

(d) This section is not applicable to licensee-conducted contests not broadcast or advertised to the general public or to a substantial segment thereof, to contests in which the general public is not requested or permitted to participate, to the commercial advertisement of non-licensee-conducted contests, or to a contest conducted by a non-broadcast division of the licensee or by a non-broadcast company related to the licensee.

51. Revise § 73.1217 to read as follows:

§ 73.1217 Broadcast hoaxes.

(a) No licensee or permittee of any broadcast station shall broadcast false information concerning a crime or a catastrophe if:

(1) The licensee knows this information is false;

(2) It is foreseeable that broadcast of the information will cause substantial public harm, and

(3) Broadcast of the information does in fact directly cause substantial public harm.

(b) Any programming accompanied by a disclaimer will be presumed not to pose foreseeable harm if the disclaimer clearly characterizes the program as a fiction and is presented in a way that is reasonable under the circumstances.

(c) For purposes of this rule, “public harm” must begin immediately, and cause direct and actual damage to property or to the health or safety of the general public, or diversion of law enforcement or other public health and safety authorities from their duties. The public harm will be deemed foreseeable if the licensee could expect with a significant degree of certainty that public harm would occur. A “crime” is any act or omission that makes the offender subject to criminal punishment by law. A “catastrophe” is a disaster or imminent disaster involving violent or sudden event affecting the public.

52. Section 73.1250 is amended by revising paragraph (e) to read as follows:

§ 73.1250 Broadcasting emergency information.

* * * * *

(e) Immediately upon cessation of an emergency during which broadcast facilities were used for the transmission of point-to-point messages under paragraph (b) of this section, or when daytime facilities were used during nighttime hours by an AM station in accordance with paragraph (f) of this section, a report in letter form shall be forwarded to the FCC's main office indicated in 47 CFR 0.401(a) setting forth the nature of the emergency, the dates and hours of the broadcasting of emergency information, and a brief description of the material carried during the emergency. A certification of compliance with the noncommercialization provision of paragraph (f) of this section must accompany the report where daytime facilities are used during nighttime hours by an AM station, together with a detailed showing, under the provisions of that paragraph, that no other broadcast service existed or was adequate.

* * * * *

53. Section 73.1350 is amended by removing and reserving paragraph (f)(3) and revising paragraph (h) to read as follows:

§ 73.1350 Transmission system operation.

* * * * *

(h) Whenever a transmission system control point is established at a location other than the main studio or transmitter, a letter of notification of that location must be sent to the FCC via a Change of Control Point Notice in LMS, within 3 days of the initial use of that point. The letter should include a list of all control points in use, for clarity. This notification is not required if responsible station personnel can be contacted at the transmitter or studio site during hours of operation.

* * * * *

54. Section 73.1540 is amended by revising paragraph (a) to read as follows:

§ 73.1540 Carrier frequency measurements.

(a) The carrier frequency of each AM and FM station shall be measured or determined as often as necessary to ensure that they are maintained within the prescribed tolerances.

* * * * *

§ 73.1545 [Amended]

55. Section 73.1545 is amended by removing and reserving paragraph (c), and removing paragraph (e) and the Note to paragraph (e).

56. Amend § 73.1560 by:

a. Revising paragraphs (a)(1) and (c)(1);

b. Removing and reserving paragraph (c)(2); and

c. Revising paragraph (d).

The revisions read as follows:

§ 73.1560 Operating power and mode tolerances.

(a) * * *

(1) Except for AM stations using modulation dependent carrier level (MDCL) control technology, or as provided for in paragraph (d) of this section, the antenna input power of an AM station, as determined by the procedures specified in § 73.51, must be maintained as near as practicable to the authorized antenna input power and may not be less than 90 percent nor greater than 105 percent of the authorized power. AM stations may, without prior Commission authority, commence MDCL control technology use, provided that within 10 days after commencing such operation, the licensee submits an electronic notification of commencement of MDCL control operation using FCC Form 2100 Schedule 338. The transmitter of an AM station operating using MDCL control technology, regardless of the MDCL control technology employed, must achieve full licensed power at some audio input level or when the MDCL control technology is disabled. MDCL control operation must be disabled before field strength measurements on the station are taken.

* * * * *

(c) * * *

(1) Except as provided in paragraph (d) of this section, the output power of a TV or Class A TV transmitter, as determined by the procedures specified in § 73.664, must be maintained as near as is practicable to the authorized transmitter output power and may not be less than 80% nor more than 110% of the authorized power.

* * * * *

(d) Reduced power operation. In the event it becomes technically impossible to operate at authorized power, a broadcast station may operate at reduced power for a period of not more than 30 days without specific authority from the FCC. If operation at reduced power will exceed 10 consecutive days, notification must be made to the FCC in a Reduced Power Notification via LMS, not later than the 10th day of the lower power operation. In the event that normal power is restored within the 30 day period, the licensee must notify the FCC of the date that normal operation was restored. If causes beyond the control of the licensee prevent restoration of the authorized power within 30 days, a request for Special Temporary Authority (see § 73.1635) must be made to the FCC via LMS for additional time as may be necessary.

§ 73.1570 Modulation levels: AM and FM.

57. Section 73.1570 is amended by revising the section heading to read as set forth above and removing and reserving paragraph (b)(3).

§ 73.1590 [Amended]

58. Section 73.1590 is amended by removing and reserving paragraphs (a)(5), (c)(1), and (3).

59. Section 73.1615 is amended by revising paragraphs (b)(3) and (c)(1) to read as follows:

§ 73.1615 Operating during modification of facilities.

* * * * *

(b) * * *

(3) Operate in a nondirectional mode during the presently licensed hours of directional operation with power reduced to 25% or less of the nominal licensed power, or whatever higher power, not exceeding licensed power, will insure that the radiated field strength specified by the license is not exceeded at any given azimuth for the corresponding hours of directional operation, or

* * * * *

(c) * * *

(1) Should it be necessary to continue the procedures in either paragraph (a) or (b) of this section beyond 30 days, a Silent STA application or an Engineering STA application must be filed via LMS.

* * * * *

60. Section 73.1620 is amended by revising paragraphs (a)(1) through (3), and removing paragraphs (f) and (g) to read as follows:

§ 73.1620 Program tests.

(a) * * *

(1) The permittee of a nondirectional AM or FM station, or a nondirectional or directional TV or Class A TV station, may begin program tests upon notification to the FCC in a “Program Test Authority” filing via LMS provided that within 10 days thereafter, an application for a license is filed with the FCC in Washington, DC. Television, Class A, TV translator, and low power television broadcast stations authorized on channel 14 must comply with § 73.617(b)(2)(ii).

(2) The permittee of an FM station with a directional antenna system must file an application for license on FCC Form 2100 Schedule 302-FM in LMS requesting authority to commence program test operations at full power. This license application must be filed at least 10 days prior to the date on which full power operations are desired to commence. The application for license must contain any exhibits called for by conditions on the construction permit. The staff will review the license application and the request for program test authority and issue a letter notifying the applicant whether full power operation has been approved. Upon filing of the license application and related exhibits, and while awaiting approval of full power operation, the FM permittee may operate the directional antenna at one half (50%) of the authorized effective radiated power. Alternatively, the permittee may continue operation with its existing licensed facilities pending the issuance of program test authority at the full effective radiated power by the staff.

(3) FM licensees replacing a directional antenna pursuant to § 73.1690 (c)(2) without changes which require a construction permit (see § 73.1690(b)) may immediately commence program test operations with the new antenna at one half (50%) of the authorized ERP upon installation. If the directional antenna replacement is an EXACT duplicate of the antenna being replaced (i.e., same manufacturer, antenna model number, and measured composite pattern), program tests may commence with the new antenna at the full authorized power upon installation. The licensee must file a modification of license application on FCC Form 2100 Schedule 302-FM within 10 days of commencing operations with the newly installed antenna, and the license application must contain all of the exhibits required by § 73.1690(c)(2). After review of the modification-of-license application to cover the antenna change, the Commission will issue a letter notifying the applicant whether program test operation at the full authorized power has been approved for the replacement directional antenna.

* * * * *

61. Section 73.1635 is amended by revising paragraphs (a)(2), (3), and (5) to read as follows:

§ 73.1635 Special temporary authorizations (STA).

(a) * * *

(2) The request is to be filed electronically in LMS using the “Engineering STA Application” and shall fully describe the proposed operation and the necessity for the requested STA. Such letter requests shall be signed by the licensee or the licensee's representative.

(3) A request for a STA necessitated by unforeseen equipment damage or failure may be made without regard to the procedural requirements of this section (e.g., via email or telephone). Any request made pursuant to this paragraph shall be followed by a written confirmation request conforming to the requirements of paragraph (a)(2) of this section. Confirmation requests shall be submitted within 24 hours. (See also § 73.1680 Emergency Antennas).

* * * * *

(5) Certain rules specify special considerations and procedures in situations requiring an STA or permit temporary operation at variance without prior authorization from the FCC when notification is filed as prescribed in the particular rules. See § 73.62, Directional antenna system tolerances; § 73.157, Antenna testing during daytime; § 73.158, Directional antenna monitoring points; § 73.1250, Broadcasting emergency information; § 73.1350, Transmission system operation; § 73.1560, Operating power and mode tolerances; § 73.1570, Modulation levels: AM, and FM; § 73.1615, Operation during modification of facilities; § 73.1680, Emergency antennas; and § 73.1740, Minimum operating schedule.

* * * * *

62. Section 73.1675 is amended by revising paragraphs (a)(1)(iii) and (b) to read as follows:

§ 73.1675 Auxiliary antennas.

(a) * * *

(1) * * *

(iii) TV stations: The noise limited contour as defined in § 73.619(c).

* * * * *

(b) An application for a construction permit to install a new auxiliary antenna, or to make changes in an existing auxiliary antenna for which prior FCC authorization is required (see § 73.1690), must be filed electronically in LMS using FCC Form 2100 (see § 73.3500 for Schedules) for TV and FM stations, or on FCC Form 2100, Schedule 340 for noncommercial educational FM stations, and on FCC Form 301 for AM stations.

* * * * *

63. Section 73.1690 is amended by revising paragraphs (b) introductory text, (b)(3), and (c)(3) to read as follows:

§ 73.1690 Modification of transmission systems.

* * * * *

(b) The following changes may be made only after the grant of a construction permit application on FCC Form 2100 (see § 73.3500 for Schedules) for TV and FM stations, Form 301 for AM stations, or Form 2100, Schedule 340 for noncommercial educational stations:

* * * * *

(3) Any change which would require an increase along any azimuth in the composite directional antenna pattern of an FM station from the composite directional antenna pattern authorized (see § 73.316), or any increase from the authorized directional antenna pattern for a TV broadcast (see § 73.625) or Class A TV station (see § 73.6025).

* * * * *

(c) * * *

(3) A directional TV on Channels 2 through 13 or 22 through 36 or a directional Class A TV on Channels 2 through 13 or 22 through 36, or a directional TV or Class A TV station on Channels 15 through 21 which is in excess of 341 km (212 miles) from a cochannel land mobile operation or in excess of 225 km (140 miles) from a first-adjacent channel land mobile operation (see § 74.709(a) and (b) of this chapter for tables of urban areas and reference coordinates of potentially affected land mobile operations), may replace a directional TV or Class A TV antenna by a license modification application, if the proposed horizontal theoretical directional antenna pattern does not exceed the licensed horizontal directional antenna pattern at any azimuth and where no change in effective radiated power will result. The modification of license application on Form 2100 (see § 73.3500 for Schedules) must contain all of the data set forth in § 73.625(c)(3) or § 73.6025(a), as applicable.

* * * * *

64. Section 73.1740 is amended by revising paragraph (a)(4) to read as follows:

§ 73.1740 Minimum operating schedule.

(a) * * *

(4) In the event that causes beyond the control of a licensee make it impossible to adhere to the operating schedule of this section or to continue operating, the station may limit or discontinue operation for a period of not more than 30 days without further authority from the FCC. A “Reduced Power” or “Suspension of Operation” Notification must be made via LMS not later than the 10th day of limited or discontinued operation. During such period, the licensee shall continue to adhere to the requirements in the station license pertaining to the lighting of antenna structures. In the event normal operation is restored prior to the expiration of the 30 day period, the licensee will so notify the FCC of this date. If the causes beyond the control of the licensee make it impossible to comply within the allowed period, informal written request shall be made to the FCC no later than the 30th day for such additional time as may be deemed necessary.

* * * * *

65. Revise § 73.1750 to read as follows:

§ 73.1750 Discontinuance of operation.

The licensee of each station shall provide notification to the FCC in a “Cancellation Application” via LMS of the permanent discontinuance of operation at least two days before operation is discontinued. Immediately after discontinuance of operation, the licensee shall forward the station license and other instruments of authorization to the FCC, Attention: Audio Division (radio) or Video Division (television), Media Bureau, for cancellation. The license of any station that fails to transmit broadcast signals for any consecutive 12 month period expires as a matter of law at the end of that period, notwithstanding any provision, term, or condition of the license to the contrary. If a licensee surrenders its license pursuant to an interference reduction agreement, and its surrender is contingent on the grant of another application, the licensee must identify in its notification the contingencies involved.

66. Section 73.2080 is amended by revising paragraphs (c)(6) and (f)(1) through (5) to read as follows:

§ 73.2080 Equal employment opportunities (EEO).

* * * * *

(c) * * *

(6) Annually, on the anniversary of the date a station is due to file its renewal application, the station shall place in its public file, maintained pursuant to § 73.3526 or § 73.3527, and on its website, if it has one, an EEO public file report containing the following information (although if any broadcast licensee acquires a station pursuant to FCC Form 2100 Schedule 314 or FCC Form 2100 Schedule 315 during the twelve months covered by the EEO public file report, its EEO public file report shall cover the period starting with the date it acquired the station):

* * * * *

(f) * * *

(1) All broadcast stations, including those that are part of an employment unit with fewer than five full-time employees, shall file a Broadcast Equal Employment Opportunity Program Report (Form 2100 Schedule 396) with their renewal application. Form 2100 Schedule 396 is filed on the date the station is due to file its application for renewal of license. If a broadcast licensee acquires a station pursuant to FCC Form 2100 Schedule 314 or FCC Form 2100 Schedule 315 during the period that is to form the basis for the Form 2100 Schedule 396, information provided on its Form 2100 Schedule 396 should cover the licensee's EEO recruitment activity during the period starting with the date it acquired the station. Stations are required to maintain a copy of their Form 2100 Schedule 396 in the station's public file in accordance with the provisions of §§ 73.3526 and 73.3527.

(2) The Commission will conduct a mid-term review of the employment practices of each broadcast television station that is part of an employment unit of five or more full-time employees and each radio station that is part of an employment unit of eleven or more full-time employees, four years following the station's most recent license expiration date as specified in § 73.1020. If a broadcast licensee acquires a station pursuant to FCC Form 2100 Schedule 314 or FCC Form 2100 Schedule 315 during the period that is to form the basis for the mid-term review, that review will cover the licensee's EEO recruitment activity during the period starting with the date it acquired the station.

(3) If a station is subject to a time brokerage agreement, the licensee shall file Form 2100 Schedule 396 and EEO public file reports concerning only its own recruitment activity. If a licensee is a broker of another station or stations, the licensee-broker shall include its recruitment activity for the brokered station(s) in determining the bases of Form 2100 Schedule 396 and the EEO public file reports for its own station. If a licensee-broker owns more than one station, it shall include its recruitment activity for the brokered station in the Form 2100 Schedule 396 and EEO public file reports filed for its own station that is most closely affiliated with, and in the same market as, the brokered station. If a licensee-broker does not own a station in the same market as the brokered station, then it shall include its recruitment activity for the brokered station in the Form 2100 Schedule 396 and EEO public file reports filed for its own station that is geographically closest to the brokered station.

(4) Broadcast stations subject to this section shall maintain records of their recruitment activity necessary to demonstrate that they are in compliance with the EEO rule. Stations shall ensure that they maintain records sufficient to verify the accuracy of information provided in Form 2100 Schedule 396 and EEO public file reports. To determine compliance with the EEO rule, the Commission may conduct inquiries of licensees at random or if it has evidence of a possible violation of the EEO rule. In addition, the Commission will conduct random audits. Specifically, each year approximately five percent of all licensees in the television and radio services will be randomly selected for audit, ensuring that, even though the number of radio licensees is significantly larger than television licensees, both services are represented in the audit process. Upon request, stations shall make records available to the Commission for its review.

(5) The public may file complaints throughout the license term based on the contents of a station's public file. Provisions concerning filing, withdrawing, or non-filing of informal objections or petitions to deny license renewal, assignment, or transfer applications are delineated in §§ 73.3584 and 73.3587-3589 of the Commission's rules.

* * * * *

67. Section 73.3500 is amended by revising paragraphs (a) and (b) and removing paragraph (b)(1) to read as follows:

§ 73.3500 Application and report forms.

(a) Following are the FCC broadcast application and report forms, listed by number.

Form No. | Title
175 | Application to Participate in an FCC Auction.
301 | Application for Construction Permit for a Commercial Broadcast Station. (the Form 301 is used for new AM construction permits or AM station modifications).
2100 Schedule A | Application for Authority to Construct or Make Changes in a TV Commercial Broadcast/Noncommercial Educational Broadcast Station.
2100 Schedule 301-FM | Application for Commercial FM Station Construction Permit.
302-AM | Application for AM Broadcast Station License.
2100 Schedule E | Application for Class A Television Broadcasting Station Construction Permit.
2100 Schedule 302-FM | Application for FM Station License.
2100 Schedule B | Application for Television Broadcast Station License.
2100 Schedule F | Application for Class A Television Broadcast Station License.
2100 Schedule 303-S | Application for Renewal of License for Commercial or Noncommercial AM, FM, TV, Class A TV, FM Translator, TV Translator, LPTV, or LPFM Station.
308 | Application for Permit to Deliver Programs to Foreign Broadcast Stations.
309 | Application for Authority to Construct or Make Changes in an International or Experimental Broadcast Station.
310 | Application for an International or Experimental Broadcast Station License.
311 | Application for Renewal of an International or Experimental Broadcast Station License.
2100 Schedule 314 | Application for Consent to Assignment of Broadcast Station Construction Permit or License.
2100 Schedule 315 | Application for Consent to Transfer of Control of Entity Holding Broadcast Station Construction Permit or License.
2100 Schedule 316 | Application for Consent to Assign Broadcast Station Construction Permit or License or Transfer Control of Entity Holding Broadcast Station Construction Permit or License.
2100 Schedule 318 | Application for Low Power FM Station Construction Permit.
2100 Schedule 319 | Application for Low Power FM Station License.
323 | Ownership Report for Commercial Broadcast Stations.
323-E | Ownership Report for Noncommercial Educational Broadcast Stations.
2100 Schedule 340 | Application for Noncommercial Educational FM Station Construction Permit.
2100 Schedule 345 | Application for Consent to Assign Construction Permit or License for TV or FM Translator or Low Power TV Station, or to Transfer Control of Entity Holding TV or FM Translator or Low Power TV Station.
2100 Schedule C | Application for Authority to Construct or Make Changes in a Low Power TV or TV Translator Station.
2100 Schedule D | Application for a Low Power TV or TV Translator Station License.
2100 Schedule 349 | Application for FM Translator or FM Booster Station Construction Permit.
2100 Schedule 350 | Application for FM Translator or FM Booster Station License.
395-B | Annual Employment Report and instructions.
2100 Schedule 396 | Broadcast Equal Employment Opportunity Program Report.
2100 Schedule 396-A | Broadcast Equal Employment Opportunity Model Program Report.
2100 Schedule H | Children's Television Programming Report.
601 | FCC Application for Wireless Telecommunications Bureau Radio Service Authorization.
603 | FCC Wireless Telecommunications Bureau Application for Assignments of Authorization and Transfers of Control.

(b) Any application on Form 2100 must be filed electronically.

68. Section 73.3516 is amended by revising paragraphs (e) introductory text and (e)(1) to read as follows:

§ 73.3516 Specification of facilities.

* * * * *

(e) A petition to deny an application for renewal of license of an existing broadcast station will be considered as timely filed if it is tendered for filing by the end of the first day of the last full calendar month of the expiring license term.

(1) If the license renewal application is not timely filed as prescribed in § 73.3539, the deadline for filing petitions to deny thereto is the 90th day after the FCC gives public notice that it has accepted the late-filed renewal application for filing.

* * * * *

69. Section 73.3519 is amended by revising paragraph (a) to read as follows:

§ 73.3519 Repetitious applications.

(a) Where the FCC has denied an application for a new station or for any modification of services or facilities, or dismissed such application with prejudice, no like application involving service of the same kind for substantially the same area by substantially the same applicant, or his successor or assignee, or on behalf or for the benefit of the original parties in interest, may be filed within 12 months from the effective date of the FCC's action.

* * * * *

70. Revise § 73.3521 to read as follows:

§ 73.3521 Mutually exclusive applications for low power television, and television translator stations.

When there is a pending application for a new low power television or television translator station, or for major changes in an existing station, no other application which would be directly mutually exclusive with the pending application may be filed by the same applicant or by any applicant in which any individual in common with the pending application has any interest, direct or indirect, except that interests or less than 1% will not be considered.

§ 73.3523 [Removed and Reserved]

71. Remove and reserve § 73.3523.

72. Section 73.3525 is amended by revising paragraphs (a) introductory text and (b) and removing the Note to read as follows:

§ 73.3525 Agreements for removing application conflicts.

(a) Whenever applicants for a construction permit for a broadcast station enter into an agreement to procure the removal of a conflict between applications pending before the FCC by withdrawal or amendment of an application or by its dismissal pursuant to § 73.3568, all parties thereto shall, within 5 days after entering into the agreement, file with the FCC a joint request for approval of such agreement. The joint request shall be accompanied by a copy of the agreement, including any ancillary agreements, and an affidavit of each party to the agreement setting forth:

* * * * *

(b) Except where a joint request is filed pursuant to paragraph (a) of this section, any applicant filing an amendment pursuant to § 73.3522(b)(1) and (c), or a request for dismissal pursuant to § 73.3568(b)(1) and (c), which would remove a conflict with another pending application; or a petition for leave to amend pursuant to § 73.3522(b)(2) which would permit a grant of the amended application or an application previously in conflict with the amended application; or a request for dismissal pursuant to § 73.3568(b)(2), shall file with it an affidavit as to whether or not consideration (including an agreement for merger of interests) has been promised to or received by such applicant, directly or indirectly, in connection with the amendment, petition or request. Although § 74.780 of the Rules makes this section generally applicable to low power TV and TV translators stations, paragraph (b) of this section shall not be applicable to such stations.

* * * * *

73. Amend § 73.3533 by:

a. Revising paragraphs (a)(1), (4) through (7);

b. Adding paragraph (a)(8); and

c. Revising paragraph (b).

The revisions and additions read as follows:

§ 73.3533 Application for construction permit or modification of construction permit.

(a) * * *

(1) FCC Form 2100, Schedule A (TV); FCC Form 2100, Schedule 301-FM (FM), “Application for Authority to Construct or Make Changes in an Existing Commercial Broadcast Station.”

* * * * *

(4) FCC Form 2100, Schedule A (TV); FCC Form 2100, Schedule 340 (FM), “Application for Authority to Construct or Make Changes in a Noncommercial Educational Broadcast Station.”

(5) FCC Form 2100, Schedule C, “Application for Authority to Construct or Make Changes in a Low Power TV or TV Translator Station.”

(6) FCC Form 2100, Schedule 349, “Application for Authority to Construct or Make Changes in an FM Translator or FM Booster Station.”

(7) FCC Form 2100, Schedule 318, “Application for Construction Permit for a Low Power FM Broadcast Station.”

(8) FCC Form 2100, Schedule E, “Application for Authority to Make Changes in a Class A TV Station.”

(b) The filing of an application for modification of construction permit does not extend the expiration date of the construction permit.

* * * * *

74. Section 73.3536 is amended by revising paragraphs (b)(1)(ii) and (iii), (b)(4) through (6), and (c) to read as follows:

§ 73.3536 Application for license to cover construction permit.

* * * * *

(b) * * *

(1) * * *

(ii) Form 2100, Schedule 302-FM for FM stations, “Application for FM Station License.”

(iii) Form 2100, Schedule B for television stations, “Application for TV Station Broadcast License.”

* * * * *

(4) FCC Form 2100, Schedule D, “Application for a Low Power TV or TV Translator Station License.”

(5) FCC Form 2100, Schedule 350, “Application for an FM Translator or FM Booster Station License.”

(6) FCC Form 2100, Schedule 319, “Application for a Low Power FM Broadcast Station License.”

(c) Eligible low power television stations which have been granted a certificate of eligibility may file FCC Form 2100, Schedule F, “Application for Class A Television Broadcast Station License.”

75. Section 73.3540 is amended by revising paragraphs (c) through (e), and (f) introductory text to read as follows:

§ 73.3540 Application for voluntary assignment or transfer of control.

* * * * *

(c) Application for consent to the assignment of construction permit or license must be filed on FCC Form 2100 Schedule 314 “Assignment of License or Construction Permit” or FCC Form 2100 Schedule 316 (See paragraph (f) of this section). For International Broadcast Stations, the application shall be filed electronically in the International Bureau Filing System (IBFS).

(d) Application for consent to the transfer of control of an entity holding a construction permit or license must be filed on FCC Form 2100 Schedule 315 “Transfer of Control” or FCC Form 2100 Schedule 316 (see paragraph (f) of this section). For International Broadcast Stations, applications shall be filed electronically in IBFS.

(e) Application for consent to the assignment of construction permit or license or to the transfer of control of an entity licensee or permittee for an FM or TV translator station, a low power TV station and any associated auxiliary station, such as translator microwave relay stations and UHF translator booster stations, only must be filed on FCC Form 2100 Schedule 345 “Application for Consent to Assign Construction Permit or License for TV or FM Translator or Low Power TV Station or to Transfer Control of Entity Holding TV or FM Translator, or a Low Power TV Station.”

(f) The following assignment or transfer applications may be filed on FCC Form 2100 Schedule 316:

* * * * *

76. Section 73.3541 is amended by revising paragraph (b) to read as follows:

§ 73.3541 Application for involuntary assignment of license or transfer of control.

* * * * *

(b) Within 30 days after the occurrence of such death or legal disability, an application on FCC Form 2100 Schedule 316 shall be filed requesting consent to involuntary assignment of such permit or license or for involuntary transfer of control of the entity holding such permit or license, to a person or entity legally qualified to succeed to the foregoing interests under the laws of the place having jurisdiction over the estate involved.

§ 73.3543 [Removed]

77. Remove § 73.3543.

78. Section 73.3544 is amended by revising paragraphs (b) introductory text and paragraph (c) to read as follows:

§ 73.3544 Application to obtain a modified station license.

* * * * *

(b) An electronic filing via LMS of an Administrative Update, see § 73.3511(b), may be filed with the FCC, to cover the following changes:

* * * * *

(c) A change in the name of the licensee where no change in ownership or control is involved may be accomplished by electronically filing via LMS an Administrative Update.

79. Revise § 73.3549 to read as follows:

§ 73.3549 Requests for extension of time to operate without required monitors, indicating instruments, and EAS encoders and decoders.

Requests for extension of authority to operate without required monitors, transmission system indicating instruments, or encoders and decoders for monitoring and generating the EAS codes and Attention Signal should be made to the FCC by electronically filing via LMS a STA. Such requests must contain information as to when and what steps were taken to repair or replace the defective equipment and a brief description of the alternative procedures being used while the equipment is out of service.

80. Section 73.3550 is amended by revising paragraphs (a), (b), (f), (i) through (k), and (m) to read as follows:

§ 73.3550 Requests for new or modified call sign assignments.

(a) All requests for new or modified call sign assignments for radio and television broadcast stations shall be made via LMS with the FCC. Licensees and permittees may utilize LMS to determine the availability and licensing status of any call sign; to select an initial call sign for a new station; to change a station's currently assigned call sign; to modify an existing call sign by adding or deleting an “-FM,” “-TV,” or “-DT” suffix; to exchange call signs with another licensee or permittee in the same service; or to reserve a different call sign for a station being transferred or assigned.

(b) No request for an initial call sign assignment will be accepted from a permittee for a new radio or full-service television station until the FCC has granted a construction permit. Each such permittee shall request the assignment of its station's initial call sign expeditiously following the grant of its construction permit. All initial construction permits for low power TV stations will be issued with a low power TV call sign in accordance with § 74.791(a) of this chapter.

* * * * *

(f) Only four-letter call signs (plus an LP, FM, TV, DT, or CA suffix, if used) will be assigned. The four letter call sign for LPFM stations will be followed by the suffix “-LP.” However, subject to the other provisions of this section, a call sign of a station may be conformed to a commonly owned station holding a three-letter call assignment (plus FM, TV, DT, CA or LP suffixes, if used).

* * * * *

(i) The provisions of this section shall not apply to International broadcast stations or to stations authorized under part 74 of this chapter (except as provided in § 74.791).

(j) A change in call sign assignment will be made effective on the date specified in the Call Sign Request Authorization generated by LMS acknowledging the assignment of the requested new call sign and authorizing the change. Unless the requested change in call sign assignment is subject to a pending transfer or assignment application, the requester is required to include in its on-line call sign request a specific effective date to take place within 45 days of the submission of its electronic call sign request. Postponement of the effective date will be granted only in response to a timely request and for only the most compelling reasons.

(k) Four-letter combinations commencing with “W” or “K” which are assigned as call signs to ships or to other radio services are not available for assignment to broadcast stations, with or without the “-FM,” “-TV,” or “-DT” suffix.

* * * * *

(m) Where a requested call sign, without the “-FM,' “-TV,” “-CA,” “-DT,” or “-LP” suffix, would conform to the call sign of any other non-commonly owned station(s) operating in a different service, an applicant utilizing the on-line reservation and authorization system will be required to certify that consent to use the secondary call sign has been obtained from the holder of the primary call sign.

81. Section 73.3555 is amended by revising paragraph (b)(1)(i) to read as follows:

§ 73.3555 Multiple ownership.

* * * * *

(b) * * *

(1) * * *

(i) The digital noise limited service contours of the stations (computed in accordance with § 73.619(c)) do not overlap; or

* * * * *

82. Amend § 73.3572 by:

a. Revising the section heading, paragraphs (a)(2) through (3);

b. Removing and reserving paragraph (a)(4);

c. Revising paragraphs (c) and (f); and

d. Removing paragraphs (g) and (h).

The revisions read as follows:

§ 73.3572 Processing of TV broadcast, Class A TV broadcast, low power TV, and TV translators applications.

(a) * * * (2) In the case of Class A TV stations authorized under subpart J of this part and low power TV and TV translator stations authorized under part 74 of this chapter, a major change is any change in:

* * * * *

(3) Other changes will be considered minor, including changes made to implement a channel sharing arrangement, provided they comply with the other provisions of this section.

* * * * *

(c) Amendments to Class A TV, low power TV and TV translator stations, or non-reserved television applications, which would require a new file number pursuant to paragraph (b) of this section, are subject to competitive bidding procedures and will be dismissed if filed outside a specified filing period. See 47 CFR 73.5002(a). When an amendment to an application for a reserved television allotment would require a new file number pursuant to paragraph (b) of this section, the applicant will have the opportunity to withdraw the amendment at any time prior to designation for a hearing if applicable; and may be afforded, subject to the discretion of the Administrative Law Judge, an opportunity to withdraw the amendment after designation for a hearing.

* * * * *

(f) Applications for minor modification of Class A TV, low power TV and TV translator stations may be filed at any time, unless restricted by the FCC, and will be processed on a “first-come/first-served” basis, with the first acceptable application cutting off the filing rights of subsequent, competing applicants. Provided, however, that applications for minor modifications of Class A TV and those of TV broadcast stations may become mutually exclusive until grant of a pending Class A TV or TV broadcast minor modification application.

83. Section 73.3578 is amended by revising paragraph (b) to read as follows:

§ 73.3578 Amendments to applications for renewal, assignment or transfer of control.

* * * * *

(b) Any amendment to an application for assignment of construction permit or license, or consent to the transfer of control of an entity holding such a construction permit or license, shall be considered to be a minor amendment, except that any amendment which seeks a change in the ownership interest of the proposed assignee or transferee which would result in a change in control, or any amendment which would require the filing of FCC Form 2100 Schedules 314, 315, or 345 (see § 73.3500), if the changes sought were made in an original application for assignment or transfer of control, shall be considered to be a major amendment. However, the FCC may, within 15 days after the acceptance for filing of any other amendment, advise the applicant that the amendment is considered to be a major amendment and therefore is subject to the provisions of § 73.3580.

84. Section 73.3584 is amended by revising paragraphs (a) and (c) to read as follows:

§ 73.3584 Procedure for filing petitions to deny.

(a) For mutually exclusive applications subject to selection by competitive bidding (non-reserved channels) or fair distribution/point system (reserved channels), petitions to deny may be filed only against the winning bidders or tentative selectee(s), and such petitions will be governed by §§ 73.5006 and 73.7004, respectively. For all other applications the following rules will govern. Except in the case of applications for new low power TV and TV translator stations, for major changes in the existing facilities of such stations, or for applications for a change in output channel tendered by displaced low power TV and TV translator stations pursuant to § 73.3572(a)(1), any party in interest may file with the Commission a Petition to Deny any application (whether as originally filed or if amended so as to require a new file number pursuant to § 73.3571(j), § 73.3572(b), § 73.3573(b), § 73.3574(b) or § 73.3578) for which local notice pursuant to § 73.3580 is required, provided such petitions are filed prior to the day such applications are granted or designated for hearing; but where the FCC issues a public notice pursuant to the provisions of § 73.3571(c), § 73.3572(c) or § 73.3573(d), establishing a “cut-off” date, such petitions must be filed by the date specified. In the case of applications for transfers and assignments of construction permits or station licenses, Petitions to Deny must be filed not later than 30 days after issuance of a public notice of the acceptance for filing of the applications. In the case of applications for renewal of license, Petitions to Deny may be filed at any time up to the deadline established in § 73.3516(e). Requests for extension of time to file Petitions to Deny applications for new broadcast stations or major changes in the facilities of existing stations or applications for renewal of license will not be granted unless all parties concerned, including the applicant, consent to such requests, or unless a compelling showing can be made that unusual circumstances make the filing of a timely petition impossible and the granting of an extension warranted.

* * * * *

(c) In the case of applications for new low power TV and TV translator stations, for major changes in the existing facilities of such stations, or for applications for a change in output channel tendered by displaced low power TV and TV translator stations pursuant to § 73.3572(a)(1), any party in interest may file with the FCC a Petition to Deny any application (whether as originally filed or if amended so as to require a new file number pursuant to § 73.3572(b)) for which local notice pursuant to § 73.3580 is required, provided such petitions are filed within 30 days of the FCC Public Notice proposing the application for grant (applicants may file oppositions within 15 days after the Petition to Deny is filed); but where the FCC selects a tentative permittee pursuant to Section 1.1601 et seq., Petitions to Deny shall be accepted only if directed against the tentative selectee and filed after issuance of and within 15 days of FCC Public Notice announcing the tentative selectee. The applicant may file an opposition within 15 days after the Petition to Deny is filed. In cases in which the minimum diversity preference provided for in § 1.1623(f)(1) has been applied, an “objection to diversity claim” and opposition thereto, may be filed against any applicant receiving a diversity preference, within the same time period provided herein for Petitions and Oppositions. In all pleadings, allegations of fact or denials thereof shall be supported by appropriate certification. However, the FCC may announce, by the Public Notice announcing the acceptance of the last-filed mutually exclusive application, that a notice of Petition to Deny will be required to be filed no later than 30 days after issuance of the Public Notice.

* * * * *

85. Revise § 73.3587 to read as follows:

§ 73.3587 Procedure for filing informal objections.

Before FCC action on any application for an instrument of authorization, any person may file informal objections to the grant in LMS. Such objections may be submitted in letter form (without extra copies) and shall be signed. The limitation on pleadings and time for filing pleadings provided for in § 1.45 of the rules shall not be applicable to any objections duly filed under this section.

86. Amend § 73.3598 by:

a. Revising paragraphs (a) introductory text;

b. Removing and reserving paragraph (b)(3); and

c. Revising paragraph (c).

The revisions read as follows:

§ 73.3598 Period of construction.

(a) Except as provided in the last two sentences of this paragraph (a), each original construction permit for the construction of a new TV, AM, FM or International Broadcast; low power TV; low power FM; TV translator; FM translator; or FM booster station, or to make changes in such existing stations, shall specify a period of three years from the date of issuance of the original construction permit within which construction shall be completed and application for license filed. An eligible entity that acquires an issued and outstanding construction permit for a station in any of the services listed in this paragraph (a) shall have the time remaining on the construction permit or eighteen months from the consummation of the assignment or transfer of control, whichever is longer, within which to complete construction and file an application for license. For purposes of the preceding sentence, an “eligible entity” shall include any entity that qualifies as a small business under the Small Business Administration's size standards for its industry grouping, as set forth in 13 CFR parts 121 through 201, at the time the transaction is approved by the FCC, and holds:

* * * * *

* * * * *

(c) A permittee must notify the Commission as promptly as possible and, in any event, within 30 days, of any pertinent event covered by paragraph (b) of this section, and provide supporting documentation. All notifications must be filed in LMS and must be placed in the station's local public file. For authorizations to construct stations in the Low Power FM service, on FM channels reserved for noncommercial educational use, and for noncommercial educational full power television stations, the Commission will identify and grant an initial period of tolling when the grant of a construction permit is encumbered by administrative or judicial review under the Commission's direct purview (e.g., petitions for reconsideration and applications for review of the grant of a construction permit pending before the Commission and any judicial appeal of any Commission action thereon), a request for international coordination under paragraph (b)(4) of this section, or failure of a condition under paragraph (b)(5) of this section. When a permit is encumbered by administrative or judicial review outside of the Commission's direct purview (e.g., local, state, or non-FCC Federal requirements), the permittee is required to notify the Commission of such tolling events.

* * * * *

87. Section 73.3700 is amended by revising paragraphs (a)(2) and removing and reserving paragraphs (a)(6), (7), (17), (b)(1) through (4), removing paragraph (c)(6), and removing and reserving paragraphs (d), (g)(1) through (3), to read as follows:

§ 73.3700 Post-incentive auction licensing and operation.

(a) * * *

* * * * *

(2) Channel reassignment public notice. For purposes of this section, Channel Reassignment Public Notice means the public notice released upon the completion of the broadcast television spectrum incentive auction conducted under section 6403 of the Spectrum Act specifying the new channel assignments and technical parameters of any broadcast television stations that are reassigned to new channels. Incentive Auction Closing and Channel Reassignment Public Notice: The Broadcast Television Incentive Auction Closes; Reverse Auction and Forward Auction Results Announced; Final Television Band Channel Assignments Announced; Post-Auction Deadlines Announced, GN Docket No. 12-268, Public Notice, 32 FCC Rcd 2786 (WTB/MB 2017).

* * * * *

88. Revise § 73.4000 to read as follows:

§ 73.4000 Listing of FCC policies.

The following sections list, solely for the purpose of reference and convenience, certain Policies of the FCC. The present listing of FCC policies and citations thereto should not be relied upon as an all-inclusive list. Failure to include a policy in this list does not affect its validity. In addition, documents listed may be revised by subsequent decisions and the inclusion of a document on this list does not necessarily reflect that it is currently valid. Each section bears the title of one Policy and the citations which will direct the user to the specific document(s) pertaining to that Policy.

89. Revise § 73.4017 to read as follows:

§ 73.4017 Application processing: Commercial FM stations.

See §§ 73.5000 through 73.5009.

90. Revise § 73.4055 to read as follows:

§ 73.4055 Cigarette advertising.

See 15 U.S.C. 1335; 15 U.S.C. 4402(c).

91. Revise § 73.4060 to read as follows:

§ 73.4060 Citizens agreements.

(a) See Report and Order, Docket 20495, FCC 75-1359, adopted December 10, 1975. 57 F.C.C. 2d 42; 40 FR 459730, December 30, 1975.

* * * * *

§ 73.4082 [Removed and Reserved]

92. Remove and reserve § 73.4082.

93. Revise § 73.4100 to read as follows:

§ 73.4100 Financial qualifications; new AM and FM stations.

See Public Notice, FCC 78-556, dated August 2, 1978. 69 FCC 2d 407; 43 FR 34841, August 7, 1978. See also Revision of Application for Construction Permit for Commercial Broadcast Station (FCC Form 301), Memorandum Opinion and Order, 50 R.R.2d 381, para. 6 (1981) and Certification of Financial Qualification by Applicants for Broadcast Station Construction Permits, Public Notice, 2 FCC Rcd 2122 (1987), 52 FR 17333 (May 7, 1987).

94. Revise § 73.4101 to read as follows:

§ 73.4101 Financial qualifications, TV stations.

See Public Notice, FCC 79-299, dated May 11, 1979. 72 F.C.C. 2d 784; 44 FR 29160, May 18, 1979. See also Revision of Application for Construction Permit for Commercial Broadcast Station (FCC Form 301), Memorandum Opinion and Order, 50 R.R.2d 381, para. 6 (1981) and Certification of Financial Qualification by Applicants for Broadcast Station Construction Permits, Public Notice, 2 FCC Rcd 2122 (1987), 52 FR 17333 (May 7, 1987).

§ 73.4107 [Removed and Reserved]

95. Remove and reserve § 73.4107.

§ 73.4108 [Removed and Reserved]

96. Remove and reserve § 73.4108.

97. Revise § 73.4210 to read as follows:

§ 73.4210 Procedure Manual: “The Public and Broadcasting”.

See The Public and Broadcasting, a copy of which is available at: https://www.fcc.gov/media/radio/public-and-broadcasting.

§ 73.4247 [Removed and Reserved]

98. Remove and reserve § 73.4247.

99. Section 73.4267 is amending by revising paragraphs (a) and (b) and removing paragraph (c) to read as follows:

§ 73.4267 Time brokerage.

(a) See Report and Order, MM Docket Nos. 94-150, 92-51, 87-154, FCC 99-207, adopted August 5, 1999, 64 FR 50622 (Sept. 17, 1999).

(b) See § 73.3555, Note 2(j).

§ 73.4247 [Removed and Reserved]

100. Remove and reserve § 73.4247.

101. Section 73.5000 is amended by revising paragraph (a) to read as follows:

§ 73.5000 Services subject to competitive bidding.

(a) Mutually exclusive applications for new facilities and for major changes to existing facilities in the following broadcast services are subject to competitive bidding: AM; FM; FM translator; television; low-power television; television translator; and Class A television. Mutually exclusive applications for minor modifications of Class A television and television broadcast are also subject to competitive bidding. The general competitive bidding procedures set forth in part 1, subpart Q of this chapter will apply unless otherwise provided in part 73 or part 74 of this chapter.

* * * * *

102. Section 73.5005 is amended by revising paragraph (a) to read as follows:

§ 73.5005 Filing of long-form applications.

(a) Within thirty (30) days following the close of bidding and notification to the winning bidders, unless a longer period is specified by public notice, each winning bidder must submit an appropriate long-form application (FCC Form 2100) for each construction permit or license for which it was the high bidder. Long-form applications filed by winning bidders shall include the exhibits required by § 1.2107(d) of this chapter (concerning any bidding consortia or joint bidding arrangements); § 1.2110(j) of this chapter (concerning designated entity status, if applicable); and § 1.2112 of this chapter (concerning disclosure of ownership and real party in interest information, and, if applicable, disclosure of gross revenue information for small business applicants).

* * * * *

103. Section 73.5006 is amended by revising paragraph (b) to read as follows:

§ 73.5006 Filing of petitions to deny against long-form applications.

* * * * *

(b) Within ten (10) days following the issuance of a public notice announcing that a long-form application for an AM, FM or television construction permit has been accepted for filing, petitions to deny that application may be filed in LMS. Within fifteen (15) days following the issuance of a public notice announcing that a long-form application for a low-power television, television translator or FM translator construction permit has been accepted for filing, petitions to deny that application may be filed. Any such petitions must contain allegations of fact supported by affidavit of a person or persons with personal knowledge thereof.

* * * * *

104. Section 73.5007 is amended by revising paragraph (b)(2)(iii), (3)(iv), and (v) to read as follows:

§ 73.5007 Designated entity provisions.

* * * * *

(b) * * *

(2) * * *

(iii) Television broadcast station—the noise limited contour (see § 73.619(c));

* * * * *

(3) * * *

(iv) Television broadcast station—the noise limited contour (see § 73.619(c)).

(v) Low power television or television translator station—predicted, protected contour (see § 74.792(a) of this chapter).

* * * * *

105. Amend § 73.6000 by revising the definition for “Locally-produced programming” to read as follows:

§ 73.6000 Definitions.

* * * * *

Locally produced programming is programming produced within the predicted noise-limited contour (see § 73.619(c)) of a Class A station broadcasting the program or within the contiguous predicted noise-limited contours of any of the Class A stations in a commonly owned group.

* * * * *

106. Section 73.6010 is amended by removing and reserving paragraph (b) and by revising paragraph (d) to read as follows:

§ 73.6010 Class A TV station protected contour.

* * * * *

(d) The Class A TV station protected contour is calculated from the effective radiated power and antenna height above average terrain, using the F(50,90) signal propagation method specified in § 73.619(b)(1) of this part.

§ 73.6012 [Removed and Reserved]

107. Remove and reserve § 73.6012.

§ 73.6013 [Removed and Reserved]

108. Remove and reserve § 73.6013.

§ 73.6014 [Removed and Reserved]

109. Remove and reserve § 73.6014.

110. Revise § 73.6017 to read as follows:

§ 73.6017 Class A TV station protection of Class A TV stations.

An application to change the facilities of a Class A TV station will not be accepted if it fails to protect authorized Class A stations in accordance with the requirements of § 74.793 (b) through (d) and § 74.793(g) of this chapter. This protection must be afforded to applications for changes in other authorized Class A stations filed prior to the date the Class A application is filed.

111. Revise § 73.6018 to read as follows:

§ 73.6018 Class A TV station protection of TV stations.

Class A TV stations must protect the TV service that would be provided by the facilities specified in the Table of TV Allotments in § 73.622(j), by authorized TV stations, and by applications that propose to expand TV stations' allotted or authorized coverage contour in any direction. Protection of these allotments, stations, and applications must be based on meeting the requirements of § 74.793 (b) through (e) of this chapter. An application to change the facilities of a Class A TV station will not be accepted if it fails to protect these TV allotments, stations, and applications in accordance with this section.

112. Revise § 73.6019 to read as follows:

§ 73.6019 Class A TV station protection of low power TV and TV translator stations.

An application to change the facilities of a Class A TV station will not be accepted if it fails to protect authorized low power TV and TV translator stations in accordance with the requirements of § 74.793(b) through (d) and (h) of this chapter. This protection must be afforded to applications for changes filed prior to the date the Class A station application is filed.

113. Revise § 73.6020 to read as follows:

§ 73.6020 Protection of stations in the land mobile radio service.

An application to change the facilities of an existing Class A TV station will not be accepted if it fails to protect stations in the land mobile radio service pursuant to the requirements specified in § 74.709 of this chapter.

114. Section 73.6022 is revised to read as follows:

§ 73.6022 Negotiated interference.

(a) Notwithstanding the technical criteria in this subpart, Subpart E of this part, and Subpart G of part 74 of this chapter regarding interference protection to and from Class A TV stations, Class A TV stations may negotiate agreements with parties of authorized and proposed TV, LPTV, TV translator, Class A TV stations or other affected parties to resolve interference concerns; provided, however, other relevant requirements are met with respect to the parties to the agreement. A written and signed agreement must be submitted with each application or other request for action by the Commission. Negotiated agreements under this paragraph can include the exchange of money or other considerations from one entity to another. Applications submitted pursuant to the provisions of this paragraph will be granted only if the Commission finds that such action is consistent with the public interest.

(b) [Reserved]

115. Revise § 73.6023 to read as follows:

§ 73.6023 Distributed transmission systems.

Station licensees may operate a commonly owned group of digital Class A stations with contiguous predicted TV noise-limited contours (pursuant to § 73.619(c)) on a common television channel in a distributed transmission system.

116. Section 73.6024 is amended by revising paragraphs (b), removing and reserving paragraph (c) and revising paragraph (d) to read as follows:

§ 73.6024 Transmission standards and system requirements.

* * * * *

(b) A Class A TV station may continue to operate with the transmitter operated under its previous LPTV license, provided such operation does not cause any condition of uncorrectable interference due to radiation of radio frequency energy outside of the assigned channel. Such operation must continue to meet the requirements of § 74.750 of this chapter.

(c) [Reserved]

(d) A Class A station must meet the emission requirements of § 74.794 of this chapter. Stations within 275 kilometers of the US-Mexico border shall specify the full-service emission mask.

117. Amend § 73.6025 by:

a. Revising paragraph (a) introductory text;

b. Removing paragraphs (a)(1) through (5);

c. Removing and reserving paragraph (b); and

d. Revising paragraph (d).

The revisions read as follows:

§ 73.6025 Antenna system and station location.

(a) Applications for modified Class A TV facilities proposing the use of directional antenna systems must include all appropriate documentation specified in § 73.625(c)(3).

* * * * *

(d) Class A TV stations are subject to the provisions in § 73.617(d) regarding blanketing interference.

118. Revise § 73.6026 to read as follows:

§ 73.6026 Broadcast regulations applicable to Class A television stations.

The following rules are applicable to Class A television stations:

(a) § 73.603 Numerical designation of television channels.

(b) § 73.624(b), (c) and (g) Television broadcast stations.

(c) § 73.658 Affiliation agreements and network program practice; territorial exclusivity in non-network program arrangements.

(d) § 73.664 Determining operating power.

(e) § 73.670 Commercial limits in children's programs.

(f) § 73.671 Educational and informational programming for children.

(g) § 73.673 Public information initiatives regarding educational and informational programming for children.

(h) § 73.688 Indicating instruments.

(i) § 73.1030 Notifications concerning interference to radio astronomy, research and receiving installations.

(j) § 73.3615(a) and (g) Ownership reports.

§ 73.6027 [Removed and Reserved]

119. Remove and reserve § 73.6027.

120. Section 73.8000 is revised to read as follows:

§ 73.8000 Incorporation by reference.

Certain material is incorporated by reference into this part with the approval of the Director of the Federal Register under 5 U.S.C. 552(a) and 1 CFR part 51. To enforce any edition other than that specified in this section, the Federal Communications Commission (FCC) must publish a document in the Federal Register and the material must be available to the public. All approved incorporation by reference (IBR) material is available for inspection at the FCC and at the National Archives and Records Administration (NARA). Contact the FCC at: Federal Communications Commission's Reference Information Center, located at the address of the FCC's main office indicated in 47 CFR 0.401(a). For information on the availability of this material at NARA, visit www.archives.gov/federal-register/cfr/ibr-locations.html or email fr.inspection@nara.gov. The material may be obtained from the following sources:(a) Advanced Television Systems Committee (ATSC), 1300 I Street NW, Suite 400E, Washington, DC 20005; website: www.atsc.org/standards.html.

(1) ATSC A/52: “ATSC Standard Digital Audio Compression (AC-3),” 1995, IBR approved for § 73.682.

(2) ATSC A/53 Parts 1-4 and 6: 2007 “ATSC Digital Television Standard,” (January 3, 2007) and ATSC A/53 Part 5: 2010 “ATSC Digital Television Standard: Part 5—AC-3 Audio System Characteristic,” (July 6, 2010); IBR approved for § 73.682. as listed below:

(i) A/53, Part 1:2007, “Digital Television System” (January 3, 2007),.

(ii) A/53, Part 2:2007, “RF/Transmission System Characteristics” (January 3, 2007).

(iii) A/53, Part 3:2007, “Service Multiplex and Transport Subsystem Characteristics” (January 3, 2007).

(iv) A/53, Part 4:2007, “MPEG-2 Video System Characteristics” (January 3, 2007), except for § 6.1.2 of A/53 Part 4: 2007, and the phrase “see Table 6.2” in section 6.1.1 Table 6.1 and section 6.1.3 Table 6.3.

(v) A/53, Part 5: 2010, “AC-3 Audio System Characteristics” (July 6, 2010).

(vi) A/53, Part 6:2007, “Enhanced AC-3 Audio System Characteristics” (January 3, 2007).

(3) ATSC A/65C: “ATSC Program and System Information Protocol for Terrestrial Broadcast and Cable, Revision C With Amendment No. 1 dated May 9, 2006,” (January 2, 2006), IBR approved for §§ 73.682.

(4) ATSC A/85:2013 “ATSC Recommended Practice: Techniques for Establishing and Maintaining Audio Loudness for Digital Television,” (March 12, 2013) (“ATSC A/85 RP”), IBR approved for § 73.682.

(5) ATSC A/321:2016, “System Discovery and Signaling” (March 23, 2016), IBR approved for § 73.682.

(6) ATSC A/322:2017 “Physical Layer Protocol” (June 6, 2017), IBR approved for § 73.682.

(b) Federal Communications Commission (FCC), Reference Information Center, located at the address of the FCC's main office indicated in 47 CFR 0.401(a), or at the FCC's Office of Engineering and Technology (OET) website: www.fcc.gov/oet/info/documents/bulletins/.

(1) OET Bulletin No. 69: “Longley-Rice Methodology for Evaluating TV Coverage and Interference” (February 6, 2004), IBR approved for § 73.616.

(2) [Reserved]

PART 74—EXPERIMENTAL RADIO, AUXILIARY, SPECIAL BROADCAST AND OTHER PROGRAM DISTRIBUTIONAL SERVICES

121. The authority for Part 74 continues to read as follows:

Authority: 47 U.S.C. 154, 302a, 303, 307, 309, 310, 325, 336, and 554.

122. Section 74.701 is amended by revising paragraph (f) to read as follows:

§ 74.701 Definitions.

* * * * *

(f) Low power TV station. A station authorized under the provisions of this subpart that may retransmit the programs and signals of a TV broadcast station and that may originate programming in any amount greater than 30 seconds per hour.

* * * * *

123. Section 74.732 is amended by revising paragraph (e) to read as follows:

§ 74.732 Eligibility and licensing requirements.

* * * * *

(e) A proposal to change the primary TV station being retransmitted or an application of a licensed translator station to include low power TV station operation, i.e., program origination will be subject only to a notification requirement.

* * * * *

124. Section 74.787 is amended by revising paragraph (a)(5)(v) to read as follows:

§ 74.787 Licensing.

(a) * * *

(5) * * *

* * * * *

(v) Pre-auction digital service area is the geographic area within the full power station's noise-limited contour that was protected in the incentive auction repacking process. The service area of the digital-to-digital replacement translator shall be limited to only the demonstrated loss area within the full power station's pre-auction digital service area, provided that an applicant for a digital-to-digital replacement television translator may propose a de minimis expansion of its full power pre-auction digital service area upon demonstrating that the expansion is necessary to replace a loss in its pre-auction digital service area.

* * * * *

125. Section 74.792 is amended by revising paragraph (b) to read as follows:

§ 74.792 Low power TV and TV translator station protected contour.

* * * * *

(b) The low power TV or TV translator protected contour is calculated from the authorized effective radiated power and antenna height above average terrain, using the F(50,90) signal propagation method specified in § 73.619(b)(1) of this chapter.

126. Section 74.793 is amended by revising paragraphs (b), (e), (g), and (h) to read as follows:

§ 74.793 Low power TV and TV translator station protection of broadcast stations.

* * * * *

(b) Except as provided in this section, interference prediction analysis is based on the interference thresholds (D/U signal strength ratios) and other criteria and methods specified in § 73.620 of this chapter.

* * * * *

(e) Protection to the authorized facilities of TV broadcast stations shall be based on not causing predicted interference to the population within the service area defined and described in § 73.619(c) of this chapter, except that a low power TV or TV translator station must not cause a loss of service to 0.5 percent or more of the population predicted to receive service from the authorized TV facilities.

* * * * *

(g) Protection to the authorized facilities of Class A TV stations shall be based on not causing predicted interference to the population within the service area defined and described in § 73.6010 of this chapter, respectively, except that a low power TV or TV translator station must not cause a loss of service to 0.5 percent or more of the population predicted to receive service from the authorized Class A TV facilities.

(h) Protection to the authorized facilities of low power TV and TV translator stations shall be based on not causing predicted interference to the population within the service area defined and described in § 74.792, except that a low power TV or TV translator station must not cause a loss of service to 2.0 percent or more of the population predicted to receive service from the authorized low power TV or TV translator station.

* * * * *

127. Section 74.794 is amended by revising the section heading, paragraphs (b) introductory text, (b)(1) and (2) to read as follows:

§ 74.794 Emissions.

* * * * *

(b) In addition to meeting the emission attenuation requirements of the simple or stringent mask (including attenuation of radio frequency harmonics), low power TV and TV translator stations authorized to operate on TV channels 22-24, (518-536 MHz), 32-36 (578-608 MHz), 38 (614-620 MHz), and 65-69 (776-806 MHz) must provide specific “out of band” protection to Radio Navigation Satellite Services in the bands: L5 (1164-1215 MHz); L2 (1215-1240 MHz) and L1 (1559-1610 MHz).

(1) An FCC-certificated transmitter specifically certified for use on one or more of the above channels must include filtering with an attenuation of not less than 85 dB in the GPS bands, which will have the effect of reducing harmonics in the GPS bands from what is produced by the transmitter, and this attenuation must be demonstrated as part of the certification application to the Commission.

(2) For an installation on one of the above channels with a transmitter not specifically FCC-certificated for the channel, a low pass filter or equivalent device rated by its manufacturer to have an attenuation of at least 85 dB in the GPS bands, which will have the effect of reducing harmonics in the GPS bands from what is produced by the transmitter, and must be installed in a manner that will prevent the harmonic emission content from reaching the antenna. A description of the low pass filter or equivalent device with the manufacturer's rating or a report of measurements by a qualified individual shall be retained with the station license. Field measurements of the second or third harmonic output of a transmitter so equipped are not required.

[FR Doc. 2022-24751 Filed 2-8-23; 8:45 am]

BILLING CODE 6712-01-P